DEPARTMENT OF COMMERCE

National Oceanic and Atmospheric Administration

50 CFR Part 660

[Docket No. 220915-0191]

RIN 0648-BL48

Magnuson-Stevens Act Provisions; Fisheries Off West Coast States; Pacific Coast Groundfish Fishery; Pacific Coast Groundfish Fishery Management Plan; Amendment 30; 2023-24 Biennial Specifications and Management Measures

AGENCY: National Marine Fisheries Service (NMFS), National Oceanic and Atmospheric Administration (NOAA), Commerce.

ACTION: Proposed rule; notice of availability of a draft environmental assessment; request for comments.

SUMMARY: This proposed rule would establish the 2023-24 harvest specifications for groundfish caught in the U.S. exclusive economic zone seaward of Washington, Oregon, and California, consistent with the Magnuson-Stevens Fishery Conservation and Management Act and the Pacific Coast Groundfish Fishery Management Plan. This proposed rule would also revise management measures intended to keep the total annual catch of each groundfish stock or stock complex within the annual catch limits. These proposed measures are intended to help prevent overfishing, rebuild overfished stocks, achieve optimum yield, and ensure management measures are based on the best scientific information available. This proposed rule would also make minor corrections to the regulations. Additionally, this proposed rule announces the receipt of exempted fishing permit applications. NMFS has made a preliminary determination that these applications warrant further consideration. NMFS requests public comment on these applications. This action also would implement portions of Amendment 30 to the Pacific Coast Groundfish Fishery Management Plan, which would specify a shortbelly rockfish catch threshold to initiate Council review; extend the length of the limited entry fixed gear sablefish primary season; change the use of Rockfish Conservation Area boundaries; expand the use of Block Area Closures to control catch of groundfish; and correct the definition of Block Area Closures. In accordance with the National Environmental Policy Act of 1969, as amended, NMFS also announces the availability of a draft environmental assessment that analyzes the potential effects of the associated proposed rule.

DATES: Comments must be received no later than November 14, 2022.

ADDRESSES: Submit your comments on the proposed rule, draft environmental assessment, and exempted fishing permit applications, identified by NOAA-NMFS-2022-0080, by the following method:

• Electronic Submissions: Submit all electronic public comments via the Federal e-Rulemaking Portal. Go to www.regulations.gov and enter NOAA-NMFS-2022-0080 in the Search box. Click the “Comment” icon, complete the required fields, and enter or attach your comments. The exempted fishing permit (EFP) applications will be available under Supporting Documents through the same link.

Instructions: Comments must be submitted by the above method to ensure that the comments are received, documented, and considered by NMFS. Comments sent by any other method, to any other address or individual, or received after the end of the comment period, may not be considered. All comments received are a part of the public record and NMFS will post for public viewing on www.regulations.gov without change. All personal identifying information (e.g., name, address, etc.), confidential business information, or otherwise sensitive information submitted voluntarily by the sender is publicly accessible. NMFS will accept anonymous comments (enter “N/A” in the required fields if you wish to remain anonymous). Please specify whether the comments provided are associated with the proposed rule, draft environmental assessment, or EFP applications.

Electronic Access

This rule is accessible via the internet at the Office of the Federal Register website at https://www.federalregister.gov/. The draft Environmental Assessment (EA) which addresses the National Environmental Policy Act, Presidential Executive Order 12866, and the Regulatory Flexibility Act, is accessible via the internet at the NMFS West Coast Region website at https://www.fisheries.noaa.gov/region/west-coast. Background information and documents including an analysis for this action (Analysis), which addresses the statutory requirements of the Magnuson Stevens Fishery Conservation and Management Act (Magnuson-Stevens Act) are available from the Pacific Fishery Management Council's website at https://www.pcouncil.org. The final 2022 Stock Assessment and Fishery Evaluation (SAFE) report for Pacific Coast groundfish, as well as the SAFE reports for previous years, are available from the Pacific Fishery Management Council's website at https://www.pcouncil.org.

FOR FURTHER INFORMATION CONTACT: Brian Hooper, Fishery Management Specialist, at 206-526-6117 or brian.hooper@noaa.gov.

SUPPLEMENTARY INFORMATION:

I. Background

Chapter 5 of the Pacific Coast Groundfish Fishery Management Plan (PCGFMP) requires the Pacific Fishery Management Council (Council) to assess the biological, social, and economic conditions of the Pacific coast groundfish fishery and use this information to develop harvest specifications and management measures at least biennially. This proposed rule is based on the Council's final recommendations for harvest specifications and management measures for the 2023-24 biennium made at its April and June 2022 meetings.

The Council deemed the proposed regulations necessary and appropriate to implement these actions in an August 29, 2022, letter from Council Executive Director, Merrick Burden, to Acting Regional Administrator Scott Rumsey. Under the Magnuson-Stevens Act, NMFS is required to publish proposed rules for comment after preliminarily determining whether they are consistent with applicable law. We are seeking comment on the proposed regulations in this action and whether they are consistent with the PCGFMP, the Magnuson-Stevens Act and its National Standards, and other applicable law.

Concurrent with this proposed rule, NMFS also published a Notice of Availability (NOA) to announce the proposed Amendment 30 to the PCGFMP. The NOA requests public review and comment on proposed changes to the Council fishery management plan document (87 FR 54445; September 6, 2022). Public comments are being solicited on the amendment through November 7, 2022, the end of the comment period for the NOA. Public comments on the proposed rule must be received by the end of the comment period on the Amendment, as published in the NOA, to be considered in the approval/disapproval decision on the Amendment. All comments received by the end of the comment period on the amendment, whether specifically directed to the Amendment, or the proposed rule, will be considered in the approval/disapproval decision. Comments received after that date will not be considered in the approval/disapproval decision on the amendment. To be considered, comments must be received by close of business on the last day of the comment period; that does not mean postmarked or otherwise transmitted by that date.

An action included in this proposed rule would affect the season dates for the retention of incidentally caught halibut in the sablefish primary fishery north of Point Chehalis. The Northern Pacific Halibut Act of 1982 (Halibut Act), 16 U.S.C. 773-773k, gives the Secretary of Commerce (Secretary) responsibility for implementing the provisions of the Convention between Canada and the United States for the Preservation of the Halibut Fishery of the North Pacific Ocean and Bering Sea (Halibut Convention), signed at Ottawa, Ontario, on March 2, 1953, as amended by a Protocol Amending the Convention (signed at Washington, DC, on March 29, 1979). The Halibut Act requires that the Secretary adopt regulations to carry out the purposes and objectives of the Halibut Convention and Halibut Act (16 U.S.C. 773c). Additionally, as provided in the Halibut Act, the Regional Fishery Management Councils having authority for the geographic area concerned may develop, and the Secretary of Commerce may implement, regulations governing harvesting privileges among U.S. fishermen in U.S. waters that are in addition to, and not in conflict with, approved International Pacific Halibut Commission (IPHC) regulations (16 U.S.C. 773c(c)).

A. Specification and Management Measure Development Process

In 2021, the Northwest Fisheries Science Center (NWFSC) conducted full stock assessments for Dover sole, lingcod, vermilion rockfish/sunset rockfish, and spiny dogfish. The NWFSC conducted data moderate assessments for copper rockfish, quillback rockfish, and squarespot rockfish off California. The NWFSC conducted an update assessment of sablefish. Additionally, the NWFSC reviewed catch-only assessment updates for a number of previously assessed stocks (arrowtooth flounder, petrale sole, canary rockfish and darkblotched rockfish), as well as a new yelloweye rockfish catch report. The NWFSC did not update assessments for the remaining stocks, so harvest specifications for these stocks are based on assessments from previous years. The full stock assessments used to set catch limits for this biennium are available on the Council's website (https://www.pcouncil.org/).

The Council's stock assessment review panel (STAR panel) reviewed the stock assessments, including assessments on stocks for which some biological indicators are available, as described below, for technical merit, and to determine that each stock assessment document was sufficiently complete. Finally, the Council's Scientific and Statistical Committee (SSC) reviewed the stock assessments and STAR panel reports and made its recommendations to the Council (Agenda Item G.5, June 2021 Council meeting; Agenda Item C.6, September 2021 Council Meeting; Agenda Item E.2, November 2021 Council Meeting).

The Council considered the new stock assessments, stock assessment updates, catch-only updates, public comment, recommendations from the SSC, and advice from its advisory bodies over the course of six Council meetings during development of its recommendations for the 2023-24 harvest specifications and management measures. At each Council meeting between June 2021 and June 2022, the Council made a series of decisions and recommendations that were, in some cases, refined after further analysis and discussion. Agenda Item G.6, Supplemental Revised Attachment 1, June 2021 describes the Council's meeting schedule for developing the 2023-24 biennial harvest specifications. Additionally, detailed information, including the supporting documentation the Council considered at each meeting, is available at the Council's website, www.pcouncil.org.

The 2023-24 biennial management cycle was the fourth cycle following PCGFMP Amendment 24 (80 FR 12567, March 10, 2015), which established default harvest control rules and was analyzed through an Environmental Impact Statement (EIS) (Final Environmental Impact Statement for Pacific Coast Groundfish Harvest Specifications and Management Measures for 2015-2016 and Biennial Periods Thereafter, and Amendment 24 to the PCGFMP, published January 2015). The EIS described the ongoing implementation of the PCGFMP and default harvest control rules. Under Amendment 24, the default harvest control rules used to determine the previous biennium's harvest specifications (i.e., overfishing limits (OFLs), acceptable biological catches (ABCs), and annual catch limits (ACLs)) are applied automatically to the best scientific information available to determine the future biennium's harvest specifications. NMFS implements harvest specifications based on the default harvest control rules used in the previous biennium unless the Council makes a recommendation to deviate from the default. Therefore, this rule implements the default harvest control rules, consistent with the last biennium (2021-22), for most stocks, and discusses Council-recommended departures from the defaults. The draft EA supporting this action identifies the preferred harvest control rules, management measures, and other management changes that were not described in the 2015 EIS, and will be posted on the NMFS West Coast Region webpage (see Electronic Access).

Information regarding the OFLs, ABCs, and ACLs proposed for groundfish stocks and stock complexes in 2023-24 is presented below, followed by a discussion of the proposed management measures for commercial and recreational groundfish fisheries.

II. Proposed Harvest Specifications

This proposed rule would set 2023-24 harvest specifications and management measures for 127 of the 128 groundfish stocks or management units which currently have ACLs or ACL contributions to stock complexes managed under the PCGFMP, except for Pacific whiting. Pacific whiting harvest specifications are established annually through a separate bilateral process with Canada.

The proposed OFLs, ABCs, and ACLs are based on the best available biological and socioeconomic data, including projected biomass trends, information on assumed distribution of stock biomass, and revised technical methods used to calculate stock biomass. The PCGFMP specifies a series of three stock categories for the purpose of setting maximum sustainable yield (MSY),¹ OFLs, ABCs, ACLs, and rebuilding standards. Category one represents the highest level of information quality available, while category three represents the lowest. Category one stocks are the relatively few stocks for which the NWFSC can conduct a “data rich” quantitative stock assessment that incorporates catch-at-age, catch-at-length, or other data. The SSC can generally calculate OFLs and overfished/rebuilding thresholds for these stocks, as well as ABCs, based on the uncertainty of the biomass estimated within an assessment or the variance in biomass estimates between assessments for all stocks in this category. The set of category two stocks includes a large number of stocks for which some biological indicators are available, yet status is based on a “data-moderate” quantitative stock assessment. The category three stocks include minor stocks which are caught, but for which there is, at best, only information on landed biomass. For stocks in this category, there is limited data available for the SSC to quantitatively determine MSY, OFL, or an overfished threshold. Typically, catch-based methods (e.g., depletion-based stock reduction analysis, depletion corrected average catch, and average catches) are used to determine the OFL for category three stocks. A detailed description of each of these categories can be found in Section 4.2 of the PCGFMP.

¹ MSY is the largest long-term average catch that can be taken from a fish stock under prevailing environmental and fishery conditions.

A. Proposed OFLs for 2023 and 2024

The OFL serves as the maximum amount of fish that can be caught in a year without resulting in overfishing. Overfishing occurs when a stock has a harvest rate, denoted as Fx%, is set higher than the rate that produces the stock's MSY. The SSC derives OFLs for groundfish stocks with stock assessments by applying the harvest rate to the current estimated biomass (B). Harvest rates represent the rates of fishing mortality (F) that will reduce the female spawning potential ratio (SPR) to X percent of its unfished level. As an example, a harvest rate of F40% is more aggressive than F45% or F50% harvest rates because F40% allows more fishing mortality on a stock (as it allows a harvest rate that would reduce the stock to 40 percent of its unfished level). The OFL does not account for scientific or management uncertainty, so the SSC typically recommends an ABC that is lower than the OFL in order to account for this uncertainty. Usually, the greater the amount of scientific uncertainty, the lower the ABC is set compared to the OFL.

For 2023-24, the Council maintained its policy of using a default harvest rate as a proxy for the fishing mortality rate that is expected to achieve FMSY. The Council also maintained the same default harvest rate proxies as used in the 2021-22 biennium, based on the SSC's recommendations: F30% for flatfish (meaning an SPR harvest rate that would reduce the stock to 30 percent of its unfished level), F50% for rockfish (including longspine and shortspine thornyheads), F50% for elasmobranchs, and F45% for other groundfish such as sablefish and lingcod. For unassessed stocks, the Council recommended using a historical catch-based approach (e.g., average catch, depletion-corrected average catch, or depletion-based stock reduction analysis) to set the OFL. See Tables 1a and 2a to Part 660, Subpart C in the proposed regulatory text supporting this rule for the proposed 2023-24 OFLs.

The SAFE document for 2022, includes a detailed description of the scientific basis for all of the SSC-recommended OFLs proposed in this rule, and is available at the Council's website, www.pcouncil.org.

B. Proposed ABCs for 2023 and 2024

The ABC is the stock or stock complex's OFL reduced by an amount associated with scientific uncertainty. The SSC-recommended P star-sigma approach determines the amount by which the OFL is reduced to account for this uncertainty. Under this approach, the SSC recommends a sigma (σ) value. The σ value is generally based on the scientific uncertainty in the biomass estimates generated from stock assessments and is usually related to the stock category. After the SSC determines the appropriate σ value, the Council chooses a P star (P*) based on its chosen level of risk aversion to address the consequences of the stock being elsewhere within the uncertainty represented by sigma.

A P* of 0.5 equates to no additional reduction beyond the σ value reduction. The PCGFMP specifies the upper limit of P* will be 0.45. The P*-sigma approach is discussed in detail in the proposed and final rules for the 2011-12 (75 FR 67810, November 3, 2010; 76 FR 27508, May 11, 2011) and 2013-14 (77 FR 67974, November 12, 2012; 78 FR 580, January 3, 2013) biennial harvest specifications and management measures.

The SSC quantified major sources of scientific uncertainty in the estimates of OFLs and generally recommended a σ value of 0.5 for category one stocks, a σ value of 1.0 for category two stocks, and a σ value of 2.0 for category three stocks. For category two and three stocks, there is greater scientific uncertainty in the OFL estimate because the assessments for these stocks are informed by less data than the assessments for category one stocks. Therefore, the scientific uncertainty buffer is generally greater than that recommended for stocks with data-rich stock assessments. Assuming the same P* is applied, a larger σ value results in a larger reduction from the OFL. For 2023-24, the Council continued the general policy of using the SSC-recommended σ values for each stock category.

For 2023-24, the Council maintained the P* policies it established for the previous biennium for most stocks, except when calculating the contribution of black rockfish to the Oregon blue/deacon/black rockfish complex. The Council considered alternative P* values for lingcod south of 40°0′ N lat., lingcod north of 40°10′ N lat., sablefish, spiny dogfish, vermilion and sunset rockfishes south of 4010′ N lat., and vermilion and sunset rockfishes north of 40°0′ N lat., but ultimately decided to maintain the default P* value used in the previous biennium. The Council recommended using P* values of 0.45 for all individually managed category one stocks, except yelloweye rockfish. Combining the category one σ value of 0.5 with the P* value of 0.45 results in a reduction of 6.1 percent from the OFL when deriving the ABC. For category two stocks, the Council's general policy was to apply a P* of 0.4, with a few exceptions. The Council recommended applying a P* of 0.45 for big skate, English sole, lingcod south of 40°10′ N lat., lingcod north of 40°10′ N lat., longnose skate, Pacific ocean perch, and all of the stocks managed in the Oregon blue/deacon/black rockfish complex, Nearshore Rockfish complexes, Shelf Rockfish Complexes, Slope Rockfish complexes, and the Other Fish complex. When combined with the σ values of 1.00 for category two, a P* value of 0.45 corresponds to an 11.8 percent reduction and a P* value of 0.40 corresponds to a 22.4 percent reduction. For category three stocks, the Council's general policy was to apply a P* value of 0.45 for these stocks, except the Council recommended a P* value of 0.40 for cowcod between 40°10′ N lat. and 34°27′ N lat., Pacific cod, starry flounder, and all stocks in the Other Flatfish complex. When combined with the σ values of 2.00 for category three, a P* value of 0.45 corresponds to 22.2 percent reduction and a P* value of 0.40 corresponds to a 39.8 percent reduction. See Table 1-3 of Agenda F.3, Supplemental Revised Attachment 1, April 2022 Council meeting for the full description of σ and P* values by stock. See Tables 1a and 2a to Part 660, Subpart C in the in the proposed regulatory text of this proposed rule for the proposed 2023-24 ABCs.

C. Proposed ACLs for 2023 and 2024

The Council recommends ACLs for each groundfish stock or management unit as defined in the PCGFMP. To determine the ACL for each stock, the Council will determine the best estimate of current stock abundance and its relation to the precautionary and overfished/rebuilding thresholds. Under the PCGFMP, the biomass level that produces MSY, or BMSY, is defined as the precautionary threshold. When the biomass for an assessed category one or two stock falls below BMSY, the ACL is set below the ABC using a harvest rate reduction to help the stock return to the BMSY level, which is the management target for groundfish stocks. If a stock biomass is larger than BMSY, the ACL may be set equal to the ABC, or the ACL may be set below the ABC to address conservation objectives, socioeconomic concerns, management uncertainty, or other factors necessary to meet management objectives. The overfished/rebuilding threshold is 25 percent of the estimated unfished biomass level for non-flatfish stocks or 50 percent of BMSY, if known. The overfishing/rebuilding threshold for flatfish stocks is 12.5 percent of the estimated unfished biomass level. When a stock is below BMSY (the precautionary threshold) but above the overfishing/rebuilding threshold, it is considered to be in the precautionary zone.

Under PCGFMP Amendment 24, the Council set up default harvest control rules, which established default policies that would be applied to the best available scientific information to set ACLs each biennial cycle, unless the Council has reasons to diverge from that harvest control rule. A complete description of the default harvest control rules for setting ACLs is described in the proposed and final rule for the 2015-16 harvest specifications and management measures and PCGFMP Amendment 24 (80 FR 687, January 6, 2015; 80 FR 12567, March 10, 2015).

The PCGFMP defines the 40-10 harvest control rule for stocks with a BMSY proxy of B40% that are in the precautionary zone as the standard reduction. The analogous harvest control rule with the standard reduction for assessed flatfish stocks is the 25-5 harvest control rule for flatfish stocks with a BMSY proxy of B25%. The further the stock biomass is below the precautionary threshold, the greater the reduction in ACL relative to the ABC, until at B10% for a stock with a BMSY proxy of B40%, or B5% for a stock with a BMSY proxy of B25%, the ACL would be set at zero.

Under the PCGFMP, harvest control rules are typically applied at the component species level for stock complexes to calculate ACLs. Resulting contribution values of each component species, or ACL contributions, are summed to equal the stock complex ACLs. For example the ACL contributions of black rockfish off of Oregon and quillback rockfish contribute to the overall ACL for Oregon black/deacon/blue rockfish stock complex and the Nearshore Rockfish complexes respectively.

Under the PCGFMP, the Council may recommend setting the ACL at a different level than what the default harvest control rules specify as long as the ACL does not exceed the ABC and complies with the requirements of the Magnuson-Stevens Act (see the Analysis for information on the Magnuson-Stevens Act). For most of the stocks and stock complexes managed with harvest specifications for 2023-24, the Council chose to maintain the default harvest control rules from the previous biennial cycle. For the Oregon black/deacon/blue rockfish stock complex and the Nearshore Rockfish complexes, the Council recommended deviating from the default harvest control rule by changing how the contribution of black rockfish off of Oregon and quillback rockfish off of California are calculated. Table 1 presents a summary table of the proposed changes to default harvest control rules for certain stocks for 2023-24. Each of these changes is discussed further below.

Table 1—Proposed Changes to Harvest Control Rules for 2023-24
Stock complex component | Alternative | Harvest control rule | ACL contribution to stock complex ᵃ ᵇ
Black Rockfish off of Oregon | Default | ACL contribution = ABC (P* = 0.45) | 477 mt (2023), 471 mt (2024).
| Proposed change | ACL contribution = 2020 ABC | 512 mt (2023), 512 mt (2024).
Quillback Rockfish off of California | Default | ACL contribution < ABC with the 40-10 adjustment ᶜ off California only (P* = 0.45) | 2023 statewide ACL contribution = 0.11 mt; 2024 statewide ACL contribution = 0.42 mt.
| Proposed change | ACL contribution < ABC (SPR 0.55; P* 0.45) | 2023 statewide ACL contribution = 1.76 mt; 2024 statewide ACL contribution = 1.93 mt.
ᵃ Default ACL is for 2023 and 2024 under the default harvest control rule, Proposed change ACL is for 2023 and 2024 under the alternative harvest specifications.
ᵇ The ACL contribution for quillback rockfish off of California are apportioned to create the ACL contributions to the nearshore rockfish complexes north and south of 40° 10′ N lat. The apportionment was determined by the proportion of catch between 2005 and 2020 north and south of 40°10′ N lat. in California where 49.6 percent of the statewide ACL is apportioned to the area between 42° and 40°10′ N lat. for the California contribution to the northern complex, and 50.4 percent to the area south of 40°10′ N lat. for the contribution to the southern complex.
ᶜ The 40-10 adjustment is applied to only some component species when calculating the complex ACL, where a precautionary reduction is warranted, per the PCGFMP at section 4.6.1. The 40-10 adjustment reduces the harvest rate to help the stock return to the maximum sustainable yield level.

Oregon Black Rockfish

Oregon black rockfish is a category two stock, managed as part of the Oregon blue/deacon/black rockfish complex. Oregon black rockfish was first assessed as a single stock in 2015. In 2019, the Oregon black rockfish stock was estimated to be at 56 percent of its unfished spawning output. For 2021-22, the NWFSC conducted a catch-only update to the 2015 assessment by adding realized catch data from 2015-2018 and estimates of catch for 2019 and 2020. For 2021-2022, the Council recommended and NMFS approved a departure from the default harvest control rule on a case-specific basis to adopt an ABC for both years equal to the 2020 value (512 metric tons). The intent of the departure was to provide fishery stability, without significantly affecting stock status.

Black rockfish is the primary target stock for nearshore recreational and commercial fisheries in Oregon and attainment of the ACL contribution is high. In 2017, Oregon recreational fisheries were shut down early because of black rockfish concerns, and the Council received public testimony as to the severe negative consequences for charter business operators and tourist-revenue dependent coastal communities resulting from this closure. Due to the constraining nature of black rockfish in Oregon and the biomass level being above the precautionary threshold, the Oregon Department of Fish and Wildlife (ODFW) recommended an alternative harvest control rule where the 2020 ABC of 512 mt is specified in 2023 and 2024, and the ACL contributions are set equal to ABCs. The Magnuson-Stevens Act and the PCGFMP allow the SSC to recommend an ABC that differs from the ABC control rule on a case by case basis, provided the SSC offers justification for its recommended deviation. In 2025, the current default harvest control rule (ABC=ACL, P* of 0.45) would once again apply to Oregon black rockfish.

Catch-only projections for black rockfish (Agenda Item E.3, Attachment 3, November 2021) were completed for two scenarios that differed according to the timeframe for which ABCs/ACL contributions of 512 mt were assumed (2021-2022 vs 2021-2024). For both scenarios, previously assumed catch projections for 2019 and 2020 were replaced with the lower observed catches for those years. Under both scenarios, the long-term projections result in a projected stock biomass at 54 percent of its unfished spawning output in 2032. Stocks with biomass estimates greater than 40 percent depletion are above the precautionary thresholds in the PCGFMP. Because the biomass is the same under either scenario, the SSC endorsed this alternative harvest control rule for use in 2023-24.

Therefore based on the Analysis, the Council has recommended and NMFS is proposing alternative harvest specifications for black rockfish off of Oregon as part of the Oregon blue/deacon/black rockfish complex. The alternative harvest control rule would implement an ACL for the 2023 and 2024 biennium of 512 mt in each year. This ACL contributes to the overall stock complex ACL.

Quillback Rockfish Off California

Quillback rockfish is managed as part of the Nearshore Rockfish complexes north and south of 40°10′ N lat. Quillback rockfish was assessed in 2021 (Agenda Item E.2, Attachment 4, November 2021). Due to differences in data availability and fishery exploitation, the quillback rockfish assessment split the species into three separate assessment areas by state boundary line. For purposes of stock status determination (i.e., whether the stock or stock complex is subject to overfishing or overfished), the assessments were combined to reflect (1) the status of quillback rockfish as a part of the nearshore rockfish complexes and (2) that quillback rockfish off California are not a stock defined separately from quillback rockfish off Oregon and Washington. However, the individual assessment areas suggested differences in abundance and potential localized depletion, which are addressed through this action as described below. The assessment for the portion of quillback rockfish off California indicated that portion is depleted.

The Council recommended, and NMFS proposes, applying the default harvest control rule, P* 0.45, for quillback rockfish off of Washington and Oregon. Under the default harvest control rule for the portion quillback rockfish off of California, a precautionary adjustment (i.e., the 40-10 adjustment) would be applied. However, the Council anticipated scientific information about the population dynamics of the various stocks would improve over time. This information would result in improved estimates of appropriate harvest rates and the default values from the 40-10 adjustment could be replaced. In response to the best available scientific information related to the depletion specific to the portion of quillback rockfish off California estimated in the assessment, the Council recommended additional steps to reduce mortality in that assessment area. The Council considered a range of alternative harvest control rules for the portion of quillback rockfish off California based on the January 2022 draft rebuilding analysis which is available at https://www.pcouncil.org/stock-assessments-star-reports-stat-reports-rebuilding-analyses-terms-of-reference/groundfish-stock-assessment-documents/. The Council's SSC endorsed the rebuilding analysis for use in management, with which the alternative harvest control rules are consistent. However, as noted above, because for status determination purposes in the 2023-2024 biennium, quillback rockfish off California are not a stock defined separately from quillback rockfish off Oregon and Washington and are part of a stock complex. NMFS has not determined that any stock or stock complex is overfished and development of a rebuilding plan is not required.

The Council recommended setting the California statewide ACL contribution of quillback rockfish to the complexes below the statewide ABC contribution of quillback rockfish to the complexes to allow the spawning output of quillback rockfish in this assessment area to increase toward the management target. The statewide harvest specifications were then apportioned to create the ACL contributions to the nearshore rockfish complexes north and south of 40°10′ N lat. The apportionment was determined by the proportion of catch between 2005 and 2020 north and south of 40°10′ N lat. in California where 49.6 percent of the statewide ACL is apportioned to the area between 42° and 40°10′ N lat. for the California contribution to the northern complex, and 50.4 percent to the area south of 40°10′ N lat. for the contribution to the southern complex. The California statewide ACL was used to inform the Council's recommendation on harvest specifications for the nearshore rockfish complexes, and precautionary management measures for quillback rockfish (see Sections III.G, III.M, and III.N).

Therefore, based on the best scientific information available as detailed in the Analysis and Agenda Item F.6.a Supplemental Groundfish Management Team Report 2, June 2022, the Council has recommended, and NMFS is proposing, alternative harvest specifications for quillback rockfish as part of the Nearshore Rockfish complexes north and south of 40°10′ N lat. The alternative harvest control rule would implement a statewide ACL contribution of 1.76 mt in 2023 and 1.93 mt in 2024. Based on the apportionment described above, the ACL contribution for the portion of quillback rockfish off of California to the Nearshore Rockfish complex north of 40°10′ N lat. would be 0.87 mt in 2023 and 0.89 mt in 2024. The ACL contribution for the portion of quillback rockfish off of California to the Nearshore Rockfish complex south of 40°10′ N lat. would be 0.96 mt in 2023 and 0.97 mt in 2024.

Stocks in Rebuilding Plans

When NMFS declares a stock overfished, the Council must develop and manage the stock in accordance with a rebuilding plan. For overfished stocks in the PCGFMP, this means that the harvest control rule for overfished stocks sets the ACL based on the rebuilding plan. The proposed rules for the 2011-12 (75 FR 67810, November 3, 2010) and 2013-14 (77 FR 67974, November 14, 2012) harvest specifications and management measures contain extensive discussions on the management approach used for overfished stocks, which are not repeated here. In addition, the SAFE document posted on the Council's website at https://www.pcouncil.org/groundfish/safe-documents/ contains a detailed description of each overfished stock, its status and management, as well as the SSC's approach for rebuilding analyses. This document provides information on yelloweye rockfish, which is the only remaining rebuilding stock in the PCGFMP. NMFS declared yelloweye rockfish overfished in 2002. The Council adopted a rebuilding plan for the stock in 2004, and revised the rebuilding plan in 2011 under Amendment 16-4 to the PCGFMP, and again during the 2019-20 biennium (83 FR 63970, December 12, 2018). The Council proposed yelloweye rockfish ACLs for 2023 and 2024 are based on the current yelloweye rockfish rebuilding plan, so additional details are not repeated here. Appendix F to the PCGFMP contains the most recent rebuilding plan parameters, as well as a history of each overfished stock, and can be found at https://www.pcouncil.org/groundfish/fisherymanagement-plan/.

Additionally, the Council recommended, and NMFS is proposing, to establish annual catch targets (ACTs) within the non-trawl allocation harvest guideline (HG). The non-trawl sector includes the limited entry fixed gear (LEFG) and open access (OA) fisheries as well as the recreational fisheries for Washington, Oregon, and Californ ia. The nearshore fisheries occur seaward of Oregon and California and are subject to both Federal and state HGs as well as other state-specific management measures. The non-nearshore fisheries include the limited entry and Federal open access fixed gear fleets. Tables 2 and 3 outline the proposed harvest specifications for 2023 and 2024 for yelloweye rockfish.

Table 2—2023 Harvest Specifications for Yelloweye Rockfish
| OFL (mt) | ABC (mt) | ACL (mt) | HG (mt) | ACT (mt)
All sectors | 123 | 103 | 66 | 55.3 |
Non-trawl |  |  |  | 50.9 | 39.9
Non-Nearshore |  |  |  | 10.7 | 8.4
Nearshore
Washington Recreational |  |  |  | 13.2 | 10.4
Oregon Recreational |  |  |  | 11.7 | 9.2
California Recreational |  |  |  | 15.3 | 12.0
Trawl |  |  |  | 4.4 |

Table 3—2024 Harvest Specifications for Yelloweye Rockfish
| OFL (mt) | ABC (mt) | ACL (mt) | HG (mt) | ACT (mt)
All sectors | 123 | 103 | 66 | 55.3 |
Non-trawl |  |  |  | 50.9 | 39.9
Non-Nearshore |  |  |  | 10.7 | 8.4
Nearshore
Washington Recreational |  |  |  | 13.2 | 10.4
Oregon Recreational |  |  |  | 11.7 | 9.2
California Recreational |  |  |  | 15.3 | 12.0
Trawl |  |  |  | 4.4 |

The Council recommended using ACTs for the non-trawl sector as a precaution. As discussed in the Analysis, because yelloweye rockfish catch has been restricted for many years, it is difficult to project encounter rates. This precautionary approach to higher catch limits would allow more access to target fisheries for the non-trawl sector, while also managing for the uncertainty and volatility in catch of this rebuilding stock by this sector.

D. Summary of ACL Changes From 2022 to 2023-24

Table 4 compares the ACLs for major stocks and stock complexes for 2022 and 2023-24. Under this proposed rule, of the 42 stocks and stock complexes managed with ACLs in 2022, 8 stocks would have higher ACLs in 2023 and 2024 than in 2022, 23 would have ACLs that would decrease in 2023 from 2022, and 7 would have ACLs that would be close to the amount in place in 2022. Three stocks (Dover sole, Pacific cod, and starry flounder), and one stock complex (Other fish), would have the same ACLs in 2022, 2023, and 2024. Under this proposed rule, the ACL for yelloweye rockfish would increase by 29.4 percent. This is based on the projections from the 2017 rebuilding analysis and the default harvest control rule specifying ACLs based on the SPR harvest rate of 65 percent. This predicted slow rate of rebuilding is anticipated for this slow growing species. One stock (arrowtooth flounder) has an ACL that would increase more than 100 percent. This increase is due to new information provided in the 2021 catch-only assessment update. The 37.5 percent increase in sablefish north of 36° N lat. is due to new information from the update assessment of sablefish. The 31.1 percent decrease in lingcod south of 40°10′ N lat. is due to new information provided in the 2021 stock assessment.

Table 4—ACLs for Major Stocks and Management Units for 2022, and 2023-24
Stock/complex | Area | ACL (mt): 2022 | ACL (mt): 2023 | ACL (mt): 2024 | Percent change 2022 to 2023
YELLOWEYE ROCKFISH | Coastwide | 51 | 66 | 66 | 29.4
Arrowtooth Flounder | Coastwide | 8,458 | 18,632 | 14,178 | 120.3
Big Skate | Coastwide | 1,389 | 1,320 | 1,267 | −5.0
Black Rockfish | WA | 291 | 290 | 289 | −0.3
Black Rockfish | CA | 341 | 334 | 329 | −2.1
Bocaccio | S of 40°10′ | 1,724 | 1,842 | 1,828 | 6.8
Cabezon | CA | 195 | 182 | 171 | −6.7
Cabezon/Kelp Greenling | WA | 17 | 20 | 17 | 17.6
Cabezon/Kelp Greenling | OR | 190 | 185 | 180 | −2.6
California Scorpionfish | Coastwide | 275 | 262 | 252 | −4.7
Canary Rockfish | Coastwide | 1,307 | 1,284 | 1,267 | −1.8
Chilipepper | S of 40°10′ | 2,259 | 2,183 | 2,121 | −3.4
Cowcod | S of 40°10′ | 82 | 80 | 79 | −2.4
Darkblotched Rockfish | Coastwide | 831 | 785 | 750 | −5.5
Dover Sole | Coastwide | 50,000 | 50,000 | 50,000 | 0.0
English Sole | Coastwide | 9,101 | 9,018 | 8,960 | −0.9
Lingcod | N of 40°10′ | 4,958 | 4,378 | 3,854 | −11.7
Lingcod | S of 40°10′ | 1,172 | 726 | 722 | −38.1
Longnose Skate | Coastwide | 1,761 | 1,708 | 1,660 | −3.0
Longspine Thornyhead | N of 34°27′ | 2,452 | 2,295 | 2,162 | −6.4
Longspine Thornyhead | S of 34°27′ | 774 | 725 | 683 | −6.3
Pacific Cod | Coastwide | 1,600 | 1,600 | 1,600 | 0.0
Pacific Ocean Perch | N of 40°10′ | 3,711 | 3,573 | 3,443 | −3.7
Petrale Sole | Coastwide | 3,660 | 3,485 | 3,285 | −4.8
Sablefish | N of 36° | 6,172 | 8,486 | 7,780 | 37.5
Sablefish | S of 36° | 2,203 | 2,338 | 2,143 | 6.1
Shortspine Thornyhead | N of 34°27′ | 1,393 | 1,359 | 1,328 | −2.4
Shortspine Thornyhead | S of 34°27′ | 737 | 719 | 702 | −2.4
Spiny Dogfish | Coastwide | 1,585 | 1,456 | 1,407 | −8.1
Splitnose | S of 40°10′ | 1,630 | 1,592 | 1,553 | −2.3
Starry Flounder | Coastwide | 392 | 392 | 392 | 0.0
Widow Rockfish | Coastwide | 13,788 | 12,624 | 11,482 | −8.4
Yellowtail Rockfish | N of 40°10′ | 5,831 | 5,666 | 5,560 | −2.8
Blue/Deacon/Black Rockfish | OR | 600 | 597 | 594 | −0.5
Nearshore Rockfish North | N of 40°10′ | 77 | 93 | 91 | 20.8
Nearshore Rockfish South | S of 40°10′ | 1,010 | 887 | 891 | −11.2
Other Fish | Coastwide | 223 | 223 | 223 | 0.0
Other Flatfish | Coastwide | 4,838 | 4,862 | 4,874 | 0.5
Shelf Rockfish North | N of 40°10′ | 1,450 | 1,283 | 1,278 | −11.5
Shelf Rockfish South | S of 40°10′ | 1,428 | 1,469 | 1,469 | 2.9
Slope Rockfish North | N of 40°10′ | 1,568 | 1,540 | 1,516 | −1.8
Slope Rockfish South | S of 40°10′ | 705 | 701 | 697 | −0.6
Note: Rebuilding stocks are capitalized.

III. Proposed Management Measures

This section describes proposed management measures used to further allocate the ACLs to the various components of the fishery (i.e., biennial fishery harvest guidelines and set-asides) and management measures to control fishing. Management measures for the commercial fishery modify fishing behavior during the fishing year to ensure catch does not exceed the ACL, and include trip and cumulative landing limits, time/area closures, size limits, and gear restrictions. Management measures for the recreational fisheries include bag limits, size limits, gear restrictions, fish dressing requirements, and time/area closures.

A. Deductions From the ACLs

Before making allocations to the primary commercial and recreational components of groundfish fisheries, the Council recommends “off-the-top deductions,” or deductions from the ACLs to account for anticipated mortality for certain types of activities: harvest in Pacific Coast treaty Indian tribal fisheries; harvest in scientific research activities; harvest in non-groundfish fisheries (incidental catch); and harvest that occurs under EFPs. These off-the-top deductions are proposed for individual stocks or stock complexes and can be found in the footnotes to Tables 1a and 2a to part 660, subpart C in the regulatory text of this proposed rule. The details of the EFPs are discussed below in Section III.H.

B. Tribal Fisheries

The Quileute Tribe, Quinault Indian Nation, Makah Indian Tribe, and Hoh Indian Tribe (collectively, “the Pacific Coast Tribes”) implement management measures for Tribal fisheries both independently as sovereign governments and cooperatively with the management measures in the Federal regulations. The Pacific Coast Tribes work through the Pacific Fishery Management Council process to maintain groundfish set-asides, harvest guidelines, and allocations pursuant to treaty fishing rights and as co-managers of the resource. The Pacific Coast Tribes may adjust their Tribal fishery management measures inseason to stay within the Tribal set-asides and allocations and within the estimated impacts to overfished stocks. Table 5 provides the proposed Tribal harvest set-asides and allocations proposed for the 2023-24 biennium for groundfish species other than Pacific whiting, which is allocated through a separate annual specifications process. These targets are consistent with the 2022 targets, with the exception of Pacific ocean perch (increased to 130 mt) and darkblotched rockfish (increased to 5 mt).

Table 5—Proposed Tribal Harvest Set-Asides and Allocations for the 2023-24 Biennium Compared to Those in Place in 2022
Stock | Off the top deduction: 2022 (mt) | Off the top deduction: 2023-2024 (mt)
Arrowtooth Flounder | 2,041 | 2,041
Big Skate | 15 | 15
WA Black Rockfish | 18 | 18
Canary Rockfish | 50 | 50
Darkblotched Rockfish | 0.2 | 5
Dover Sole | 1,497 | 1,497
English Sole | 200 | 200
Lingcod N of 40°10′ N lat | 250 | 250
Longnose Skate | 220 | 220
Longspine Thornyhead N of 34°27′ N lat | 30 | 30
Pacific cod | 500 | 500
Pacific Ocean Perch | 9.2 | 130
Petrale Sole | 350 | 350
Sablefish N of 36° N lat.ᵃ | 656.6 | 849 (2023) 778 (2024)
Shortspine Thornyhead S of 34°27′ N lat | 50 | 50
Spiny Dogfish | 275 | 275
Widow rockfish | 200 | 200
Yellowtail Rockfish | 1,000 | 1,000
WA Cabezon/Kelp Greenling | 2 | 2
Nearshore Rockfish North | 1.5 | 1.5
Other Flatfish | 60 | 60
Shelf Rockfish North | 30 | 30
Slope Rockfish North | 36 | 36
ᵃ Sablefish is allocated according to Amendment 6 of the PCGFMP and 50 CFR 660.50(f)(2).

The Pacific Coast Tribes proposed trip limit management in Tribal fisheries for 2023-24—for several stocks, including several rockfish stocks and stock complexes. This rule proposes the trip limits for Tribal fisheries as provided to the Council at its June 2022 meeting in Supplemental Tribal Report 1, Agenda Item F.6.a. For rockfish stocks, Tribal regulations will continue to require full retention of all overfished rockfish stocks and marketable non-overfished rockfish stocks. The Pacific Coast Tribes will continue to develop management measures, including depth, area, and time restrictions, in the directed Tribal Pacific halibut fishery in order to minimize incidental catch of yelloweye rockfish.

C. Biennial Fishery Allocations

The Council routinely recommends 2-year trawl and non-trawl allocations during the biennial specifications process for stocks without formal allocations (as defined in Section 6.3.2 of the PCGFMP) or stocks where the long-term allocation is suspended because the stock is declared overfished.

The trawl and non-trawl allocations, with the exception of sablefish north of 36° N lat., are based on the fishery harvest guideline. The fishery harvest guideline is the tonnage that remains after subtracting the off-the-top deductions described in Section III., A, entitled “Deductions from the ACLs,” in this preamble. The trawl and non-trawl allocations and recreational harvest guidelines are designed to accommodate anticipated mortality in each sector as well as variability and uncertainty in those mortality estimates. Additional information on the Council's allocation framework and formal allocations can be found in Section 6.3 of the PCGFMP and § 660.55 of the Federal regulations. Allocations described below are detailed in the harvest specification tables appended to 50 CFR part 660, subpart C in the regulatory text of this proposed rule.

Big Skate

The Council recommended and NMFS is proposing the allocations shown in Table 6 for big skate in 2023 and 2024. These allocations are anticipated to accommodate estimates of mortality of big skate, by sector, in 2023-24. Allocations of big skate are determined on a biennial basis. For 2023-24, the Council elected to maintain the current big skate split of 95 percent to the trawl fishery and 5 percent to the non-trawl fishery. This results in a trawl allocation of 1,197.2 mt and a non-trawl allocation of 63 mt in 2023, as well as a trawl allocation of 1,146.8 mt and a non-trawl allocation of 60.4 mt in 2024. No further allocations or deductions are made.

Table 6—2023 and 2024 Trawl/Non-Trawl Allocations of Big Skate
| Percentage | 2023 Allocation (mt) | 2024 Allocation (mt)
Trawl | 95 | 1,197.2 | 1,146.8
Non-trawl | 5 | 63 | 60.4

Bocaccio South of 40°10′ N Lat.

Specifications for bocaccio are determined through the biennial specifications process. For 2023-24, the Council recommended and NMFS is proposing the allocations shown in Table 7 for bocaccio in 2023 and 2024, which maintain the allocation structure from the previous biennium. These allocations are anticipated to accommodate estimates of mortality of bocaccio, by sector, in 2023-24. In each year, the fishery harvest guideline is split with 39 percent going to the trawl sectors and 61 percent to the non-trawl sectors. For the trawl sector this results in an allocation of 700.3 mt in 2023 and 694.9 mt in 2024. The non-trawl sectors would receive 1,093.5 mt in 2023 and 1,085 mt in 2024. The non-trawl allocation is then distributed between the commercial (nearshore and non-nearshore fisheries) and California recreational fisheries. In 2023, the commercial sector would receive 30.9 percent of the non-trawl allocation or 337.9 mt, and the California recreational sector would receive 755.6 mt. In 2024, the same percentage would remain in place with the commercial sector receiving 335.3 mt and the California recreational sector receiving 749.7 mt.

Table 7—2023 and 2024 Allocations of Bocaccio
| Percentage | 2023 Allocation (mt) | 2024 Allocation (mt)
Trawl | 39 | 700.3 | 694.9
Non-trawl ᵃ | 61 | 1,093.5 | 1,085
ᵃ The California recreational sector share of the non-trawl allocation is 755.6 mt in 2023 and 749.7 mt in 2024.

Canary Rockfish

The Council recommended and NMFS is proposing the allocations in Table 8 for canary rockfish in 2023 and 2024, which maintain the status quo proportions from the 2021-22 biennium. These allocations are anticipated to accommodate estimates of mortality of canary rockfish, by sector, in 2023-24. For canary rockfish, the fishery harvest guideline is distributed to the trawl and non-trawl sectors with trawl receiving 72.3 percent and non-trawl sectors receiving 27.7 percent each year. In 2023, the trawl sector would receive 880.7 mt of canary rockfish, of which 36 mt would be deducted to account for bycatch in the at-sea sectors, and the remaining 844.7 mt would be distributed to the shorebased individual fishing quota (IFQ) sector. In 2023, the non-trawl sector would receive 337.4 mt which is distributed to the commercial non-trawl (121.5 mt), WA recreational (41.5 mt), OR recreational (62.4 mt), and CA recreational (112.0 mt) fisheries. In 2024, the trawl sector would receive 868.4 mt of canary rockfish, of which 36 mt would be deducted to account for bycatch in the at-sea sectors, and the remaining 832.4 mt would be distributed to the shorebased IFQ sector. The non-trawl sector would receive 332.7 mt, which is distributed to the commercial non-trawl sector (119.8 mt), WA recreational (40.9 mt), OR recreational (61.5 mt), and CA recreational (110.5 mt) fisheries.

Table 8—2023 and 2024 Allocations of Canary Rockfish
| 2023 Allocation (mt) | 2024 Allocation (mt)
Shorebased IFQ Program | 844.7 | 832.4
At-sea Sectors | 36 | 36
Nearshore/Non-nearshore | 121.5 | 119.8
Washington recreational | 41.5 | 40.9
Oregon recreational | 62.4 | 61.5
California recreational | 112.0 | 110.5

Cowcod

For 2023-24, the Council recommended and NMFS is proposing to remove the 50 mt ACT for cowcod south of 40°10′ N lat. that was in place during the 2021-22 biennium. The ACT was included in the 2021-22 biennium out of concern of the risk of exceeding the ACL and to account for stock assessment uncertainty. Improved inseason monitoring tools have been effective at monitoring cowcod mortality and reducing management uncertainty. Therefore, the Council recommended removing the 50 mt ACT to provide additional flexibility and stability to the non-trawl sector south of 40°10′ N lat. Table 9 shows the trawl/non-trawl allocations for cowcod for 2023 and 2024. NMFS anticipates the proposed allocation structure will accommodate estimates of mortality of cowcod, by sector, in 2023-24. The fishery harvest guideline is distributed to the trawl and non-trawl sectors, with the trawl sector receiving 36 percent and the non-trawl sector receiving 64 percent each year. The trawl sector would receive 24.8 mt of cowcod in 2023 and 24.4 mt in 2024. The non-trawl sector would receive 44.0 mt in 2023 and 43.4 mt in 2024, which is distributed to the commercial and recreational sectors as a 50/50 split. The Council also recommended, and NMFS proposes, sector-specific ACTs based on the 50/50 split. For 2023 the commercial sector ACT would be 22 mt and the recreational sector ACT would be 22 mt. For 2024 the commercial sector ACT would be 21.7 mt and the recreational sector ACT would be 21.7 mt. Utilizing sector-specific ACTs within the non-trawl sector, in addition to maintaining the proposed zero retention requirement in the non-trawl sector, should help to reduce management uncertainty with the proposed removal of the 50 mt ACT below the fishery harvest guideline.

Table 9—2023 and 2024 Trawl/Non-Trawl Allocations of Cowcod
| Percentage | 2023 Allocation (mt) | 2024 Allocation (mt)
Trawl | 36 | 24.8 | 24.4
Non-trawl | 64 | 44.1 | 43.4

Lingcod South of 40°10′ N Lat.

The Council recommended and NMFS is proposing the trawl/non-trawl allocations for lingcod south of 40°10′ N lat. in Table 10. These allocations are anticipated to accommodate estimates of mortality of lingcod, by sector, in 2023-24.

Specifications for the lingcod south of 40°10′ N lat. were established through the biennial process with a trawl/non-trawl allocation for the 2023-24 specifications of 40 percent of the harvest guideline to trawl sector and 60 percent to non-trawl sector. In 2023, the distribution results in 285.2 mt to the trawl sector and 427.8 mt to the non-trawl sectors. In 2024, the distribution results in 285.2 mt to the trawl sectors and 425.4 mt to the non-trawl sectors. No further allocations or distributions are made.

Table 10—2023 and 2024 Trawl/Non-Trawl Allocations of Lingcod South of 40°10′ N Lat.
| Percentage | 2023 Allocation (mt) | 2024 Allocation (mt)
Trawl | 40 | 285.2 | 283.6
Non-trawl | 60 | 427.8 | 425.4

Longnose Skate

The Council recommended and NMFS is proposing the trawl/non-trawl allocations for longnose skate in Table 11. The allocation percentages, 90 percent to trawl and 10 percent to non-trawl, reflect historical catch of longnose skate in the two sectors. These allocations are anticipated to accommodate estimates of mortality of longnose skate, by sector, in 2023-24. In 2023, the 90/10 distribution results in 1,311.0 mt to the trawl sectors and 145.7 mt to the non-trawl sectors. In 2024, the distribution results in 1,267.8 mt to the trawl sectors and 140.9 mt to the non-trawl sectors.

Table 11—2023 and 2024 Trawl/Non-Trawl Allocations of Longnose Skate
| Percentage | 2023 Allocation (mt) | 2024 Allocation (mt)
Trawl | 90 | 1,311.0 | 1,267.8
Non-trawl | 10 | 145.7 | 140.9

Minor Shelf Rockfish

Allocations for Minor Shelf Rockfish are recommended by the Council and proposed by NMFS for each biennial cycle. The proposed allocations for 2023 and 2024 are shown in Table 12. Specifications for the shelf rockfish complex north of 40°10′ N lat. were established through the biennial process with a trawl/non-trawl allocation for the 2023-24 specifications of 60.2 percent to trawl sectors and 39.8 percent to non-trawl sectors. In 2023, the distribution results in 729.7 mt to the trawl sectors and 482.4 mt to the non-trawl sectors. In 2024, the distribution results in 726.7 mt to the trawl sectors and 480.4 mt to the non-trawl sectors. Of the amount going to the trawl sectors, 35 mt is deducted each year from the trawl allocation to account for bycatch in the at-sea whiting sectors, with the remaining 694.7 mt in 2023 and 691.7 mt in 2024 going to the shorebased IFQ fishery. No further allocations or distributions are made.

Specifications for the shelf rockfish complex south of 40°10′ N lat. were established through the biennial process with a trawl/non-trawl allocation for the 2023-24 specifications of 12.2 percent to trawl sectors and 87.8 percent to non-trawl sectors. In 2023 and 2024, the distribution results in 163.9 mt to the trawl sectors and 1,173.2 mt to the non-trawl sectors. No further allocations or distributes are made.

Table 12—Trawl/Non-Trawl Allocations for Minor Shelf Rockfish North and South of 40°10′ N Lat.
| Percentage | 2023 Allocations (mt) | 2024 Allocations (mt)
Minor Shelf Rockfish north of 40°10′ N lat.:
Trawl | 60.2 | 729.7 | 726.7
Non-trawl | 39.8 | 482.4 | 480.4
Minor Shelf Rockfish south of 40°10′ N lat.:
Trawl | 12.2 | 163.0 | 163.0
Non-trawl | 87.8 | 1,173.2 | 1,173.2

Slope Rockfish Complex

Allocations for slope rockfish complex south of 40°10′ N lat., including custom shares for blackgill rockfish, are recommended by the Council and proposed by NMFS for each biennial cycle. The proposed allocations for 2023 and 2024 are shown in Table 13. The Council recommended blackgill rockfish within the slope rockfish complex south of 40°10′ N lat. be managed by setting an HG for blackgill rockfish that was equal to the species specific ACL contribution to the slope rockfish complex south of 40°10′ N lat. The blackgill rockfish HG was then used to allocate 41 percent to the trawl sector and 59 percent to the non-trawl sector. Then, trawl (63 percent) and non-trawl (37 percent) allocations were applied to the remaining species in the complex. Finally, the off-the top set-asides are then deducted to produce the final two-year allocations. In 2023, the distribution results in 378.7 mt to the trawl sectors and 279.3 mt to the non-trawl sectors. In 2024, the distribution results in 381.mt to the trawl sectors and 280.2 mt to the non-trawl sectors.

Table 13—Trawl/Non-Trawl Allocations for Minor Slope Rockfish South of 40°10′ N Lat.
Category | 2023 Allocations (mt): Trawl | 2023 Allocations (mt): Non-trawl | 2024 Allocations (mt): Trawl | 2024 Allocations (mt): Non-trawl
Blackgill rockfish share | 70.7 (41%) | 101.7 (59%) | 69.7 (41%) | 100.2 (59%)
“Other slope rockfish” share | 330.5 (63%) | 194.1 (37%) | 334.6 (63%) | 196.5 (37%)
Share (mt) | 401.2 | 295.8 | 404.3 | 296.7
Total | 697.0 |  | 701.0
Percentage of total share | 57.56% | 42.44% | 57.67% | 42.33%
Total combined off-top | 39 |  | 39
Apportioned off-top | 22.4 | 16.6 | 22.5 | 16.5
Final two year allocation | 378.7 | 279.3 | 381.8 | 280.2

Petrale Sole

The Council recommended and NMFS is proposing the trawl/non-trawl allocations for petrale sole in Table 14. These allocations are anticipated to accommodate estimates of mortality of petrale sole, by sector, in 2023-24. For the 2023-24 biennium, 30 mt of petrale sole would be allocated to the non-trawl sector and the remainder would go to the trawl sector each year. In 2023, the distribution results in 3,068.8 mt to the trawl sector. In 2024, the trawl sector would receive 2,868.8 mt.

Table 14—2023 and 2024 Trawl/Non-Trawl Allocations of Petrale Sole
| Percentage | 2023 Allocation (mt) | 2024 Allocation (mt)
Trawl |  | 3,068.8 | 2,868.8
Non-trawl |  | 30 | 30

Widow Rockfish

The Council recommended and NMFS is proposing the trawl/non-trawl allocations for widow rockfish in Table 15. These allocations are anticipated to accommodate estimates of mortality of widow rockfish, by sector, in 2023-24. For the 2023-24 biennium, 400 mt of widow rockfish would be allocated to the non-trawl sector and the remainder would go to the trawl sector each year. In 2023, the distribution results in 11,985.7 mt to the trawl sector. In 2024, the trawl sector would receive 10,843.7 mt.

Table 15—2023 and 2024 Trawl/Non-Trawl Allocations of Widow Rockfish
| Percentage | 2023 Allocation (mt) | 2024 Allocation (mt)
Trawl |  | 11,985.7 | 10,843.7
Non-trawl |  | 400 | 400

D. Corrections and Additional Waypoints for Rockfish Conservation Areas

Rockfish Conservation Areas (RCAs) are large area closures intended to reduce the catch of a stock or stock complex by restricting fishing activity at specific depths. The boundaries for RCAs are defined by straight lines connecting a series of latitude and longitude coordinates that approximate depth contours. These sets of coordinates, or lines, are not gear or fishery specific, but can be used in combination to define an area. NMFS then implements fishing restrictions for a specific gear and/or fishery within each defined area.

For the 2023-24 biennium, the Council recommended and NMFS is proposing line modifications seaward of California around Eel Canyon (near Eureka), Mendocino Canyon, Mattole Canyon, the Farallon Islands (near San Francisco), the Channel Islands (near Santa Barbara and east of Anacapa Island), Redondo Canyon, Santa Catalina Island, Lasuen Knoll, and Santa Clemente Island, as well as in near Albion, Monterey Bay, Point Sur, Morro Bay, Port Hueneme, Santa Monica Bay, Point Vincente, Huntington Beach, and San Diego. These modifications would better align existing RCA coordinates with chart-based depth contours, reduce boundary line crossovers, and address enforcement concerns. See Section 2.1 of the Analysis for more details on these changes.

The Council's recommendation would have deleted point (130) on the boundary line approximating the 50 fathoms (fm) (91 m) depth contour. This was the only point for this boundary line at 36° N lat. Points at each commonly used geographic coordinates (latitudes) defined in paragraph (2) at § 660.11 “North-South management area” should be retained to maintain functionality and enforceability of these depth-based lines when they are used to form closed areas such as Block Area Closures or the Non-trawl Rockfish Conservation Area. Therefore, NMFS is making an administrative change to modify the point instead of deleting it. This will maintain the shape of the boundary line the Council recommended, but will also maintain the functionality and enforceability needed. This is an administrative change and does not change the on-the-water location of the line that was recommended by the Council at its June 2022 meeting.

NMFS is republishing § 660.72(j)(220) through (222) to correct the paragraph designation of paragraph (j)(221). The “1” was mistakenly omitted during prior revisions so it was published as a second paragraph (j)(22) in that section. This correction is not substantive, and does not change the on-the-water effects of these regulations, aside from reducing potential confusion about multiple paragraphs (j)(22).

E. Limited Entry Trawl

The limited entry trawl fishery is made up of the shorebased IFQ program, whiting and non-whiting, and the at-sea whiting sectors. For some stocks and stock complexes with a trawl allocation, an amount is first set-aside for the at-sea whiting sector with the remainder of the trawl allocation going to the shorebased IFQ sector. Set-asides are not managed by NMFS or the Council except in the case of a risk to the ACL.

At-Sea Set Asides

For several species, the trawl allocation is reduced by an amount set-aside for the at-sea whiting sector. This amount is designed to accommodate catch by the at-sea whiting sector when they are targeting Pacific whiting. The Council is recommending and NMFS is proposing the set-asides in Table 16 for the 2023-24 biennium. The Council considered a set-aside for Pacific spiny dogfish but did not recommend establishing one.

Table 16—2023-24 At-Sea Set-Asides for Vessels Targeting Pacific Whiting While Fishing as Part of the At-Sea Sector
Stock or stock complex | Area | At-sea set-aside amount (mt)
Arrowtooth Flounder | Coastwide | 70
Canary rockfish | Coastwide | 36
Darkblotched rockfish | Coastwide | 76.4
Dover sole | Coastwide | 10
Lingcod | N of 40°10′ N lat | 15
Longnose skate | Coastwide | 5
Minor shelf rockfish | N of 40°10′ N lat | 35
Minor slope rockfish | N of 40°10′ N lat | 300
Other flatfish | Coastwide | 35
Pacific halibut | Coastwide | 10
Pacific ocean perch | N of 40°10′ N lat | 300
Petrale sole | Coastwide | 5
Sablefish | N of 36° N lat | 100
Shortspine thornyhead | N of 34°27′ N lat | 70
Widow rockfish | Coastwide | 476
Yellowtail rockfish | N of 40°10′ N lat | 320

Incidental Trip Limits for IFQ Vessels

For vessels fishing in the Shorebased IFQ Program, with either groundfish trawl gear or non-trawl gears, the following incidentally-caught stocks are managed with trip limits:

Minor Nearshore Rockfish north and south, Washington black rockfish, Oregon black/blue/deacon rockfish, cabezon (46°16′ to 40°10′ N lat. and south of 40°10′ N lat.), spiny dogfish, longspine thornyhead south of 34° N lat., big skate, California scorpionfish, longnose skate, Pacific whiting, and the Other Fish complex. For all these stocks, this rule proposes maintaining the same IFQ fishery trip limits for these stocks for the start of the 2023-24 biennium as those in place in 2022. Additionally, this rule proposes maintaining the trip limit for blackgill rockfish within the southern slope rockfish complex. The trip limit would be unlimited to start the 2023 fishing year. The purpose of the blackgill trip limit would be to allow the Council to reduce targeting of blackgill rockfish inseason, if needed. Trip limits for the IFQ fishery can be found in Table 1 North and Table 1 South to part 660, subpart D. Changes to trip limits would be considered a routine measure under § 660.60(c), and may be implemented or adjusted, if determined necessary, through inseason action.

F. LEFG and OA Non-Trawl Fishery

Management measures for the LEFG and OA non-trawl fisheries tend to be similar because the majority of participants in both fisheries use hook-and-line gear. Management measures, including area restrictions (e.g., non-trawl RCA) and trip limits in these non-trawl fisheries, are generally designed to allow harvest of target stocks while keeping catch of overfished stocks low. LEFG trip limits are specified in Table 2 (North) and Table 2 (South) to subpart E. OA trip limits are specified in Table 3 (North) and Table 3 (South) to subpart F in the regulatory text of this proposed rule.

Sablefish Trip Limits

Sablefish are managed separately north and south of 36° N lat. For the portion of the stock north of 36° N lat., the Council recommended and NMFS proposes removing the daily trip limit for the OA fishery and maintaining the same weekly and bimonthly trip limits as were in place in the start of 2022. For the portion south of 36° N lat., the Council recommended, and NMFS proposes, the same weekly and bimonthly trip limits as were in place in the start of 2022. The proposed sablefish trip limits for 2023-24 are shown in Table 17.

Table 17—Sablefish Trip Limits for Limited Entry and Open Access Sectors North and South of 36° N Lat.
Sector | Area | Jan-Feb | Mar-Apr | May-Jun | Jul-Aug | Sept-Oct | Nov-Dec
Limited entry | north of 36° N lat | 2,400 lb (1089 kg)/week; not to exceed 4,800 lb (2,177 kg) bi-monthly.
| south of 36° N lat | 2,500 lb (1,134 kg)/week.
Open access | north of 36° N lat | 2,000 lb (907 kg)/week; not to exceed 4,000 lb (1,814 kg) bi-monthly.
| south of 36° N lat | 2,000 lb (907 kg)/week; not to exceed 4,000 lb (1,814 kg) bi-monthly.

LEFG and OA Trip Limits

The Council recommended, and NMFS is proposing, status quo trip limits for LEFG and OA fisheries in 2023. The Council considered changes to the quillback rockfish and copper rockfish trip limits off California but reaffirmed the limits set through inseason action for 2022 (86 FR 72863; December 23, 2021). That action intended to reduce mortality of quillback and copper rockfish by implementing sub-trip limits of 75 lbs (34 kg) per 2 months within the 2,000 lbs (907 kg) per 2 months Minor Nearshore Rockfish limit for the areas between 42°-40°10′ N lat., and south of 40°10′ N lat. The Council could recommend further adjustment to the sub-trip limits through additional inseason action once more data on the current limits is collected and the effects on mortality, particularly discard mortality, are better understood. NMFS notes that allowing the continuation of fishery-dependent data collection through minimal retention would be very beneficial for future stock assessments. Additionally, further reductions on quillback rockfish, an important species in the live fish market, in the commercial Nearshore Fishery could destabilize the niche fishery. More information on these trip limits can be found in the Analysis.

Primary Sablefish Tier Limits

Some limited entry fixed gear permits are endorsed to receive annual sablefish quota, or tier limits. Vessels registered with one, two, or up to three of these permits may participate in the primary sablefish fishery. The proposed tier limits are as follows: in 2023, Tier 1 at 72,904 lb (33,069 kg), Tier 2 at 33,138 lb (15,031 kg), and Tier 3 at 18,936 lb (8,589 kg). For 2024, Tier 1 at 66,805 lb (30,302 kg), Tier 2 at 30,366 lb (13,774 kg), and Tier 3 at 17,352 lb (7,871 kg).

G. Recreational Fisheries

This section describes the recreational fisheries management measures proposed for 2023-24. The Council primarily recommends depth restrictions and groundfish conservation areas to constrain catch within the recreational harvest guidelines for each stock. Washington, Oregon, and California each proposed, and the Council recommended, different combinations of seasons, bag limits, area closures, and size limits for stocks targeted in recreational fisheries. These measures are designed to limit catch of overfished stocks found in the waters adjacent to each state while allowing target fishing opportunities in their particular recreational fisheries. The following sections describe the recreational management measures proposed in each state.

Washington

The state of Washington manages its marine fisheries in four areas: Marine Area 1 extends from the Oregon/Washington border to Leadbetter Point; Marine Area 2 extends from Leadbetter Point to the mouth of the Queets Rivers; Marine Area 3 extends from the Queets River to Cape Alava; and Marine Area 4 extends from Cape Alava to the Sekiu River. This proposed rule would adopt the following season structure in Table 18.

The Washington recreational fishery would be open from the second Saturday in March through the third Saturday in October. The aggregate groundfish bag limits in waters adjacent to Washington would continue to be nine fish in all areas with a sub-bag limit for cabezon (one per day), rockfish (seven per day), lingcod (two per day). The flatfish limit would continue to be five fish, and is not counted towards the groundfish bag limit of nine but is in addition to it.

The retention of copper rockfish, quillback rockfish, and vermilion rockfish during the months of May, June, and July would be prohibited. As stated by the Washington Department of Fish and Wildlife (WDFW) in its analysis for this proposal, these prohibitions for copper rockfish and quillback rockfish are projected to keep mortality below the species specific ACL contributions. For vermilion, the prohibition is expected to lower mortality while maintaining some data flow needed for stock assessments (Agenda Item F.6.a, WDFW Report 1, June 2022).

Consistent with the 2021-22 biennium, the Council recommended and NMFS is proposing to continue to prohibit recreational fishing for groundfish and Pacific halibut inside the North Coast Recreational Yelloweye Rockfish Conservation Area (YRCA), a C-shaped closed area off the northern Washington coast. The South Coast Recreational YRCA and the Westport Offshore YRCA would remain open to recreational fishing for the 2023-24 biennium. Coordinates for YRCAs are defined at § 660.70.

Oregon

The Council recommend that Oregon recreational fisheries in 2023-24 would operate under an all months all depths season structure to start the 2023 fishing year. The Council recommended maintaining the 2021-22 aggregate bag limits and size limits in Oregon recreational fisheries for 2023-24. The proposed limits are: three lingcod per day, with a minimum size of 22 in (56 cm); 25 flatfish per day, excluding Pacific halibut; and a marine fish aggregate bag limit of 10 fish per day, where cabezon have a minimum size of 16 in (41 cm). Oregon long-leader gear fishing and “all-depth” Pacific halibut fishing would continue to be allowed on the same trip. This rule proposes sablefish, Pacific cod, and other flatfish species (sole, flounder, sanddab) may be retained on “all-depth” halibut trips. This measure would provide additional opportunity for anglers participating in the “all depth” halibut fishery and reduce potential regulatory discards. Based on the Analysis, additional effort would not be expected (i.e., no new trips occurring), because anglers would just have this additional opportunity on trips they are already taking. Therefore, no additional impacts to yelloweye rockfish, Chinook salmon, or coho salmon would be expected.

Oregon often adopts more restrictive measures in state rule. This enables the ODFW to tighten or ease restrictions inseason based on quota status and projected mortality. The Federal rules serve as a backstop, while state rules can be adjusted more rapidly in response to inseason circumstances, improving management responsiveness and the ability to achieve conservation and opportunity objectives. For example, ODFW anticipates continuing the prohibition on retaining quillback rockfish in the recreational fishery (and all non-trawl commercial fisheries) in 2023-24.

California

The Council manages recreational fisheries in waters seaward of California in five separate management areas. Season and area closures differ between California management areas to limit incidental catch of overfished stocks and stocks of concern while providing as much recreational fishing opportunity as possible. The Council's recommended California season structure for 2023 and 2024 is a substantial departure from 2021 and 2022. In order to reduce total mortality of quillback rockfish and copper rockfish, each management area would incur a reduction in fishing time in nearshore waters of 30 percent or more. This, in combination with the proposed novel utilization of the RCA described in Section III.N, would create an “offshore only fishery” during certain months. Recreational fishing for groundfish would continue to be prohibited in waters less than 100 fm (183 m) around Cordell Bank as described in § 660.360(c)(3)(i)(C).

In the Northern Management Area (42° N lat. to 40°10′ N lat.), the fishery for California rockfish, cabezon, greenling complex (RCG complex), as defined at § 660.360(c)(3)(ii), and the fishery for lingcod would be closed January 1 to May 14, open in all depths from May 15 to October 15, and closed October 16 to December 31.

In the Mendocino Management Area (40°10′ N lat. to 38°57.5′ N lat.), and the San Francisco Management Area (38°57.5′ N lat. to 37°11′ N lat.) the RCG complex fishery and the lingcod fishery would be closed January 1 to May 14, open May 15 to July 15 seaward of the 50 fm (91 m) RCA line, and open in all depths from July 16 to December 31.

In the Central Management Area (37°11′ N lat. to 34°27′ N lat.), the RCG complex fishery and the lingcod fishery would be closed January 1 to April 30, open May 1 to September 30 in all depths, and open October 1 to December 31 seaward of the 50 fm (91 m) RCA line.

In the Southern Management Area (34°27′ N lat. to U.S./Mexico border), the RCG complex fishery and the lingcod fishery would be closed January 1 to March 31, open April 1 to September 15 in all depths, and open September 16 to December 31 seaward of the 50 fm (91 m) RCA line.

Table 19 shows the proposed season structure and depth limits by management area in 2023 and 2024 for the RCG complex fishery and lingcod fishery.

In times and areas where an RCA is closed seaward of an RCA line (i.e., when an “off-shore only” fishery is active in that management area) the following would be prohibited: (1) possession or retention of nearshore rockfish (defined as black rockfish, blue rockfish, black and yellow rockfish, brown rockfish, China rockfish, copper rockfish, calico rockfish, gopher rockfish, kelp rockfish, grass rockfish, olive rockfish, quillback rockfish, and treefish), cabezon, and greenlings in all depths of the Exclusive Economic Zone (EEZ) throughout the management area; (2) possession and retention of all rockfish, cabezon, greenlings, and lingcod would be prohibited shoreward of the RCA boundary line within the EEZ, except that vessels may transit through waters shoreward of the RCA line with no fishing gear in the water.

In all Management Areas, California scorpionfish, “Other Flatfish” (as defined at § 660.11), petrale sole and starry flounder, leopard shark, and “Other Federal Groundfish” would be open year-round at all depths. “Other Federal groundfish” as defined in state regulations, (Section 28.49, Title 14, California Code of Regulations) include soupfin shark, Dover sole, English sole, arrowtooth flounder, spiny dogfish, skates, ratfish, grenadiers, finescale codling, Pacific cod, Pacific whiting, sablefish and thornyheads.

The Council recommended that size limits and bag limits would remain the same as 2022 for all stocks. The Council also recommended and NMFS is proposing to continue sub-bag limits of one quillback rockfish, one copper rockfish, and four vermilion rockfish within the 10-fish RCG daily bag and possession limit.

Continuing the one-fish sub-bag limits for quillback and copper rockfish would allow for fishery-dependent data collection, specifically biological data. Maintaining the flow of this data is very important for future stock assessments as data gaps would add uncertainty in the results of future assessments. As described in Section 11 of the Analysis, the Council analyzed quillback rockfish, copper rockfish, and vermilion rockfish sub-bag limits ranging from 10 to 0 fish (i.e., no retention) within the 10-fish RCG bag limit. California Department of Fish and Wildlife (CDFW) tracks groundfish mortality inseason on a weekly and/or monthly basis to ensure that mortality remains within allowable limits. Further changes to the sub-bag limit or to prohibit retention may be recommended by the Council inseason, as necessary, to limit mortality and achieve specifications.

In addition to the regulatory management measures to reduce mortality of copper and quillback rockfish in 2022 (86 FR 72863; December 23, 2021), the fishery industry has undertaken several voluntary measures including dissemination of enhanced species identification information, avoidance procedures, and no retention when a biological sampler is not aboard. Per public testimony at the June 2022 Council meeting, the industry plans to continue these voluntary measures in 2023 and 2024. NMFS expects these mandatory and voluntary measures would substantially reduce mortality of quillback and copper rockfish.

H. Exempted Fishing Permits

Issuing EFPs is authorized by regulations implementing the Magnuson-Stevens Act at 50 CFR 600.745, which state that EFPs may be used to authorize fishing activities that would otherwise be prohibited.

At its June 2022 meeting, the Council recommended NMFS approve five EFP applications for the 2023 fishing year and preliminarily approve the EFP applications for the 2024 fishing year. The Council considered these EFP applications concurrently with the 2023-2024 biennial harvest specifications and management process because expected catch under most EFP projects is included in the catch limits for groundfish stocks. All of the EFP applications are renewals. Two EFP applications request to test the use of natural bait while fishing inside the non-trawl Rockfish Conservation Area (NT-RCA), which is proposed to be prohibited as part of measures allowing non-trawl vessels to use select hook and line gear configurations within the NT-RCA (see part J of this section). One EFP application requests to test whether removing certain gear, time, and area restrictions may impact the nature and extent of bycatch of protected and prohibited species. The final two EFP applications request to retain certain prohibited species in order to collect fishery-dependent data for potential use in upcoming stock assessments. A summary of each EFP application is provided below:

• Groundfish EFP Proposal—Yellowtail Rockfish Jig Fishing off California: Barbara Emley of the San Francisco Community Fishing Association and private open access fisherman Daniel Platt submitted a renewal application for research that has been conducted since 2013 (herein referred to as the “Emley-Platt EFP”). From 2013-2022, this EFP tested the efficacy of a commercial jig gear configured to target underutilized, midwater yellowtail and shelf rockfish species while avoiding the rebuilding, bottom-dwelling yelloweye rockfish inside the NT-RCA. As part of this 2023-24 harvest specifications and management measures action, the Council recommended, and NMFS proposed, this EFP gear type be approved for legal use inside the NT-RCA (see part J of this section). Therefore, if this rulemaking is implemented as proposed, the associated exemptions from the prohibitions on fishing and/or transiting inside the non-trawl RCA with non-trawl gear would no longer be needed for this EFP project beginning in 2023. However, the application contains a new request for 2023 and 2024, which is to test the effect of using natural bait on the shrimp fly gear. Even if the commercial jig gear is legalized for use inside the NT-RCA through this action, there would still be a requirement to use artificial bait, which has been used in the EFP project since 2013. Testing the use of natural bait could gather data to inform the Council on changes to catch composition while using natural bait compared to artificial bait. If this proposed rule and EFP proposal are approved, this EFP project would require exemptions from: (1) the prohibition on fishing with natural bait inside the NT-RCA (see proposed regulation below at § 660.330 (b)(3)(i)(D)); and (2) the open access trip limits in Table 3 (South) to part 660, subpart F (vessels that fish between 40°10′ N lat. and 34°27′ have specified EFP catch limits). If this EFP gear type is not approved for legal use inside the NT-RCA as proposed in this rulemaking, then this EFP project would require additional exemptions from: (1) the prohibition to fish inside the non-trawl RCA with non-trawl gear (see § 660.330(d)(12)(i)); (2) the prohibition on transiting through the non-trawl RCA without non-trawl gear stowed (see § 660.330(d)(12)(ii)); and (3) the prohibition on retaining and landing groundfish harvested from inside the non-trawl RCA with non-trawl gear (see § 660.330(d)(12)(iii)). In addition to the request to use natural bait, the 2023-24 application also requests a geographic expansion of the EFP to include additional area in northern and southern California. If approved, NMFS would authorize up to 7 vessels to test the use of natural bait inside the non-trawl RCA off the California coast—specifically between the Oregon/California border (was previously limited to 40°10′ N lat.) and the U.S./Mexico border (was previously limited to Point Conception, California), at depths ranging from 35 to 150 fathoms (64 to 274 meters (m)). The EFP Director did not request any additional EFP allocations for the geographic expansion north of 40°10′ N lat.; those vessels would fish under the open access trip limits in Table 3 (North) to part 660, subpart F.

• Groundfish EFP Proposal—Monterey Bay Regional EFP Targeting Chilipepper Rockfish: Real Good Fish of Moss Landing, California submitted a renewal application to continue research that has been conducted since 2019. Similar to the Emley-Platt EFP, the Council recommended this gear type be approved for legal use inside the NT-RCA, but with the requirement to use artificial bait. Therefore, this application also includes a request to test the use of natural bait on the groundfish troll gear. If this proposed rule and EFP proposal are approved, this EFP project would require exemptions from: (1) the prohibition on fishing with natural bait inside the NT-RCA (see proposed regulation below at § 660.330 (b)(3)(ii)(E)); and (2) the open access trip limits in Table 3 (South) to part 660, subpart F. If this EFP gear type is not approved for legal use inside the NT-RCA as proposed in this rulemaking, then this EFP project would require additional exemptions from: (1) the prohibition to fish inside the non-trawl RCA with non-trawl gear (see § 660.330(d)(12)(i)); (2) the prohibition on transiting through the non-trawl RCA without non-trawl gear stowed (see § 660.330(d)(12)(ii)); and (3) the prohibition on retaining and landing groundfish harvested from inside the non-trawl RCA with non-trawl gear (see § 660.330(d)(12)(iii)). If approved, NMFS would authorize up to 10 vessels to test the use of natural bait inside the non-trawl RCA off the California coast—specifically in areas with canyon edges and walls that have historically produced high volumes of chilipepper rockfish catch and at depths ranging from 40 to 150 fathoms (73 to 274 m).

• Groundfish EFP Proposal—Year-round Coastwide Midwater Rockfish EFP: Monitoring and Minimizing Salmon Bycatch When Targeting Rockfish in the Shorebased IFQ Fishery, 2023-2024: West Coast Seafood Processors, Oregon Trawl Commission, Midwater Trawlers Cooperative, and the Environmental Defense Fund submitted a renewal application to continue research that has been conducted since 2017; the multi-year EFP project is collectively referred to as the “Trawl Gear EFP.” The purpose of the EFP is for vessels participating in the West Coast Groundfish Trawl Rationalization Program's Limited Entry Shorebased Individual Fishing Quota (IFQ) Program to test whether removing certain gear, time, and area restrictions may impact the nature and extent of bycatch of protected and prohibited species (i.e., Chinook salmon, coho, eulachon, and green sturgeon). The EFP project would require exemptions for vessels fishing with bottom trawl groundfish gear from: (1) the requirement to use selective flatfish trawl gear, and the prohibition on using small footrope gear other than selective flatfish trawl gear between 42° and 40°10′ North latitude and shoreward of the boundary line approximating the 100 fathom (fm) depth contour (see § 660.130(c)(2)(i) and (c)(2)(ii)); and (2) the requirement that selective flatfish trawl must be a two-seamed net with no more than two riblines, excluding the codend (see § 660.130(b)(1)(ii)(A)). The EFP project would require exemptions for vessels fishing with midwater trawl groundfish gear from: (1) the prohibition on fishing outside the primary season dates for the Pacific whiting IFQ fishery (see § 660.112(b)(1)(x) and § 660.130(c)(3)); and (2) the prohibition on fishing south of 40°10′ N lat. shoreward of the boundary line approximating the 150 fm depth contour (see § 660.130(c)(3)(ii) and (c)(4)(ii)(B)). The EFP project would require exemptions for vessels fishing with either midwater or bottom trawl groundfish gear from: (1) the prohibition on retaining certain prohibited species (see § 660.12 (a)(1)); and (2) the requirement to discard certain prohibited species at sea (see § 660.140(g)(1)). If this EFP is approved, NMFS would set a bycatch limit of 1,000 Chinook salmon north of 42° N lat. and 100 Chinook salmon south of 42° N lat. for vessels declared into the EFP, regardless of gear type. If either of these bycatch limits are reached, NMFS would revoke the EFP for both gear types in the respective management area (i.e., north or south of 42° N lat.). Participating vessels would also be required to retain all salmon (excluding salmon already sampled by NMFS' West Coast Groundfish Observer Program) until offloading. If approved, NMFS would authorize up to 60 vessels to participate in the EFP.

• Groundfish EFP Proposal—California Department of Fish and Wildlife 2023-2024 EFP: The California Department of Fish and Wildlife (CDFW) submitted a renewal application for research that has been conducted since 2021. The purpose of the EFP project is to collect fishery-dependent biological data for cowcod for inclusion in future stock assessments. The EFP project would require an exemption from the prohibition to retain cowcod in the California recreational fishery (see § 660.360(c)(3)). The EFP would also provide that any cowcod taken and retained would not count against the recreational bag limit for the aggregate of rockfish, cabezon, and greenlings. If approved, NMFS would authorize up to 20 vessels that participate in the California recreational fishery to retain cowcod and transfer the cowcod to CDFW groundfish staff upon landing.

• Groundfish EFP Proposal—Washington Department of Fish Wildlife Enhanced Yelloweye Recreational Fishery Biological Sampling EFP: The Washington Department of Fish and Wildlife (WDFW) submitted a renewal application for research that has been conducted since 2021. The purpose of the EFP project is to collect fishery-dependent biological data for yelloweye rockfish for inclusion in future stock assessments. The EFP project would require an exemption from the prohibition to retain yelloweye rockfish in the Washington recreational fishery (see § 660.360(c)(1)(ii)). The EFP would also provide that any yelloweye rockfish taken and retained would not count against the recreational bag limit for rockfish. If approved, NMFS would authorize up to 15 vessels that participate in the Washington recreational fishery to retain yelloweye rockfish and transfer the yelloweye rockfish to WDFW staff upon landing.

During the 2-year period of EFP activities from 2023 to 2024, all vessels participating in the non-trawl RCA EFP projects (i.e., the renewal applications submitted by Emley-Platt and Real Good Fish) would adhere to EFP set-asides for targeted and incidental groundfish and other species, which were considered and approved by the Council at their June 2022 meeting. The one exception would be for Emley-Platt vessels fishing north of 40°10′ N lat., which would fish pursuant to open access trip limits in Table 3 (North) to part 660, subpart F, as the EFP Director did not request additional EFP set-asides for this area. These EFP set-asides are off-the-top deductions from the 2023-2024 applicable ACLs, meaning any landings and discards that occur under these EFPs would be accounted for within the applicable ACLs. EFP set-asides would not be needed for the Trawl Gear EFP as landings and discards of IFQ species would be accounted for through the participating vessel's IFQ. Vessels participating in the non-trawl RCA EFP projects and the Trawl Gear EFP would be required to have 100 percent observer coverage. All cowcod mortality under the CDFW EFP project is expected to occur in conjunction with routine recreational fishing activities and would be calculated as part of the normal recreational catch estimation process. All yelloweye rockfish taken under the WDFW EFP project would be counted against the Washington recreational harvest guideline for yelloweye rockfish. NMFS would not require 100 percent observer coverage for vessels participating in the CDFW and WDFW EFP projects because recreational vessels do not meet the minimum size requirements under Federal regulations to carry an observer.

NMFS does not expect any impacts to the environment, essential fish habitat, or protected or prohibited species from these EFPs beyond those analyzed for the groundfish fishery as a whole in applicable biological opinions (available at: https://www.fisheries.noaa.gov/species/west-coast-groundfish#management), the draft EA for the Pacific Coast Groundfish Fishery 2023-2024 Harvest Specifications and Management Measures (see ADDRESSES), or the EA for the 2018 Trawl Gear EFP dated December 2017 (available at: https://www.fisheries.noaa.gov/region/west-coast).

After publication of this document in the Federal Register, NMFS may approve and issue permits for the proposed EFP projects for the 2023 fishing year after the close of the public comment period. All five EFP applications are available under “Supporting and Related Materials” (see ADDRESSES). NMFS will consider comments submitted in deciding whether to approve the applications as requested. NMFS may approve the applications in their entirety or may make any alterations needed to achieve the goals of the EFP projects. NMFS would not issue another Federal Register notice soliciting public comment on renewing these EFP projects for 2024 unless: (1) the applicants modify and resubmit their applications to NMFS; (2) changes to relevant fisheries regulations warrant a revised set of exemptions authorized under the EFP projects; or (3) NMFS' understanding of the current biological and economic impacts from EFP fishing activities substantially changes.

I. Shortbelly Rockfish 2,000 mt Catch Threshold To Initiate Council Review

Shortbelly rockfish is one of the most abundant rockfish species in the California Current Ecosystem and is a key forage species for many fish, birds, and marine mammals. The Council recommended and NMFS approved the designation of shortbelly rockfish as an ecosystem component (EC) species through Amendment 29 to the PCGFMP, as part of the 2021-2022 groundfish management measure process (85 FR 79880, December 11, 2020). The Notice of Availability for Amendment 29 (85 FR 54529, September 2, 2020) provides additional background on shortbelly rockfish. The Council monitors and tracks shortbelly rockfish mortality inseason. Shortbelly rockfish are not, and have not historically been, a directed target of commercial or recreational fisheries. Due to their small size, shortbelly rockfish are not currently marketable. However, concerns over the potential future development of a directed fishery prompted the Council to note during the 2021-2022 groundfish management measure process that it would consider taking action if mortality of shortbelly rockfish in the fishery exceeds, or is projected to exceed, 2,000 mt in a calendar year. This guidance was not formalized in the PCGFMP as part of Amendment 29. Therefore, the Council recommended and NMFS is proposing to amend the PCGFMP to add language stating that if shortbelly rockfish mortalities exceed, or are projected to exceed, 2,000 mt in a calendar year, the Council would review relevant fishery information and consider if management changes were warranted, including, but not limited to reconsideration of its current classification as an EC species. To estimate mortality and provide for catch accounting, NMFS proposes a sorting requirement for shortbelly rockfish in the LEFG and OA fisheries. For more information on this measure, see the NOA for Amendment 30 and the Analysis.

NMFS notes that routine management measures as laid out in 50 CFR 660.60(c) are not currently available for shortbelly rockfish management because shortbelly rockfish is an EC species. Shortbelly rockfish would need to be redesignated as “in the fishery” prior to routine management measures being available for inseason use. However, the Council could recommend, consistent with the points of concern framework (FMP Section 6.2.2), management measures to minimize bycatch or bycatch mortality of EC species as laid out in 50 CFR 600.305(c)(5). Depending on the issue triggering the need for management measures, this pathway might require revisiting the EC designation.

J. Non-Bottom Contact Hook-and-Line Gear Allowance in the Non-Trawl Rockfish Conservation Area

In order to provide additional opportunity to commercial non-trawl fisheries to target healthy stocks, relieve pressure on overfished or constraining nearshore stocks, and limit impacts to sensitive habitats, the Council recommended, and NMFS proposes, allowing non-trawl vessels to use select hook-and-line gear configurations within the NT-RCA which were tested through EFPs as described above in Section III.H. The non-trawl fisheries are distinguished by the types of gears permitted to be used to harvest their catch. OA fisheries are allowed to use any “open access” gear, including hook-and-line, pot, and troll gear. Limited entry fixed gear (LEFG) vessels are restricted to using the gear endorsed on their registered permit (longline or pot/trap) or are held to the lower landing limits associated with the OA sector when using alternative gears. Vessels participating in the shorebased IFQ sector with fixed gear (i.e., gear switchers) are permitted to use any legal groundfish gear. Participants in all three fisheries are prohibited from fishing in the NT-RCA unless permitted (e.g., fishing for other flatfish or through an EFP).

This proposed action would allow vessels in the directed open access fishery targeting groundfish to operate inside the NT-RCA from 46°16′ N lat. to the U.S./Mexico border with non-bottom contact hook-and-line gear only, subject to the specifications below. Prohibited bottom contact hook-and-line gears would include bottom longline, commercial vertical hook-and-line gear (anchored to the bottom), and dinglebar gear. Vessels would need to declare their intent to fish within the NT-RCA and their gear type prior to departure. Vessels could fish inside and outside of the non-trawl RCA on the same trip but could only carry one type of legal non-bottom contact hook-and-line gear on-board the vessel when fishing occurs in the NT-RCA. Vessels that typically fish in the LEFG or IFQ sector would be required to declare into the OA fishery to utilize this proposed management measure and would be subject to the lower OA trip limits.

The proposed action would include a new gear definition. Legal “non-bottom contact hook-and-line gear” would be defined as stationary vertical jig gear attached to the vessel and not anchored to the bottom, and groundfish troll gear. The following requirements would apply to stationary vertical jig gear: (1) must be a minimum of 50 feet between the bottom weight and the lowest fishing hook; (2) no more than 4 vertical mainlines may be used at one time with no more than 25 hooks on each mainline, and; (3) no more than 100 hooks may be in the water at one time, with no more than 25 extra hooks on board the vessel. “Groundfish troll gear” would be defined as a horizontally-suspended monofilament mainline attached to a troll wire. The following requirements would apply to groundfish troll gear: (1) must be a minimum of 50 feet between the bottom weight and the troll wire's connection to the horizontal mainline; (2) no more than 1 mainline may be used at one time; and (3) no more than 500 hooks may be in the water at one time, with no more than 25 extra hooks on board the vessel; hooks must be spaced apart by a visible marker (e.g., floats, line wraps, colored lines splices), with no more than 25 hooks between each marker and no more than 20 markers on the mainline.

Under the proposed action both stationary vertical jig gear and groundfish troll gear could be equipped with artificial lures and flies. Natural bait or weighted hooks could not be used nor be on board the vessel during the trip. This restriction is expected to mitigate any potential additional seabird bycatch effects, as seabirds are known to dive on baited hooks and potentially become entangled.

In order to fish inside the NT-RCA, vessels would be required to declare into the directed open access fishery, and would not be permitted to declare into any other fishery if fishing inside the NT-RCA.

This proposed management measure may provide increased opportunity for West Coast vessels to expand their portfolios, especially in light of the proposed restrictions related to quillback and copper rockfishes (see Section III.G), but it is likely that a limited group of vessels will take advantage of this opportunity given its limitations. Effort would likely be constrained by fuel prices, potential offshore travel danger to “sport-like” OA vessels, and the Vessel Monitoring System (VMS) requirement. Given the barriers to access the area, it is unlikely the non-trawl allocations for midwater rockfish would be exceeded.

Based on the Analysis (Section 8) and data from the non-trawl EFPs (i.e., Emley-Platt and Real Good Fish EFPs), the gear configurations proposed have relatively low bycatch of groundfish species of concern while being able to harvest healthy midwater rockfish. Under this proposal, non-trawl attainments of healthy midwater rockfish species would likely increase, while impacts to nearshore stocks of concern including quillback and copper rockfish would be limited. Under this proposed new gear and area flexibility, mortality of yelloweye rockfish and cowcod could increase but is expected to remain within the proposed harvest specifications. Additionally, because the gears are designed to not contact the bottom, the proposed gear types have minimal impacts on habitat.

K. LEFG Sablefish Primary Season Extension

This proposed action would permanently extend the LEFG primary sablefish tier fishery (hereinafter referred to as primary fishery) season end date from October 31 to December 31. The primary fishery would close on December 31, or close for an individual vessel owner when the tier limit for the sablefish endorsed permit(s) registered to the vessel has been reached, whichever is earlier. This proposed action would also extend the incidental halibut retention allowance provision for the primary fishery north of Point Chehalis, Washington from October 31 to the date/time specified by the International Pacific Halibut Commission (IPHC) annually for the closure of commercial fisheries coastwide, or until the quota is taken, whichever comes first. After the specified date/time, any incidental halibut would need to be discarded as a prohibited species. The proposed action would not change any other aspects of the program (e.g., stacking privileges, transferability).

The primary sablefish fishery tier program is a limited access privilege program set up under Amendment 14 to PCGFMP (66 FR 41152, August 7, 2001). Participants hold limited entry permits with a pot gear and/or longline gear endorsement and a sablefish endorsement.

Under Amendment 14, as set out in 50 CFR 660.231, the permit holder of a sablefish-endorsed permit receives a tier limit, which is an annual share of the sablefish catch allocation to this sector. NMFS sets three different tier limits through the biennial harvest specifications and management measures process (see Section III.F for the proposed 2023 limits); and up to three permits may be stacked at one time on a vessel participating in the fishery. Stacked tier limits are combined to provide a cumulative catch limit for that vessel. After vessels have caught their full tier limits, they are allowed to move into other fisheries for sablefish, specifically the limited entry or open access trip limit fishery, or fisheries for other species.

Under Amendment 14, the sablefish primary season has historically been open from April 1 through October 31 of each year, though individual permit holders may only fish up to their tier limits and so may be required to cease fishing prior to October 31. These season dates were put into regulation during the development and implementation of the fishery under Amendment 14 to the PCFMP. Prior to the implementation of Amendment 14, the sablefish fishery had operated as a `derby' style fishery, with a season length lasting a few weeks to a few days. Under Amendment 14, the fishery began operating under a seven-month season. The seven-month season structure, as opposed to a year-long season, was intended to allow for timely catch accounting so that the sector allocation was not exceeded. As of 2017, commercial vessels landing sablefish are required to submit e-tickets within 24 hours of offload, “to improve timeliness and accuracy of sablefish catch reporting in the limited entry fixed gear fisheries and open access fisheries” (§ 660.213). Given the increase in speed of modern catch accounting, the original reason for the seven-month season is no longer applicable.

In response to industry requests and Council recommendation, NMFS issued emergency rules in 2020 and 2021 (85 FR 68001, October 27, 2020; 86 FR 59873, October 29, 2021) to temporarily extend the sablefish primary fishery from October 31 to December 31. These emergency actions were intended to mitigate COVID-19 pandemic related disruptions in the fishery by allowing participants more time to harvest their full tier limits.

The Analysis discusses that the primary fishery has experienced lower than average attainment since 2019 amidst higher than average sablefish allocations. Even with the season extension in 2020 and 2021, attainment was only 80 and 74 percent of the sector allocation, respectively. A season extension could provide opportunity and flexibility for vessels to fish their full tier limits and maximize economic benefits.

As detailed in the Analysis, the additional two months proposed in this measure would give primary tier vessels the flexibility to make safer decisions and plan their season based on markets and weather with the ultimate goal of increasing attainment and profitability. Habitat and gear-related impacts resulting from this proposed measure would likely be similar to those of an October 31st season end date, because roughly the same number of fixed gear vessels are expected to participate in the groundfish fishery as a whole. The overall amount of permits in this sector is static; however, some permits are not used every year, or vessels may stack permits, which ultimately reduces the potential number of participants. This proposed measure could increase the amount of time that humpback whales are likely to co-occur with the primary tier fishery. However, the proposed measure would likely have negligible additional impact on humpback whales compared to the 7-month season because, (1) based on migration patterns the likelihood of humpback whale aggregations interacting with fishing gear decreases from October to December, (2) the majority of the effort during the entire sablefish primary fishery season would continue to occur via bottom longline gear and not pot gear, and (3) extending the season would be unlikely to increase the overall amount of pot gear used throughout the season due to restrictions on gear endorsements.

Vessels in the primary fishery north of Point Chehalis, Washington using bottom longline gear are also allowed to retain incidentally caught Pacific halibut up to a specific limit specified at 50 CFR 660.231(b)(3)(iv). Halibut are encountered regularly in the normal operation of the sablefish primary fishery due to the co-occurrence of halibut and sablefish in the same environments, and the design and function of fixed gear. This retention is allowed until the sablefish primary season ends and it contributes additional economic value to this sector. The extended retention allowance proposed in this action would ensure additional economic benefits and reduce regulatory discards of commercially valuable incidental halibut.

The IPHC adopts a closure date for Pacific halibut in all commercial fisheries, which the primary fishery is subject to, and closure dates are typically set at mid- to late-November but was set at December 7 in 2021 and 2022. The IPHC typically sets the season closure date in late January of that year during its annual meeting. Per 50 CFR 300.62, NMFS publishes the IPHC's regulations setting forth annual management measures in the Federal Register by March 15 each year. For example, NMFS published the 2022 annual management measures governing the Pacific halibut fishery on March 7, 2022 (87 FR 12604).

Extending the incidental Pacific halibut allowance for the primary tier fishery to the date annually specified by the IPHC would reduce regulatory discards, provide more opportunity for an important alternative income source, and result in minimal additional impacts to Pacific halibut mortality.

L. Correction to the Definition of Block Area Closures

NMFS proposes a minor change to the PCGFMP to resolve a mismatch between the FMP and current regulatory text. The salmon bycatch minimization measures action (86 FR 10857; February 23, 2021) established Block Area Closures (BACs) as a tool to minimize salmon bycatch. BACs are described in multiple regulation sections (e.g., 50 CFR 660.11 Conservation area(s); § 660.111 Block area closures; § 660.60(c)(3)(i)). The regulations articulate the Council's intent to manage incidental salmon bycatch by vessels using groundfish midwater trawl gear in the EEZ off of Washington, Oregon, and California with Block Area Closures (BACs). However, inadvertently, the FMP was not updated to be consistent with regulations. To avoid potential future implementation delays, updates would be made to the FMP that are consistent with Council intent described in the salmon bycatch mitigation rulemaking document (86 FR 10857, February 23, 2021). The FMP would be revised to include language that BACs are available in the EEZ seaward of Washington, Oregon and California state waters for vessels using limited entry bottom trawl gear and in the EEZ seaward of Washington, Oregon and California state waters for vessels using midwater trawl gear. For more information on this measure, see the NOA for Amendment 30 and the Analysis.

M. Annual Catch Targets for Quillback and Copper Rockfish

The 2021 stock assessments indicated that the portion of quillback rockfish and copper rockfish off the coast of California are likely experiencing localized depletion. An Annual Catch Target (ACT), as defined at 50 CFR 660.11, is a management target set below the ACL to account for management uncertainty. ACTs may be used as an accountability measure to ensure against exceeding an ACL or accomplish management objectives. As they are part of a stock complex, the ACL contributions for copper rockfish and quillback rockfish are combined with the ACL contributions from the other stocks in the complex to set ACLs for the Nearshore Rockfish complexes north and south of 40°10′ N lat. In setting specifications, the Council, for analytic purposes, calculated three ACL contributions for quillback rockfish that corresponded to state boundaries, which were combined and then apportioned based on historical catch to determine the overall ACL contribution for quillback rockfish to each Nearshore Rockfish complex (see Section II.C).

The Council recommended, and NMFS proposes, setting ACTs for copper rockfish and quillback rockfish. For copper rockfish, the ACT would be set equal to its ACL contribution for the portion of the stock found off of California and would be set at 91.54 mt in 2023, and 94.72 mt in 2024. For quillback rockfish, an ACT would be set for the portion of the stock found off of California and would be set at 1.86 mt in 2023, and 1.97 mt in 2024.

Given quillback and copper rockfish are managed in a stock complex, the proposed ACTs would essentially formalize the ACL contributions for management purposes. Setting the ACTs equal to the ACL contributions would allow the Council to recommend necessary management measures inseason when the ACL contribution is met or projected to be met. Exceeding the ACL contribution for stocks in a complex would otherwise typically not trigger a Council response or accountability measure. In order to allow tracking of mortality against the ACT, this proposed rule also includes sorting requirements for quillback and copper rockfish.

CDFW closely monitors commercial and recreational landings of quillback and copper rockfish and the Council would receive updates on landings at each Council meeting. The management response to an overage or projected overage would be highly situational. Therefore, as an accountability measure, should the ACT be exceeded or projected to be exceeded, the Council would consider routine inseason management measures (e.g., bag limit reductions or depth restrictions) at regular Council meetings.

N. Novel Utilization of Existing Rockfish Conservation Area Boundary Lines

The Council recommended, and NMFS proposes, a novel utilization of the previously established Rockfish Conservation Area (RCA) boundary lines for the recreational fishery seaward of California (§ 660.360(c)(3)). Recreational RCA boundary lines are a set of connecting waypoints which approximate a depth contour (§ 660.71 through § 660.73). These lines have historically been used to allow fishing shoreward of a specific RCA boundary line and prohibit fishing seaward of that line. This proposed rule would also allow fishing seaward of a specified RCA boundary line and prohibit fishing shoreward of that line. For example, fishing could be prohibited in Federal waters shoreward of the 30, 40, 50, 60, 75, 100, or 125, fathom line. Additionally, this novel use of the RCA would allow logistical flexibility for the management of overfished species like yelloweye rockfish (current RCA utilization) and non-overfished species that include species of concern such as quillback rockfish, copper rockfish, or cowcod (novel RCA utilization). This new management measure, if approved, may be used during the regular season setting process through the biennial specifications and management measures or as an inseason action to achieve harvest specifications.

This proposed measure is intended to be a tool to reduce mortality for nearshore rockfish species of concern (e.g., quillback rockfish, copper rockfish, or cowcod) or rebuilding yelloweye rockfish by shifting fishing effort away from the habitats and depths where those stocks are most commonly encountered, and onto shelf and slope waters to target other, healthier groundfish stocks. This measure would provide more flexibility in managing groundfish fisheries seaward of California and is designed to be combined with other season structure options and bag limit options to create a suite of management measures which take steps to achieve harvest specifications and minimize impacts to California fisheries and coastal communities. The effectiveness of this proposed management tool would be limited based on the prevalence of each species in state waters as compared to in the EEZ. The majority of fishery effort for copper and quillback rockfish off California is in state waters, therefore, the overall effectiveness of this management measure may be constrained.

The Analysis discusses uncertainty with model projections when RCA boundary lines are utilized in this novel way, especially for species with a deeper depth distribution, like cowcod and yelloweye rockfish. The California Department of Fish and Wildlife's weekly and monthly tracking processes have been an effective and reliable tool to closely monitor recreational inseason mortality and provide timely and accurate information to apply inseason adjustments, such as changes to depth limits, season length, or bag limits, to fisheries.

This proposed measure is intended to limit the negative socioeconomic impacts that could otherwise occur as a result of the need to reduce mortality for quillback and copper rockfishes, and stay within harvest guidelines for yelloweye rockfish and cowcod.

The Analysis discusses the impact of this measure on the recreational boat-based groundfish fisheries in California. Short-term and long-term impacts would likely occur as the sector adjusts to new regulations and fishery operations. Loss of fishing vessels, captains and crew leaving the industry and the potential closures of landings and fishing tackle providers are possible. Innovations in fishing gears or a shift in angler preference for target species could provide new opportunities for anglers, businesses, and communities. These changes could have positive long-term effects, but would not bring immediate relief to communities that would be negatively impacted by fisheries reductions related to quillback rockfish.

Changes to angler behavior are difficult to predict, but anglers may choose to opt out of the groundfish fishery due to fuel costs and other difficulties in reaching fishing grounds, safety concerns related to fishing offshore, logistical constraints associated with smaller vessels, such as vessel size and fuel capacity, and the physical effort of reeling fish up from deeper depths. It is likely the increased distance and travel time associated with offshore RCA lines would reduce small vessel effort. Effort may shift to other state and federally managed fisheries such as Pacific halibut, salmon, California scorpionfish, highly migratory species, coastal pelagic species, California sheephead, California halibut, striped bass, kelp bass, and others as anglers search for other available fishing targets.

In a report (Agenda Item F.6.a, June 2022) to the Council, the Groundfish Advisory Subpanel (GAP) noted that once shelf rockfish species are aboard, it restricts fishermen's ability to fish inshore waters. The GAP stated that mornings are when the outer waters are most accessible due to weather patterns. During the afternoons, winds generally make exposed deep waters unfishable and that is when inshore access is most needed.

As described in Section III.G, in addition to the regulatory management measures to reduce mortality of copper and quillback rockfish in 2022 (and proposed for 2023-2024), the fishery industry has untaken several voluntary measures including dissemination of enhanced species identification information, avoidance procedures, and no retention when a biological sampler is not aboard. It is expected that these mandatory and voluntary measures will substantially reduce mortality. If mortality is lower than expected through the regular inseason monitoring and reporting, the Council and NMFS would consider relieving restrictions during the biennium in order to reduce socioeconomic impacts, while keeping mortality within the recommended ACTs.

For more information on this measure, see the NOA for Amendment 30 and the Analysis.

O. Block Area Closures for Groundfish Mitigation

This proposed rule would make Block Area Closures (BACs) available as a routine management measure to control catch of groundfish by midwater trawl and bottom trawl vessels. BACs could be implemented in the EEZ seaward of Washington, Oregon, and California. BACs could be implemented within tribal Usual and Accustomed (U&A) fishing areas but would only apply to non-tribal vessels. This proposed rule would prohibit midwater trawl and/or bottom trawl fishing within the BAC boundaries.

BACs are size variable spatial closures bounded by latitude lines, defined at 50 CFR 660.11, and depth contour approximations defined at 50 CFR 660.71 through 660.74 ((10 fm (18 m) through 250 fm (457 m)), and § 660.76 (700 fm (1280 m)). Amendment 28 to the FMP (84 FR 63966; November 19, 2019) first established BACs as a management tool. The salmon bycatch minimization measures action (86 FR 10857; February 23, 2021) established BACs as a tool to minimize salmon bycatch. This proposed measure would align the outermost available depth boundaries (i.e., 700 fathoms) across all midwater and bottom trawl BACs used to control groundfish catch.

The BAC tool would allow the Council to recommend, and NMFS to implement, size variable area closures as a routine management measure to address specific areas of high catch or bycatch of one or more specific groundfish species rather than large fixed closure areas (e.g., Bycatch Reduction Area or BRA). BACs would allow for the trawl fishery to remain open in areas outside of the BACs.

This proposed rule would not implement specific individual BACs. BACs could not be used to close an area to any type of fishing other than groundfish bottom or midwater trawling. This proposed rule would allow NMFS to close or reopen BACs preseason (e.g., before the start of the fishing year or before the start of the Pacific whiting fishery) or inseason. The approach would be consistent with existing “routine inseason” frameworks already in the FMP and regulations. Most trip, bag, and size limits, and some Groundfish Conservation Area closures in the groundfish fishery, including BRAs and BACs, have been designated “routine” management measures in the PCGFMP and in § 660.60(c). The Council can use routine management measures to rapidly implement or modify these management measures through a single Council meeting process. Inseason changes to routine management measures are announced in the Federal Register pursuant to the requirements of the Administrative Procedures Act. If good cause exists under the Administrative Procedure Act to waive notice and comment, a single Federal Register notice will announce routine inseason BACs approved by NMFS.

When deciding whether to recommend BACs for NMFS to implement, consistent with the PCGFMP, the Council will consider environmental impacts, including economic impacts, and public comment via the Council process. Depending on the circumstances, NMFS may close areas for a defined period of time, for example, a few months or the remainder of the fishing year, or maintain the closure for an indefinite period of time, for example, until reopened by a subsequent action. NMFS may close one or more BACs and the size of the BACs can vary. A Federal Register notice will announce the geographic boundaries (described with coordinates in codified regulations) of one or more BACs, the effective dates, applicable gear/fishery restrictions, as well as the purpose and rationale. NMFS would also disseminate this information on BACs through public notices and posting on the West Coast Region website (see ADDRESSES for electronic access information).

This action is needed because fishery managers do not currently have appropriate scaled spatial tools to mitigate trawl-based groundfish catches, while also minimizing economic impacts to the fishing industry. BAC could be an important tool to manage a species like Pacific spiny dogfish, which exhibit spatial and seasonal aggregations, that may be limiting based on recent stock assessment outlook.

During development of this measure, the Council noted BACs should be considered a last-resort measure behind industry implemented avoidance measures. The Council also noted BAC were not intended to be used for habitat protection because of their flexible nature.

P. Corrections

This rule proposes minor corrections to the regulations at 50 CFR 600. These regulations are associated with Amendment 29 (85 FR 79880, December 11, 2020), Amendment 21-4 to the PCGFMP (84 FR 68799, December 17, 2019), and the 2019-2020 biennial harvest specifications (83 FR 63970, December 12, 2018). These minor corrections are necessary to reduce confusion and inconsistencies in the regulatory text and ensure the regulations accurately implement the Council's intent.

The Council recommended and NMFS approved the designation of shortbelly rockfish as an ecosystem component species through Amendment 29, as part of the 2021-2022 groundfish management measure process. That rule erroneously did not update the definition of “Ecosystem component species” at § 660.11 to reflect that designation. This rule proposes to include shortbelly rockfish in the list of species designated as ecosystem component species at § 660.11. Additionally, Amendment 29 erroneously included shortbelly rockfish trip limits for limited entry fixed gear and open access vessels. As an ecosystem component species, shortbelly rockfish is not managed “in the fishery,” and therefore should not be subject to trip limits. This rule proposes to remove the shortbelly rockfish trip limit from Table 2 (North) and Table 2 (South) to Part 660, Subpart E, as well as Table 3 (North) and Table 3 (South) to Part 660, Subpart F.

The final rule for Amendment 29 made changes to the trawl/non-trawl allocations established through Amendment 21 to the PCGFMP (75 FR 32993, June 10, 2010). That rule erroneously did not update § 660.55(c)(1) Table 1 to reflect those changes. This rule proposes to correct § 660.55(c)(1) Table 1 by removing the allocations for canary rockfish, as well as petrale sole, widow rockfish, lingcod south of 40°10′ N lat., and the slope rockfish complex south of 40°10′ N lat.. Per Amendment 29, these allocations between the trawl and non-trawl fisheries are determined through the biennial harvest specifications process to better align these allocations with current harvest trends. The Council's recommended and NMFS' proposed allocations through the 2023-2024 specifications process are shown Tables 1b and 2b in the proposed regulatory text for this proposed rule.

Amendment 21-4 moved darkblotched rockfish, pacific ocean perch, and widow rockfish from at-sea allocations to set-asides. That rule erroneously did not update § 660.140 to reflect those changes. This rule proposes to amend § 660.140 to remove these species from paragraph (c)(3)(iii) and add them to paragraph (c)(3)(iv).

Amendment 29 removed the at-sea set-asides from Table 1d to Subpart C of part 660. However, cross references indicating that the at-sea set-asides are located at Table 1d to Subpart C remain, erroneously. This rule proposes removing these cross references in § 660.150 and § 660.160 and clarifying that the at-sea set-asides are described in the biennial specifications.

The final rule for the 2019-2020 biennial harvest specifications contained a revision to the depth boundary within which commercial fixed gear and recreational gear are allowed to operate in the Western Cowcod Conservation Area. Fishing was permitted shoreward of the 20 fathom (fm) (36.6 m) depth contour prior to the 2019-2020 biennial harvest specifications final rule. The final rule revised the depth boundary to allow fishing shoreward of the 40 fm (73 m) depth contour. In the regulations for this change at § 660.360(c)(3)(i)(B), NMFS did not explicitly describe how the 40 fm (73 m) depth contour is delineated, or cross reference the depth contour definition in existing regulations. This rule proposes to correct these regulations to note that a coordinate list describing the 40 fm (73 m) depth contour can be found in § 660.71.

IV. Classification

Pursuant to section 304 (b)(1)(A) of the Magnuson-Stevens Act, the NMFS Assistant Administrator has determined that this proposed rule is consistent with the PCGFMP, other provisions of the Magnuson-Stevens Act, and other applicable law, subject to further consideration after public comment. In making its final determination, NMFS will take into account the complete record, including the data, views, and comments received during the comment period.

Regulations governing the U.S. fisheries for Pacific halibut are developed by the IPHC, the Pacific Fishery Management Council, the North Pacific Fishery Management Council, and the Secretary of Commerce. Section 5 of the Northern Pacific Halibut Act of 1982 (Halibut Act, 16 U.S.C. 773c) allows the Regional Council, having authority for a particular geographical area, to develop regulations governing the allocation and catch of halibut in U.S. Convention waters as long as those regulations do not conflict with IPHC regulations. The proposed action is consistent with the Council's authority to allocate halibut catches among fishery participants in the waters in and off the United States.

Pursuant to Executive Order 13175, this proposed rule was developed after meaningful consultation and collaboration with tribal officials from the area covered by the PCGFMP. Under the Magnuson-Stevens Act at 16 U.S.C. 1852(b)(5), one of the voting members of the Pacific Council must be a representative of an Indian tribe with federally recognized fishing rights from the area of the Council's jurisdiction. In addition, regulations implementing the PCGFMP establish a procedure by which the tribes with treaty fishing rights in the area covered by the PCGFMP request new allocations or regulations specific to the tribes, in writing, before the first of the two meetings at which the Council considers groundfish management measures. The regulations at 50 CFR 660.50 further direct NMFS to develop tribal allocations and regulations in consultation with the affected tribes. The tribal management measures in this proposed rule have been developed following these procedures. The tribal representative on the Council made a motion to adopt the non-whiting tribal management measures, which was passed by the Council. Those management measures, which were developed and proposed by the tribes, are included in this proposed rule.

This proposed rule has been determined to be not significant for purposes of Executive Order 12866.

NMFS prepared an analyses for this action, which address the statutory requirements of the Magnuson-Stevens Act, Presidential Executive Order 12866, and the Regulatory Flexibility Act. The full suite of alternatives analyzed by the Council can be found on the Council's website at www.pcouncil.org. NMFS addressed the statutory requirements of the National Environmental Policy Act through preparation of an EIS and an EA. NMFS prepared an EIS for the 2015-16 biennial harvest specifications and management measures and is available from NMFS (see ADDRESSES). This EIS examined the harvest specifications and management measures for 2015-16 and 10-year projections for routinely adjusted harvest specifications and management measures. The 10-year projections evaluated the impacts of the ongoing implementation of harvest specifications and management measures and to evaluate the impacts of the routine adjustments that are the main component of each biennial cycle. Therefore, the EA for the 2023-24 cycle tiers from the 2015-16 EIS and focuses on the harvest specifications and management measures that were not within the scope of the 10-year projections in the 2015-16 EIS. A copy of the draft EA is available from NMFS (see ADDRESSES). This action also announces a public comment period on the draft EA.

The Chief Counsel for Regulation of the Department of Commerce certified to the Chief Counsel for Advocacy of the Small Business Administration that this proposed rule, if adopted, would not have a significant economic impact on a substantial number of small entities. An estimated six businesses primarily engaged in seafood product preparation and packaging and employing 750 or fewer persons may be affected by this action. An estimated 629 commercial fishing businesses with less than $11 million in annual gross receipts may be affected by this action. An estimated 431 charter fishing boats may be affected by this action, all of which are assumed to have annual receipts of less than $7.5 million and therefore be considered small businesses. One governmental jurisdiction, with a population of less than 50,000 persons and therefore considered small, may be affected by this action. An estimated five not-for-profit organizations with combined annual receipts of less than $7.5 million may be affected by this action. An estimated eight small trust, estates, and agency accounts with annual receipts of less than $32.5 million may be affected by this action. The purpose of this proposed rule is to conserve Pacific Coast groundfish stocks by preventing overfishing, while still allowing harvest opportunity among the various fishery sectors. This will be accomplished by implementing the 2023-2024 annual specifications in the U.S. exclusive economic zone off the West Coast. The harvest specifications affect large and small entities similarly, and for this biennium, several of the catch limits are proposed to increase, providing benefit to all participants. Additionally, this proposed rule contains several of new management measures that are likely to benefit vessels, specifically openings of previously closed fishing grounds. As a result, an initial regulatory flexibility analysis is not required and none has been prepared.

This proposed rule contains no new information collection burden under the Paperwork Reduction Act of 1995. This action will require non-trawl sector participants to declare into the open access fishery and specify the non-bottom contact gear type to be used if fishing in the non-trawl RCA. The collection of such information was previously approved by the Office of Management and Budget (OMB) under OMB Control Number 0648-0573.

List of Subjects in 50 CFR Part 660

Fisheries, Fishing, Reporting and recordkeeping requirements.

Dated: September 16, 2022.
Samuel D. Rauch, III,
Deputy Assistant Administrator for Regulatory Programs, National Marine Fisheries Service.

For the reasons set out in the preamble, 50 CFR part 660 is proposed to be amended as follows:

PART 660—FISHERIES OFF WEST COAST STATES

1. The authority citation for part 660 continues to read as follows:

Authority: 16 U.S.C. 1801 et seq., 16 U.S.C. 773 et seq., and 16 U.S.C. 7001 et seq.

2. Amend § 660.11 by:

a. Revising paragraph (1)(vi)(c) under the definition of “Conservation areas(s)”;

b. Revising paragraph (1) under the definition of “Fishing gear” and adding a paragraph (12);

c. Revising paragraph (10) under the definition of “Groundfish”.

The revisions read as follows:

§ 660.11 General definitions.

* * * * *

Conservation area(s) * * *

(1) * * *

(vi) * * *

(C) Recreational RCAs. Recreational RCAs are closed areas intended to protect overfished rockfish species. In the EEZ seaward of California, recreational RCAs are also intended to limit catch of non-overfished groundfish species. Recreational RCAs may either have boundaries defined by general depth contours or boundaries defined by specific latitude and longitude coordinates approximating depth contours. Boundaries for the recreational RCAs throughout the year are provided in the text in subpart G of this part under each state (Washington, Oregon and California) and may be modified by NMFS inseason pursuant to § 660.60(c).

* * * * *

Fishing gear includes the following types of gear and equipment:

(1) Bottom contact gear means fishing gear designed or modified to make contact with the bottom. This includes, but is not limited to, beam trawl, bottom trawl, dredge, fixed gear, set net, demersal seine, dinglebar gear, and other gear (including experimental gear) designed or modified to make contact with the bottom. Gear used to harvest bottom dwelling organisms (e.g. by hand, rakes, and knives) are also considered bottom contact gear for purposes of this subpart. Non-bottom contact gear is defined in paragraph (12) of this definition.

* * * * *

(12) Non-bottom contact gear means fishing gear designed or modified to not make contact with the bottom. This includes, but is not limited to, commercial vertical hook-and-line gear not anchored to the bottom (e.g., vertical jig gear or rod-and-reel gear with weights suspended off the bottom) and troll gear.

* * * * *

Groundfish * * *

* * * * *

(10) “Ecosystem component species” means species that are included in the PCGFMP but are not “in the fishery” and therefore not actively managed and do not require harvest specifications. Ecosystem component species are not targeted in any fishery, not generally retained for sale or personal use, and are not determined to be subject to overfishing, approaching an overfished condition, or overfished, nor are they likely to become subject to overfishing or overfished in the absence of conservation and management measures. Ecosystem component species include: All skates listed here in paragraph (2), except longnose skate and big skate; all grenadiers listed here in paragraph (5); soupfin shark; ratfish; finescale codling; and shortbelly rockfish as listed here in paragraph (7)(ii).

* * * * *

3. In § 660.25, revise paragraphs (b)(4)(v)(C) and (b)(4)(vi)(D) to read as follows:

§ 660.25 Permits.

* * * * *

(b) * * *

(4) * * *

(v) * * *

(C) Sablefish-endorsed permits. If a permit owner submits an application to register a sablefish-endorsed limited entry permit to a new permit owner or vessel owner during the primary sablefish season described at § 660.231 (generally April 1 through December 31), the initial permit owner must certify on the application form the cumulative quantity, in round weight, of primary season sablefish landed against that permit as of the application signature date for the then current primary season. The new permit owner or vessel owner must sign the application form acknowledging the amount of landings to date given by the initial permit owner. This certified amount should match the total amount of primary season sablefish landings reported on state landing receipts. As required at § 660.12(b), any person landing sablefish must retain on board the vessel from which sablefish is landed, and provide to an authorized officer upon request, copies of any and all reports of sablefish landings from the primary season containing all data, and in the exact manner, required by the applicable state law throughout the primary sablefish season during which a landing occurred and for 15 days thereafter.

* * * * *

(vi) * * *

(D) Sablefish-endorsed permits. If a permit owner submits an application to register a sablefish-endorsed limited entry permit to a new vessel during the primary sablefish season described at § 660.231 (generally April 1 through December 31), the initial permit owner must certify on the application form the cumulative quantity, in round weight, of primary season sablefish landed against that permit as of the application signature date for the then current primary season. The new permit owner or vessel owner associated with the new vessel must sign the application form acknowledging the amount of landings to date given by the initial permit owner. This certified amount should match the total amount of primary season sablefish landings reported on state landing receipts. As required at § 660.12(b), any person landing sablefish must retain on board the vessel from which sablefish is landed, and provide to an authorized officer upon request, copies of any and all reports of sablefish landings from the primary season containing all data, and in the exact manner, required by the applicable state law throughout the primary sablefish season during which a landing occurred and for 15 days thereafter.

* * * * *

4. In § 660.50, revise paragraph (f)(2)(ii) to read as follows:

§ 660.50 Pacific Coast treaty Indian fisheries.

* * * * *

(f) * * *

(2) * * *

(ii) The Tribal allocation is 849 mt in 2023 and 778 mt in 2024 per year. This allocation is, for each year, 10 percent of the Monterey through Vancouver area (North of 36° N lat.) ACL. The Tribal allocation is reduced by 1.7 percent for estimated discard mortality.

* * * * *

5. In § 660.55, revise Table 1 to paragraph (c)(1) to read as follows:

§ 660.55 Allocations.

* * * * *

(c) * * *

(1) * * *

Table 1 to Paragraph (c)(1)—Allocation Amounts and Percentages for Limited Entry Trawl and Non-Trawl Sectors Specified for FMP Groundfish Stocks and Stock Complexes
Stock or complex | All non-treaty LE trawl sectors | All non-treaty non-trawl sectors
Arrowtooth Flounder | 95% | 5%
Chilipepper Rockfish S of 40°10′ N lat | 75% | 25%
Darkblotched Rockfish | 95% | 5%
Dover Sole | 95% | 5%
English Sole | 95% | 5%
Lingcod N of 40°10′ N lat | 45% | 55%
Longspine Thornyhead N of 34°27′ N lat | 95% | 5%
Pacific Cod | 95% | 5%
Pacific Ocean Perch | 95% | 5%
Sablefish S of 36° N lat | 42% | 58%
Shortspine Thornyhead N of 34°27′ N lat | 95% | 5%
Shortspine Thornyhead S of 34°27′ N lat | 50 mt | Remaining Yield
Splitnose Rockfish S of 40°10′ N lat | 95% | 5%
Starry Flounder | 50% | 50%
Yellowtail Rockfish N of 40°10′ N lat | 88% | 12%
Minor Slope Rockfish N rth of 40°10′ N lat | 81% | 19%
Other Flatfish | 90% | 10%

* * * * *

6. Amend § 660.71 by:

a. Removing paragraphs (e)(193), (e)(277), and (r)(20);

b. Redesignating paragraphs (e)(194) through (276) as (e)(193) through (275), (e)(278) through (336) as (e)(276) through (334), (o)(113) through (218) as (o)(114) through (219), (q)(25) as (q)(26), and (r)(21) through (r)(23) as (r)(20) through (r)(22);

c. Revising paragraphs (e)(144) and (e)(192); newly redesignated paragraphs (e)(263), (e)(274), (e)(280), (e)(287), (e)(307), and paragraphs (h)(13), (i)(1), (i)(9), (i)(14), (i)(20), (i)(34), (j)(27), (j)(30), (j)(40)

d. Revising paragraphs (o)(95), (o)(97), (o)(112);

e. Adding new paragraphs (o)(113);

f. Revising newly redesignated paragraphs (o)(181), (o)(193), (0)(215), and (o)(216) and paragraphs (q)(8), (q)(14), (q)(19), (q)(24);

g. Adding new paragraph (q)(25); and

h. Revising newly redesignated paragraphs (r)(8), (r)(15).

The additions and revisions read as follows:

§ 660.71 Latitude/longitude coordinates defining the 10-fm (18-m) through 40-fm (73-m) depth contours.

* * * * *

(e) * * *

* * * * *

(144) 39°16.88′ N lat., 123°49.29′ W long.;

* * * * *

(192) 36°33.20′ N lat., 121°57.50′ W long.;

* * * * *

(263) 34°06.13′ N lat., 119°15.26′ W long.;

* * * * *

(274) 34°04.66′ N lat., 119°04.51′ W long.;

* * * * *

(280) 33°59.78′ N lat., 118°47.26′ W long.;

* * * * *

(287) 33°50.29′ N lat., 118°24.58′ W long.;

* * * * *

(307) 33°35.26′ N lat., 118°02.55′ W long.;

* * * * *

(h) * * *

* * * * *

(13) 33 °56.75′ N lat., 119°49.13′ W long.;

* * * * *

(i) * * *

* * * * *

(1) 33°02.98′ N lat., 118°37.64′ W long.;

* * * * *

(9) 32°54.79′ N lat., 118°33.34′ W long.;

* * * * *

(14) 32°48.05′ N lat., 118°26.81′ W long.;

* * * * *

(20) 32°49.04′ N lat., 118°20.71′ W long.;

* * * * *

(34) 33°02.98′ N lat., 118°37.64′ W long.;

* * * * *

(j) * * *

* * * * *

(27) 33°28.77′ N lat., 118°32.95′ W long.;

* * * * *

(30) 33°27.58′ N lat., 118°29.51′ W long.;

* * * * *

(40) 33°20.21′ N lat., 118°18.50′ W long.;

* * * * *

(o) * * *

* * * * *

(95) 40 °22.41′ N lat., 124°24.19′ W long.;

* * * * *

(97) 40°18.71′ N lat., 124°22.63′ W long.;

* * * * *

(112) 39°22.63′ N lat., 123°51.03′ W long.;

(113) 39°11.86′ N lat., 123°48.83′ W long.;

* * * * *

(181) 34°08.23′ N lat., 119°13.21′ W long.;

* * * * *

(193) 33°49.87′ N lat., 118° 24.15′ W long.;

* * * * *

(215) 32°51.90′ N lat., 117°16.32′ W long.;

(216) 32°52.11′ N lat., 117°19.33′ W long.;

* * * * *

(q) * * *

* * * * *

(8) 32° 54.78′ N lat., 118°33.44′ W long.;

* * * * *

(14) 32°45.53′ N lat., 118°24.82′ W long.;

* * * * *

(19) 32°49.70′ N lat., 118°21.04′ W long.;

* * * * *

(24) 33°02.98′ N lat., 118°35.40′ W long.;

(25) 33°03.36′ N lat., 118°37.57′ W long.; and

* * * * *

(r) * * *

* * * * *

(8) 33°20.88′ N lat., 118°30.54′ W long.;

* * * * *

(15) 33°22.24′ N lat., 118°19.99′ W long.;

* * * * *

7. Amend § 660.72 by:

a. Revising paragraphs (a)(74) and (75), (a)(106) and (107), (a)(130), (a)(132) and (133),

b. Redesignating paragraphs (a)(134) through (200) as (a)(135) through (201);

c. Adding new paragraph (a)(134);

d. Revising paragraphs (a)(147) and (148), (a)(162), (a)(169), (a)(171), (a)(173), (a)(174)

e. Revising paragraphs (c)(18), (c)(33), (d)(2) through (4), (f)(89), (f)(96), (f)(129), (f)(143) and (144), (f)(146), (f)(155), (f)(159), (f)(169), (f)(175) and (176), (f)(208), (g)(17), (h)(2), (h)(4) through (6), (i)(6);

f. Removing paragraph (j)(140);

g. Redesignating paragraphs (j)(99) through (139) as (j)(100) through (140);

h. Adding new paragraph (j)(99);

i. Revising newly redesignated paragraphs (j)(100), and (j)(109) and paragraphs (j)(154), (j)(157), (j)(166), (j)(186) and (187), (j)(189) and (190), (j)(206), (j)(208) through (210), (j)(215), (j)(220) through (222), (j)(227), (k)(29), (l)(3), (m)(1), (m)(3) and (4), (m)(6), (m)(15), and (m)(18).

The additions and revisions read as follows:

§ 660.72 Latitude/longitude coordinates defining the 50 fm (91 m) through 75 fm (137 m) depth contours.

* * * * *

(a) * * *

* * * * *

(74) 40°23.71′ N lat., 124°28.32′ W long.;

(75) 40°22.53′ N lat., 124°24.67′ W long.;

* * * * *

(106) 37°49.84′ N lat., 123°16.05′ W long.;

(107) 37°35.67′ N lat., 122°55.43′ W long.;

* * * * *

(130) 36°00.00′ N lat., 121°34.95′ W long.;

* * * * *

(132) 35°40.44′ N lat., 121° 22.43′ W long.;

(133) 35°27.11′ N lat., 121°03.55′ W long.;

(134) 35°14.91′ N lat., 120°56.67′ W long.;

* * * * *

(147) 34°07.83′ N lat., 119°13.48′ W long.;

(148) 34°07.71′ N lat., 119°13.29′ W long.;

* * * * *

(162) 33°51.33′ N lat., 118°36.00′ W long.;

* * * * *

(169) 33°48.25′ N lat., 118°26.97′ W long.;

* * * * *

(171) 33°44.11′ N lat., 118°25.23′ W long.;

* * * * *

(173) 33°38.16′ N lat., 118°15.65′ W long.;

(174) 33°37.47′ N lat., 118° 16.62′ W long.;

* * * * *

(c) * * *

* * * * *

(18) 33°58.76′ N lat., 119°32.27′ W long.;

* * * * *

(33) 34°02.47′ N lat., 120°30.00′ W long.;

* * * * *

(d) * * *

* * * * *

(2) 33°02.53′ N lat., 118°34.25′ W long.;

(3) 32°55.51′ N lat., 118°28.92′ W long.;

(4) 32°54.99′ N lat., 118°27.72′ W long.;

* * * * *

(f) * * *

* * * * *

(89) 40°34.26′ N lat., 124°29.52′ W long.;

* * * * *

(96) 40°21.58′ N lat., 124°24.87′ W long.;

* * * * *

(129) 36°51.42′ N lat., 121°57.62′ W long.;

* * * * *

(143) 36°10.30′ N lat., 121°43.00′ W long.;

(144) 36°02.54′ N lat., 121°36.43′ W long.;

* * * * *

(146) 35°58.21′ N lat., 121°32.88′ W long.;

* * * * *

(155) 34°23.05′ N lat., 119°56.25′ W long.;

* * * * *

(159) 34°03.80′ N lat., 119°12.70′ W long.;

* * * * *

(169) 33°55.20′ N lat., 118°33.18′ W long.;

* * * * *

(175) 33°49.93′ N lat., 118°26.36′ W long.;

(176) 33°50.68′ N lat., 118°26.15′ W long.;

* * * * *

(208) 32°43.03′ N lat., 117°20.43′ W long.;

* * * * *

(g) * * *

* * * * *

(17) 33°59.22′ N lat., 119°55.49′ W long.;

* * * * *

(h) * * *

* * * * *

(2) 33°02.56′ N lat., 118°34.19′ W long.;

* * * * *

(4) 32°55.01′ N lat., 118°27.70′ W long.;

(5) 32°49.77′ N lat., 118°20.92′ W long.;

(6) 32°48.38′ N lat., 118°20.02′ W long.;

* * * * *

(i) * * *

* * * * *

(6) 33°25.39′ N lat., 118°22.80′ W long.;

* * * * *

(j) * * *

* * * * *

(99) 40°39.40′ N lat., 124°28.90′ W long.;

(100) 40°36.96′ N lat., 124°28.02′ W long.;

* * * * *

(109) 40°21.65′ N lat., 124°24.89′ W long.;

* * * * *

(154) 37°04.49′ N lat., 122°38.50′ W long.;

* * * * *

(157) 37°01.16′ N lat., 122°24.50′ W long.;

* * * * *

(166) 36°49.80′ N lat., 121°57.93′ W long.;

* * * * *

(186) 36°10.35′ N lat., 121°43.03′ W long.;

(187) 36°02.50′ N lat., 121°36.47′ W long.;

* * * * *

(189) 36°00.00′ N lat., 121°35.32′ W long.;

(190) 35°58.20′ N lat., 121°32.97′ W long.;

* * * * *

(206) 34°03.70′ N lat., 119°12.77′ W long.;

* * * * *

(208) 34°04.44′ N lat., 119°04.90′ W long.;

(209) 34°02.94′ N lat., 119°02.89′ W long.;

(210) 34°01.30′ N lat., 119°00.48′ W long.;

* * * * *

(215) 33°58.99′ N lat., 118°47.33′ W long.;

* * * * *

(220) 33°49.85′ N lat., 118°32.31′ W long.;

(221) 33°49.61′ N lat., 118°28.07′ W long.;

(222) 33°49.77′ N lat., 118°26.34′ W long.;

* * * * *

(227) 33°44.07′ N lat., 118°25.28′ W long.;

* * * * *

(k) * * *

* * * * *

(29) 33°51.69′ N lat., 120°07.98′ W long.;

* * * * *

(l) * * *

* * * * *

(3) 32°55.57′ N lat., 118°28.84′ W long.;

* * * * *

(m) * * *

(1) 33°28.13′ N lat., 118°38.25′ W long.;

* * * * *

(3) 33°28.94′ N lat., 118°30.81′ W long.;

(4) 33°26.73′ N lat., 118°27.35′ W long.;

* * * * *

(6) 33°25.42′ N lat., 118°22.76′ W long.;

* * * * *

(15) 33°24.94′ N lat., 118°32.29′ W long.;

* * * * *

(18) 33°28.13′ N lat., 118°38.25′ W long.;

* * * * *

8. Amend § 660.73 by:

a. Revising paragraphs (a)(159) through (322);

b. Adding new paragraphs (a)(323) through (329);

c. Revising paragraphs (d)(10), (e)(188) and (189), (e)(264), (e)(272), (e)(274) through (276), (e)(284) through (286), (e)(290), (e)(318) through (323), (e)(350) through (363);

d. Adding new paragraphs (e)(364) through (371); and

e. Revising paragraphs (f), (g)(12) and (13), (h) and (l).

The additions and revisions read as follows:

§ 660.73 Latitude/longitude coordinates defining the 100 fm (183 m) through 150 fm (274 m) depth contours.

* * * * *

(a) * * *

(159) 40°39.44′ N lat., 124°29.08′ W long.;

(160) 40°37.08′ N lat., 124°28.29′ W long.;

(161) 40°34.76′ N lat., 124°29.82′ W long.;

(162) 40°36.78′ N lat., 124°37.06′ W long.;

(163) 40°32.44′ N lat., 124°39.58′ W long.;

(164) 40°30.37′ N lat., 124°37.30′ W long.;

(165) 40°28.48′ N lat., 124°36.95′ W long.;

(166) 40°24.82′ N lat., 124°35.12′ W long.;

(167) 40°23.30′ N lat., 124°31.60′ W long.;

(168) 40°23.52′ N lat., 124°28.78′ W long.;

(169) 40°22.43′ N lat., 124°25.00′ W long.;

(170) 40°21.72′ N lat., 124°24.94′ W long.;

(171) 40°21.87′ N lat., 124°27.96′ W long.;

(172) 40°21.40′ N lat., 124°28.74′ W long.;

(173) 40°19.68′ N lat., 124°28.49′ W long.;

(174) 40°17.73′ N lat., 124°25.43′ W long.;

(175) 40°18.37′ N lat., 124°23.35′ W long.;

(176) 40°15.75′ N lat., 124°26.05′ W long.;

(177) 40°16.75′ N lat., 124°33.71′ W long.;

(178) 40°16.29′ N lat., 124°34.36′ W long.;

(179) 40°10.13′ N lat., 124°21.92′ W long.;

(180) 40°07.70′ N lat., 124°18.44′ W long.;

(181) 40°08.84′ N lat., 124°15.86′ W long.;

(182) 40°06.39′ N lat., 124°17.26′ W long.;

(183) 40°03.15′ N lat., 124°14.43′ W long.;

(184) 40°02.19′ N lat., 124°12.85′ W long.;

(185) 40°02.89′ N lat., 124°11.78′ W long.;

(186) 40°02.78′ N lat., 124°10.70′ W long.;

(187) 40°04.57′ N lat., 124°10.08′ W long.;

(188) 40°06.06′ N lat., 124°08.30′ W long.;

(189) 40°04.05′ N lat., 124°08.93′ W long.;

(190) 40°01.17′ N lat., 124°08.80′ W long.;

(191) 40°01.00′ N lat., 124°09.96′ W long.;

(192) 39°58.07′ N lat., 124°11.81′ W long.;

(193) 39°56.39′ N lat., 124°08.69′ W long.;

(194) 39°54.64′ N lat., 124°07.30′ W long.;

(195) 39°53.86′ N lat., 124°07.95′ W long.;

(196) 39°51.95′ N lat., 124°07.63′ W long.;

(197) 39°48.78′ N lat., 124°03.29′ W long.;

(198) 39°47.36′ N lat., 124°03.31′ W long.;

(199) 39°40.08′ N lat., 123°58.37′ W long.;

(200) 39°36.16′ N lat., 123°56.90′ W long.;

(201) 39°30.75′ N lat., 123°55.86′ W long.;

(202) 39°31.62′ N lat., 123°57.33′ W long.;

(203) 39°30.91′ N lat., 123°57.88′ W long.;

(204) 39°01.79′ N lat., 123°56.59′ W long.;

(205) 38°59.42′ N lat., 123°55.67′ W long.;

(206) 38°58.89′ N lat., 123°56.28′ W long.;

(207) 38°57.50′ N lat., 123°56.28′ W long.;

(208) 38°54.72′ N lat., 123°55.68′ W long.;

(209) 38°48.95′ N lat., 123°51.85′ W long.;

(210) 38°36.67′ N lat., 123°40.20′ W long.;

(211) 38°33.82′ N lat., 123°39.23′ W long.;

(212) 38°29.02′ N lat., 123°33.52′ W long.;

(213) 38°18.88′ N lat., 123°25.93′ W long.;

(214) 38°14.12′ N lat., 123°23.26′ W long.;

(215) 38°11.07′ N lat., 123°22.07′ W long.;

(216) 38°03.18′ N lat., 123°20.77′ W long.;

(217) 38°00.00′ N lat., 123°23.08′ W long.;

(218) 37°55.07′ N lat., 123°26.81′ W long.;

(219) 37°50.66′ N lat., 123°23.06′ W long.;

(220) 37°45.18′ N lat., 123°11.88′ W long.;

(221) 37°35.67′ N lat., 123°01.20′ W long.;

(222) 37°26.81′ N lat., 122°55.57′ W long.;

(223) 37°26.78′ N lat., 122°53.91′ W long.;

(224) 37°25.74′ N lat., 122°54.13′ W long.;

(225) 37°25.33′ N lat., 122°53.59′ W long.;

(226) 37°25.29′ N lat., 122°52.57′ W long.;

(227) 37°24.50′ N lat., 122°52.09′ W long.;

(228) 37°23.25′ N lat., 122°53.12′ W long.;

(229) 37°15.58′ N lat., 122°48.36′ W long.;

(230) 37°11.00′ N lat., 122°44.50′ W long.;

(231) 37°07.00′ N lat., 122°41.25′ W long.;

(232) 37°03.18′ N lat., 122°38.15′ W long.;

(233) 37°00.48′ N lat., 122°33.93′ W long.;

(234) 36°58.70′ N lat., 122°27.22′ W long.;

(235) 37°00.85′ N lat., 122°24.70′ W long.;

(236) 36°58.00′ N lat., 122°24.14′ W long.;

(237) 36°58.74′ N lat., 122°21.51′ W long.;

(238) 36°56.97′ N lat., 122°21.32′ W long.;

(239) 36°51.52′ N lat., 122°10.68′ W long.;

(240) 36°48.39′ N lat., 122°07.60′ W long.;

(241) 36°47.43′ N lat., 122°03.22′ W long.;

(242) 36°50.95′ N lat., 121°58.03′ W long.;

(243) 36°49.92′ N lat., 121°58.01′ W long.;

(244) 36°48.86′ N lat., 121°58.80′ W long.;

(245) 36°47.76′ N lat., 121°58.68′ W long.;

(246) 36°48.39′ N lat., 121°51.10′ W long.;

(247) 36°45.74′ N lat., 121°54.17′ W long.;

(248) 36°45.51′ N lat., 121°57.72′ W long.;

(249) 36°38.84′ N lat., 122°01.32′ W long.;

(250) 36°35.62′ N lat., 122°00.98′ W long.;

(251) 36°32.46′ N lat., 121°59.15′ W long.;

(252) 36°32.79′ N lat., 121°57.67′ W long.;

(253) 36°31.98′ N lat., 121°56.55′ W long.;

(254) 36°31.79′ N lat., 121°58.40′ W long.;

(255) 36°30.73′ N lat., 121°59.70′ W long.;

(256) 36°30.31′ N lat., 122°00.22′ W long.;

(257) 36°29.35′ N lat., 122°00.28′ W long.;

(258) 36°27.66′ N lat., 121°59.80′ W long.;

(259) 36°26.22′ N lat., 121°58.35′ W long.;

(260) 36°21.20′ N lat., 122°00.72′ W long.;

(261) 36°20.47′ N lat., 122°02.92′ W long.;

(262) 36°18.46′ N lat., 122°04.51′ W long.;

(263) 36°15.92′ N lat., 122°01.33′ W long.;

(264) 36°13.81′ N lat., 121°57.40′ W long.;

(265) 36°14.43′ N lat., 121°55.43′ W long.;

(266) 36°10.24′ N lat., 121°43.08′ W long.;

(267) 36°07.66′ N lat., 121°40.91′ W long.;

(268) 36°02.49′ N lat., 121°36.51′ W long.;

(269) 36°01.08′ N lat., 121°36.63′ W long.;

(270) 36°00.00′ N lat., 121°35.41′ W long.;

(271) 35°57.84′ N lat., 121°32.81′ W long.;

(272) 35°50.36′ N lat., 121°29.32′ W long.;

(273) 35°39.03′ N lat., 121°22.86′ W long.;

(274) 35°24.27′ N lat., 121°02.74′ W long.;

(275) 35°16.53′ N lat., 121°00.39′ W long.;

(276) 35°04.82′ N lat., 120°53.96′ W long.;

(277) 34°52.51′ N lat., 120°51.62′ W long.;

(278) 34°43.36′ N lat., 120°52.12′ W long.;

(279) 34°38.06′ N lat., 120°49.65′ W long.;

(280) 34°30.85′ N lat., 120°44.76′ W long.;

(281) 34°27.00′ N lat., 120°39.00′ W long.;

(282) 34°21.90′ N lat., 120°25.25′ W long.;

(283) 34°24.86′ N lat., 120°16.81′ W long.;

(284) 34°22.80′ N lat., 119°57.06′ W long.;

(285) 34°18.59′ N lat., 119°44.84′ W long.;

(286) 34°15.04′ N lat., 119°40.34′ W long.;

(287) 34°14.40′ N lat., 119°45.39′ W long.;

(288) 34°12.32′ N lat., 119°42.41′ W long.;

(289) 34°09.71′ N lat., 119°28.85′ W long.;

(290) 34°04.70′ N lat., 119°15.38′ W long.;

(291) 34°03.33′ N lat., 119°12.93′ W long.;

(292) 34°02.72′ N lat., 119°07.01′ W long.;

(293) 34°03.90′ N lat., 119°04.64′ W long.;

(294) 34°02.75′ N lat., 119°02.88′ W long.;

(295) 33°59.44′ N lat., 119°03.43′ W long.;

(296) 33°59.12′ N lat., 118°59.59′ W long.;

(297) 33°59.84′ N lat., 118°57.29′ W long.;

(298) 33°58.83′ N lat., 118°46.69′ W long.;

(299) 33°58.73′ N lat., 118°41.76′ W long.;

(300) 33°55.09′ N lat., 118°34.11′ W long.;

(301) 33°54.09′ N lat., 118°38.42′ W long.;

(302) 33°51.00′ N lat., 118°36.66′ W long.;

(303) 33°49.06′ N lat., 118°31.86′ W long.;

(304) 33°49.69′ N lat., 118°26.49′ W long.;

(305) 33°49.35′ N lat., 118°26.04′ W long.;

(306) 33°47.60′ N lat., 118°31.13′ W long.;

(307) 33°39.82′ N lat., 118°18.31′ W long.;

(308) 33°35.68′ N lat., 118°16.81′ W long.;

(309) 33°32.85′ N lat., 118°09.41′ W long.;

(310) 33°35.14′ N lat., 118°04.95′ W long.;

(311) 33°33.56′ N lat., 118°00.63′ W long.;

(312) 33°34.25′ N lat., 117°53.44′ W long.;

(313) 33°31.65′ N lat., 117°49.21′ W long.;

(314) 33°16.07′ N lat., 117°34.74′ W long.;

(315) 33°07.06′ N lat., 117°22.71′ W long.;

(316) 33°02.81′ N lat., 117°21.17′ W long.;

(317) 33°01.76′ N lat., 117°20.51′ W long.;

(318) 32°59.90′ N lat., 117°19.38′ W long.;

(319) 32°57.29′ N lat., 117°18.94′ W long.;

(320) 32°56.15′ N lat., 117°19.54′ W long.;

(321) 32°55.30′ N lat., 117°19.38′ W long.;

(322) 32°54.27′ N lat., 117°17.17′ W long.;

(323) 32°52.94′ N lat., 117°17.11′ W long.;

(324) 32°52.66′ N lat., 117°19.67′ W long.;

(325) 32°50.95′ N lat., 117°21.17′ W long.;

(326) 32°47.11′ N lat., 117°22.98′ W long.;

(327) 32°45.60′ N lat., 117°22.64′ W long.;

(328) 32°42.79′ N lat., 117°21.16′ W long.; and

(329) 32°34.22′ N lat., 117°21.20′ W long.

* * * * *

(d) * * *

* * * * *

(10) 34°02.97′ N lat., 119°16.89′ W long.;

* * * * *

(e) * * *

* * * * *

(188) 40°22.32′ N lat., 124°25.15′ W long.;

(189) 40°21.85′ N lat., 124°25.09′ W long.;

* * * * *

(264) 36°51.44′ N lat., 122°10.79′ W long.;

* * * * *

(272) 36°45.52′ N lat., 121°57.74′ W long.;

* * * * *

(274) 36°38.84′ N lat., 122°01.44′ W long.;

(275) 36°35.62′ N lat., 122°01.06′ W long.;

(276) 36°32.41′ N lat., 121°59.18′ W long.;

* * * * *

(284) 36°13.66′ N lat., 121°57.17′ W long.;

(285) 36°14.35′ N lat., 121°55.38′ W long.;

(286) 36°10.18′ N lat., 121°43.26′ W long.;

* * * * *

(290) 35°59.96′ N lat., 121°35.39′ W long.;

* * * * *

(318) 34°07.06′ N lat., 120°10.42′ W long.;

(319) 34°08.93′ N lat., 120°18.34′ W long.;

(320) 34°11.04′ N lat., 120°25.20′ W long.;

(321) 34°13.01′ N lat., 120°29.29′ W long.;

(322) 34°09.41′ N lat., 120°37.69′ W long.;

(323) 34°03.20′ N lat., 120°34.52′ W long.;

* * * * *

(350) 33°48.70′ N lat., 118°31.99′ W long.;

(351) 33°48.87′ N lat., 118°29.47′ W long.;

(352) 33°48.37′ N lat., 118°29.40′ W long.;

(353) 33°47.63′ N lat., 118°31.57′ W long.;

(354) 33°39.78′ N lat., 118°18.40′ W long.;

(355) 33°35.50′ N lat., 118°16.85′ W long.;

(356) 33°32.46′ N lat., 118°10.90′ W long.;

(357) 33°32.81′ N lat., 118°07.30′ W long.;

(358) 33°34.38′ N lat., 118°05.94′ W long.;

(359) 33°34.42′ N lat., 118°03.95′ W long.;

(360) 33°33.40′ N lat., 118°01.26′ W long.;

(361) 33°34.11′ N lat., 117°54.07′ W long.;

(362) 33°31.61′ N lat., 117°49.30′ W long.;

(363) 33°16.36′ N lat., 117°35.48′ W long.;

(364) 33°06.81′ N lat., 117°22.93′ W long.;

(365) 32°59.28′ N lat., 117°19.69′ W long.;

(366) 32°55.37′ N lat., 117°19.55′ W long.;

(367) 32°53.12′ N lat., 117°17.49′ W long.;

(368) 32°52.56′ N lat., 117°20.75′ W long.;

(369) 32°46.42′ N lat., 117°23.45′ W long.;

(370) 32°42.71′ N lat., 117°21.45′ W long.; and

(371) 32°34.54′ N lat., 117°23.04′ W long.

* * * * *

(f) The 125 fm (229 m) depth contour around San Clemente Island off the state of California is defined by straight lines connecting all of the following points in the order stated:

(1) 33°04.86′ N lat., 118°37.89′ W long.;

(2) 33°02.67′ N lat., 118°34.07′ W long.;

(3) 32°55.97′ N lat., 118°28.95′ W long.;

(4) 32°55.06′ N lat., 118°27.66′ W long.;

(5) 32°49.79′ N lat., 118°20.84′ W long.;

(6) 32°48.02′ N lat., 118°19.49′ W long.;

(7) 32°47.37′ N lat., 118°21.72′ W long.;

(8) 32°43.58′ N lat., 118°24.54′ W long.;

(9) 32°47.74′ N lat., 118°30.39′ W long.;

(10) 32°49.74′ N lat., 118°32.11′ W long.;

(11) 32 °53.36′ N lat., 118°33.44′ W long.;

(12) 32 °54.89′ N lat., 118°35.37′ W long.;

(13) 33 °00.20′ N lat., 118°38.72′ W long.;

(14) 33 °03.15′ N lat., 118°39.80′ W long.; and

(15) 33 °04.86′ N lat., 118°37.89′ W long.;

* * * * *

(g) * * *

* * * * *

(12) 33°19.85′ N lat., 118°32.25′ W long.;

(13) 33°20.82′ N lat., 118°32.98′ W long.;

* * * * *

(h) The 125 fm (229 m) depth contour around Lasuen Knoll off the state of California is defined by straight lines connecting all of the following points in the order stated:

(1) 33°24.50′ N lat., 118°01.08′ W long.;

(2) 33°23.35′ N lat., 117°59.83′ W long.;

(3) 33°23.69′ N lat., 117°58.47′ W long.;

(4) 33°24.76′ N lat., 117°59.33′ W long.; and

(5) 33°24.50′ N lat., 118°01.08′ W long.

* * * * *

(l) The 150 fm (274 m) depth contour used around Lasuen Knoll off the state of California is defined by straight lines connecting all of the following points in the order stated:

(1) 33°25.07′ N lat., 117°59.26′ W long.;

(2) 33°23.69′ N lat., 117°58.13′ W long.;

(3) 33°23.18′ N lat., 117°59.87′ W long.;

(4) 33°24.61′ N lat., 118°01.31′ W long.; and

(5) 33°25.07′ N lat., 117°59.26′ W long.

* * * * *

9. In § 660.74, revise paragraphs (d), (j), and (p)(3) through (7) to read as follows:

§ 660.74 Latitude/longitude coordinates defining the 180 fm (329 m) through 250 fm (457 m) depth contours.

* * * * *

(d) The 180 fm (329 m) depth contour used around Lasuen Knoll off the state of California is defined by straight lines connecting all of the following points in the order stated:

(1) 33°25.05′ N lat., 118°01.70′ W long.;

(2) 33°25.41′ N lat., 117°59.36′ W long.;

(3) 33°23.49′ N lat., 117°57.47′ W long.;

(4) 33°23.02′ N lat., 117°59.78′ W long.;

(5) 33°23.85′ N lat., 118°00.88′ W long.; and

(6) 33°25.05′ N lat., 118°01.70′ W long.

* * * * *

(j) The 200 fm (366 m) depth contour used around Lasuen Knoll off the state of California is defined by straight lines connecting all of the following points in the order stated:

(1) 33°25.91′ N lat., 117°59.44′ W long.;

(2) 33°23.37′ N lat., 117°56.97′ W long.;

(3) 33°22.88′ N lat., 117°59.72′ W long.;

(4) 33°23.85′ N lat., 118°01.03′ W long.;

(5) 33°25.20′ N lat., 118°01.89′ W long.; and

(6) 33°25.91′ N lat., 117°59.44′ W long.

* * * * *

(p) * * *

* * * * *

(3) 33°23.83′ N lat., 117°56.19′ W long.;

(4) 33°22.24′ N lat., 117°57.20′ W long.;

(5) 33°22.78′ N lat., 117°59.68′ W long.;

(6) 33°23.79′ N lat., 118°01.32′ W long.;

(7) 33°25.79′ N lat., 118°02.25′ W long.;

* * * * *

10. Revise Tables 1a through 1c to part 660, subpart C, to read as follows:

* * * * *

Table 1a. to Part 660, Subpart C—2023, Specifications of OFL, ABC, ACL, ACT and Fishery HG
[(Weights in metric tons). Capitalized stocks are rebuilding.]
Stocks | Area | OFL | ABC | ACL ᵃ | Fishery HG ᵇ
YELLOWEYE ROCKFISH ᶜ | Coastwide | 123 | 103 | 66 | 55.3
Arrowtooth Flounder ᵈ | Coastwide | 26,391 | 18,632 | 18,632 | 16,537
Big Skate ᵉ | Coastwide | 1,541 | 1,320 | 1,320 | 1,260.2
Black Rockfish ᶠ | California (S of 42° N lat) | 368 | 334 | 334 | 332.1
Black Rockfish ᵍ | Washington (N of 46°16′ N lat) | 319 | 290 | 290 | 271.8
Bocaccio ʰ | S of 40°10′ N lat | 2,009 | 1,842 | 1,842 | 1,793.9
Cabezon ⁱ | California (S of 42° N lat) | 197 | 182 | 182 | 180.4
California Scorpionfish ʲ | S of 34°27′ N lat | 290 | 262 | 262 | 258.4
Canary Rockfish ᵏ | Coastwide | 1,413 | 1,284 | 1,284 | 1,215.1
Chilipepper ˡ | S of 40°10′ N lat | 2,401 | 2,183 | 2,183 | 2,085
Cowcod ᵐ | S of 40°10′ N lat | 113 | 80 | 80 | 68.8
Cowcod | (Conception) | 94 | 69 | NA | NA
Cowcod | (Monterey) | 19 | 11 | NA | NA
Darkblotched Rockfish n | Coastwide | 856 | 785 | 785 | 761.2
Dover Sole ᵒ | Coastwide | 63,834 | 59,685 | 50,000 | 48,402.9
English Sole ᵖ | Coastwide | 11,133 | 9,018 | 9,018 | 8,758.5
Lingcod q | N of 40°10′ N lat | 5,010 | 4,378 | 4,378 | 4,098.4
Lingcod ʳ | S of 40°10′ N lat | 846 | 739 | 726 | 710.5
Longnose Skate ˢ | Coastwide | 1,993 | 1,708 | 1,708 | 1,456.7
Longspine Thornyhead ᵗ | N of 34°27′ N lat | 4,616 | 3,019 | 2,295 | 2,241.3
Longspine Thornyhead ᵘ | S of 34°27′ N lat | 725 | 722.8
Pacific Cod ᵛ | Coastwide | 3,200 | 1,926 | 1,600 | 1,094
Pacific Ocean Perch ʷ | N of 40°10′ N lat | 4,248 | 3,573 | 3,573 | 3,427.5
Pacific Whiting ˣ | Coastwide | x | x | x | x
Petrale Sole ʸ | Coastwide | 3,763 | 3,485 | 3,485 | 3,098.8
Sablefish ᶻ | N of 36° N lat | 11,577 | 10,825 | 8,486 | See Table 1c
Sablefish ᵃᵃ | S of 36° N lat | 2,338 | 2,310.6
Shortspine Thornyhead ᵇᵇ | N of 34°27′ N lat | 3,177 | 2,078 | 1,359 | 1,280.7
Shortspine Thornyhead ᶜᶜ | S of 34°27′ N lat | 719 | 712.3
Spiny Dogfish ᵈᵈ | Coastwide | 1,911 | 1,456 | 1,456 | 1,104.5
Splitnose ᵉᵉ | S of 40°10′ N lat | 1,803 | 1,592 | 1,592 | 1,573.4
Starry Flounder ᶠᶠ | Coastwide | 652 | 392 | 392 | 343.7
Widow Rockfish ᵍᵍ | Coastwide | 13,633 | 12,624 | 12,624 | 12,385.7
Yellowtail Rockfish ʰʰ | N of 40°10′ N lat | 6,178 | 5,666 | 5,666 | 4,638.5
Stock Complexes
Blue/Deacon/Black Rockfish ⁱⁱ | Oregon | 679 | 597 | 597 | 595.2
Cabezon/Kelp Greenling ʲʲ | Oregon | 202 | 185 | 185 | 184.2
Cabezon/Kelp Greenling ᵏᵏ | Washington | 25 | 20 | 20 | 18.0
Nearshore Rockfish North ˡˡ | N of 40°10′ N lat | 110 | 93 | 93 | 89.7
Nearshore Rockfish South ᵐᵐ | S of 40°10′ N lat | 1,089 | 897 | 887 | 882.5
Other Fish ⁿⁿ | Coastwide | 286 | 223 | 223 | 201.8
Other Flatfish ᵒᵒ | Coastwide | 7,887 | 4,862 | 4,862 | 4,641
Shelf Rockfish North ᵖᵖ | N of 40°10′ N lat | 1,614 | 1,283 | 1,283 | 1,212.1
Shelf Rockfish South qq | S of 40°10′ N lat | 1,835 | 1,469 | 1,469 | 1,336.2
Slope Rockfish North ʳʳ | N of 40°10′ N lat | 1,819 | 1,540 | 1,540 | 1,474.6
Slope Rockfish South ˢˢ | S of 40°10′ N lat | 870 | 701 | 701 | 662.1
ᵃ Annual catch limits (ACLs), annual catch targets (ACTs) and harvest guidelines (HGs) are specified as total catch valueS
ᵇ Fishery HGs means the HG or quota after subtracting Pacific Coast treaty Indian tribes allocations and projected catch, projected research catch, deductions for fishing mortality in non-groundfish fisheries, and deductions for EFPs from the ACL or ACT.
ᶜ Yelloweye rockfish. The 66 mt ACL is based on the current rebuilding plan with a target year to rebuild of 2029 and an SPR harvest rate of 65 percent. 10.7 mt is deducted from the ACL to accommodate the Tribal fishery (5 mt), EFP fishing (0.12 mt), research catch (2.92 mt), and incidental open access mortality (2.66 mt) resulting in a fishery HG of 55.3 mt. The non-trawl HG is 50.9 mt. The combined non-nearshore/nearshore HG is 10.7 mt. Recreational HGs are: 13.2 mt (Washington); 11.7 mt (Oregon); and 15.3 mt (California). In addition, the non-trawl ACT is 39.9 mt, and the combined non-nearshore/nearshore ACT is 8.4 mt. Recreational ACTs are: 10.4 mt (Washington), 9.2 mt (Oregon), and 12.0 mt (California).
ᵈ Arrowtooth flounder. 2,094.98 mt is deducted from the ACL to accommodate the Tribal fishery (2,041 mt), research catch (12.98 mt) and incidental open access mortality (41 mt), resulting in a fishery HG of 16,537 mt.
ᵉ Big skate. 59.8 mt is deducted from the ACL to accommodate the Tribal fishery (15 mt), research catch (5.49 mt), and incidental open access mortality (39.31 mt), resulting in a fishery HG of 1,260.2 mt.
ᶠ Black rockfish (California). 2.26 mt is deducted from the ACL to accommodate EFP fishing (1.0 mt), research catch (0.08 mt), and incidental open access mortality (1.18 mt), resulting in a fishery HG of 332.1 mt.
ᵍ Black rockfish (Washington). 18.1 mt is deducted from the ACL to accommodate the Tribal fishery (18 mt) and research catch (0.1 mt), resulting in a fishery HG of 271.8 mt.
ʰ Bocaccio south of 40°10′ N lat. Bocaccio are managed with stock-specific harvest specifications south of 40°10′ N lat. and within the Minor Shelf Rockfish complex north of 40°10′ N lat. 48.12 mt is deducted from the ACL to accommodate EFP fishing (40 mt), research catch (5.6 mt), and incidental open access mortality (2.52 mt), resulting in a fishery HG of 1,793.9 mt. The California recreational fishery south of 40°10′ N lat. has an HG of 755.6 mt.
ⁱ Cabezon (California). 1.63 mt is deducted from the ACL to accommodate EFP fishing (1 mt), research catch (0.02 mt), and incidental open access fishery mortality (0.61 mt), resulting in a fishery HG of 180.4 mt.
ʲ California scorpionfish south of 34°27′ N lat. 3.89 mt is deducted from the ACL to accommodate research (0.18 mt) and the incidental open access fishery (3.71 mt), resulting in a fishery HG of 258.4 mt.
ᵏ Canary rockfish. 68.91 mt is deducted from the ACL to accommodate the Tribal fishery (50 mt), EFP fishing (6 mt), and research catch (10.08 mt), and incidental open access mortality (2.83 mt), resulting in a fishery HG of 1,215.1 mt. The combined nearshore/non-nearshore HG is 121.2 mt. Recreational HGs are: 41.4 mt (Washington); 62.3 mt (Oregon); and 111.7 mt (California).
ˡ Chilipepper rockfish south of 40°10′ N lat. Chilipepper are managed with stock-specific harvest specifications south of 40°10′N lat. and within the Minor Shelf Rockfish complex north of 40°10′ N lat. 97.7 mt is deducted from the ACL to accommodate EFP fishing (70 mt), research catch (14.04 mt), incidental open access fishery mortality (13.66 mt), resulting in a fishery HG of 2,085 mt.
ᵐ Cowcod south of 40°10′ N lat. Cowcod are managed with stock-specific harvest specifications south of 40°10′ N lat. and within the Minor Shelf Rockfish complex north of 40°10′ N lat. 11.17 mt is deducted from the ACL to accommodate EFP fishing (1 mt), research catch (10 mt), and incidental open access mortality (0.17 mt), resulting in a fishery HG of 68.8 mt.
ⁿ Darkblotched rockfish. 23.76 mt is deducted from the ACL to accommodate the Tribal fishery (5 mt), EFP fishing (0.5 mt), research catch (8.46 mt), and incidental open access mortality (9.8 mt) resulting in a fishery HG of 761.2 mt.
ᵒ Dover sole. 1,597.11 mt is deducted from the ACL to accommodate the Tribal fishery (1,497 mt), research catch (50.84 mt), and incidental open access mortality (49.27 mt), resulting in a fishery HG of 48,402.9 mt.
ᵖ English sole. 259.52 mt is deducted from the ACL to accommodate the Tribal fishery (200 mt), research catch (17 mt), and incidental open access mortality (42.52 mt), resulting in a fishery HG of 8,758.5 mt.
q Lingcod north of 40°10′ N lat. 279.63 mt is deducted from the ACL for the Tribal fishery (250 mt), research catch (17.71 mt), and incidental open access mortality (11.92 mt) resulting in a fishery HG of 4,098.4 mt.
ʳ Lingcod south of 40°10′ N lat. 15.5 mt is deducted from the ACL to accommodate EFP fishing (4 mt), research catch (3.19 mt), and incidental open access mortality (8.31 mt), resulting in a fishery HG of 710.5 mt.
ˢ Longnose skate. 251.3 mt is deducted from the ACL to accommodate the Tribal fishery (220 mt), research catch (12.46 mt), and incidental open access mortality (18.84 mt), resulting in a fishery HG of 1,456.7 mt.
ᵗ Longspine thornyhead north of 34°27′ N lat. 53.71 mt is deducted from the ACL to accommodate the Tribal fishery (30 mt), research catch (17.49 mt), and incidental open access mortality(6.22 mt), resulting in a fishery HG of 2,241.3 mt.
ᵘ Longspine thornyhead south of 34°27′ N lat. 2.24 mt is deducted from the ACL to accommodate research catch (1.41 mt) and incidental open access mortality (0.83 mt), resulting in a fishery HG of 722.8 mt.
ᵛ Pacific cod. 506 mt is deducted from the ACL to accommodate the Tribal fishery (500 mt), research catch (5.47 mt), and incidental open access mortality (0.53 mt), resulting in a fishery HG of 1,094 mt.
ʷ Pacific ocean perch north of 40°10′ N lat. Pacific ocean perch are managed with stock-specific harvest specifications north of 40°10′ N lat. and within the Minor Slope Rockfish complex south of 40°10′ N lat. 145.48 mt is deducted from the ACL to accommodate the Tribal fishery (130 mt), research catch (5.39 mt), and incidental open access mortality (10.09 mt), resulting in a fishery HG of 3,427.5 mt.
ˣ Pacific whiting. Pacific whiting are assessed annually. The final specifications will be determined consistent with the U.S-Canada Pacific Whiting Agreement and will be announced after the Council′s April 2023 meeting.
ʸ Petrale sole. 386.24 mt is deducted from the ACL to accommodate the Tribal fishery (350 mt), EFP fishing (1 mt), research catch (24.14 mt), and incidental open access mortality (11.1 mt), resulting in a fishery HG of 3,098.8 mt.
ᶻ Sablefish north of 36° N lat. The sablefish coastwide ACL value is not specified in regulationS The coastwide sablefish ACL value is apportioned north and south of 36° N lat., using the rolling 5-year average estimated swept area biomass from the NMFS NWFSC trawl survey, with 78.4 percent apportioned north of 36° N lat. and 21.6 percent apportioned south of 36° N lat. The northern ACL is 8,486 mt and is reduced by 849 mt for the Tribal allocation (10 percent of the ACL north of 36° N lat.). The 849 mt Tribal allocation is reduced by 1.7 percent to account for discard mortality. Detailed sablefish allocations are shown in Table 1c.
ᵃᵃ Sablefish south of 36° N lat. The ACL for the area south of 36° N lat. is 2,338 mt (21.6 percent of the calculated coastwide ACL value). 27.4 mt is deducted from the ACL to accommodate research catch (2.40 mt) and incidental open access mortality (25 mt), resulting in a fishery HG of 2,310.6 mt.
ᵇᵇ Shortspine thornyhead north of 34°27′ N lat. 78.3 mt is deducted from the ACL to accommodate the Tribal fishery (50 mt), research catch (10.48 mt), and incidental open access mortality (17.82 mt), resulting in a fishery HG of 1,280.7 mt for the area north of 34°27′ N lat.
ᶜᶜ Shortspine thornyhead south of 34°27′ N lat. 6.71 mt is deducted from the ACL to accommodate research catch (0.71 mt) and incidental open access mortality (6 mt), resulting in a fishery HG of 712.3 mt for the area south of 34°27′ N lat.
ᵈᵈ Spiny dogfish. 351.48 mt is deducted from the ACL to accommodate the Tribal fishery (275 mt), EFP fishing (1 mt), research catch (41.85 mt), and incidental open access mortality (33.63 mt), resulting in a fishery HG of 1,104.5 mt.
ᵉᵉ Splitnose rockfish south of 40°10′ N lat. 18.42 mt is deducted from the ACL to accommodate EFP fishing (1.5 mt), research catch (11.17 mt), and incidental open access mortality (5.75 mt), resulting in a fishery HG of 1,573.4 mt.
ᶠᶠ Starry flounder. 48.28 mt is deducted from the ACL to accommodate the Tribal fishery (2 mt), research catch (0.57 mt), and incidental open access mortality (45.71 mt), resulting in a fishery HG of 343.7 mt.
ᵍᵍ Widow rockfish. 238.32 mt is deducted from the ACL to accommodate the Tribal fishery (200 mt), EFP fishing (18 mt), research catch (17.27 mt), and incidental open access mortality (3.05 mt), resulting in a fishery HG of 12,385.7 mt.
ʰʰ Yellowtail rockfish north of 40°10′ N lat. Yellowtail rockfish are managed with stock-specific harvest specifications north of 40°10′ N lat. and within the Minor Shelf Rockfish complex south of 40°10′ N lat. 1,027.55 mt is deducted from the ACL to accommodate the Tribal fishery (1,000 mt), research catch (20.55 mt), and incidental open access mortality (7 mt), resulting in a fishery HG of 4,638.5 mt.
ⁱⁱ Black rockfish/Blue rockfish/Deacon rockfish (Oregon). 1.82 mt is deducted from the ACL to accommodate research catch (0.08 mt) and incidental open access mortality (1.74 mt), resulting in a fishery HG of 595.2 mt.
ʲʲ Cabezon/kelp greenling (Oregon). 0.79 mt is deducted from the ACL to accommodate research catch (0.05 mt), and incidental open access mortality (0.74 mt), resulting in a fishery HG of 184.2 mt.
ᵏᵏ Cabezon/kelp greenling (Washington). 2 mt is deducted from the ACL to accommodate the Tribal fishery, resulting in a fishery HG is 18 mt.
ˡˡ Nearshore Rockfish north of 40°10′ N lat. 3.27 mt is deducted from the ACL to accommodate the Tribal fishery (1.5 mt), research catch (0.47 mt), and incidental open access mortality (1.3 mt), resulting in a fishery HG of 89.7 mt. State specific HGs are Washington (17.7 mt), Oregon (32.0 mt), and California (39.6 mt). The ACT for copper rockfish (California) is 6.93 mt. The ACT for quillback rockfish (California) is 0.87 mt.
ᵐᵐ Nearshore Rockfish south of 40°10′ N lat. 4.54 mt is deducted from the ACL to accommodate research catch (2.68 mt) and incidental open access mortality (1.86 mt), resulting in a fishery HG of 882.5 mt. The ACT for copper rockfish is 84.61 mt. The ACT for quillback rockfish is 0.89 mt.
ⁿⁿ Other Fish. The Other Fish complex is comprised of kelp greenling off California and leopard shark coastwide. 21.24 mt is deducted from the ACL to accommodate research catch (6.29 mt) and incidental open access mortality (14.95 mt), resulting in a fishery HG of 201.8 mt.
ᵒᵒ Other Flatfish. The Other Flatfish complex is comprised of flatfish species managed in the PCGFMP that are not managed with stock-specific OFLs/ABCs/ACLS Most of the species in the Other Flatfish complex are unassessed and include: butter sole, curlfin sole, flathead sole, Pacific sanddab, rock sole, sand sole, and rex sole. 220.79 mt is deducted from the ACL to accommodate the Tribal fishery (60 mt), research catch (23.63 mt), and incidental open access mortality (137.16 mt), resulting in a fishery HG of 4,641.2 mt.
ᵖᵖ Shelf Rockfish north of 40°10′ N lat. 70.94 mt is deducted from the ACL to accommodate the Tribal fishery (30 mt), research catch (15.32 mt), and incidental open access mortality (25.62 mt), resulting in a fishery HG of 1,212.1 mt.
qq Shelf Rockfish south of 40°10′ N lat. 132.77 mt is deducted from the ACL to accommodate EFP fishing (50 mt), research catch (15.1 mt), and incidental open access mortality (67.67 mt) resulting in a fishery HG of 1,336.2 mt.
ʳʳ Slope Rockfish north of 40°10′ N lat. 65.39 mt is deducted from the ACL to accommodate the Tribal fishery (36 mt), and research catch (10.51 mt), and incidental open access mortality (18.88 mt), resulting in a fishery HG of 1,474.6 mt.
ˢˢ Slope Rockfish south of 40°10′ N lat. 38.94 mt is deducted from the ACL to accommodate EFP fishing (1 mt), research catch (18.21 mt), and incidental open access mortality (19.73 mt), resulting in a fishery HG of 662.1 mt. Blackgill rockfish has a stock-specific HG for the entire groundfish fishery south of 40°10′ N lat. set equal to the species′ contribution to the ACL. Harvest of blackgill rockfish in all groundfish fisheries south of 40°10′ N lat. counts against this HG of 172.4 mt.

Table 1b. to Part 660, Subpart C—2023, Allocations by Species or Species Group
[Weight in metric tons]
Stocks/stock complexes | Area | Fishery HG or ACT | Trawl: % | Trawl: Mt | Non-trawl: % | Non-trawl: Mt
YELLOWEYE ROCKFISH ᵃ | Coastwide | 55.3 | 8 | 4.4 | 92 | 50.9
Arrowtooth flounder | Coastwide | 16,537 | 95 | 15,710.2 | 5 | 826.9
Big skate ᵃ | Coastwide | 1,260.2 | 95 | 1,197.2 | 5 | 63
Bocaccio ᵃ | S of 40°10′ N lat | 1,793.9 | 39.04 | 700.3 | 60.96 | 1,093.5
Canary rockfish ᵃ | Coastwide | 1,215.1 | 72.281 | 878.3 | 27.719 | 336.8
Chilipepper rockfish | S of 40°10′N lat | 2,085 | 75 | 1,563.8 | 25 | 521.3
Cowcod ᵃ ᵇ | S of 40°10′ N lat | 68.8 | 36 | 24.8 | 64 | 44.1
Darkblotched rockfish | Coastwide | 761.2 | 95 | 723.2 | 5 | 38.1
Dover sole | Coastwide | 48,402.8 | 95 | 45,982.7 | 5 | 2,420.1
English sole | Coastwide | 8,758.5 | 95 | 8,320.6 | 5 | 437.9
Lingcod | N of 40′10° N lat | 4,098.4 | 45 | 1,844.3 | 55 | 2,254.1
Lingcod ᵃ | S of 40′10° N lat | 710.5 | 40 | 284.2 | 60 | 426.3
Longnose skate ᵃ | Coastwide | 1,456.7 | 90 | 1,311 | 10 | 145.7
Longspine thornyhead | N of 34°27′ N lat | 2,241.3 | 95 | 2,129.2 | 5 | 112.1
Pacific cod | Coastwide | 1,094 | 95 | 1,039.3 | 5 | 54.7
Pacific ocean perch | N of 40°10′ N lat | 3,427.5 | 95 | 3,256.1 | 5 | 171.4
Pacific whiting ᶜ | Coastwide | TBD | 100 | TBD | 0 | 0
Petrale sole ᵃ | Coastwide | 3,098.8 |  | 3,068.8 |  | 30
Sablefish | N of 36° N lat | NA | See Table 1c
Sablefish | S of 36° N lat | 2,310.6 | 42 | 970.5 | 58 | 1,340.1
Shortspine thornyhead | N of 34°27′ N lat | 1,280.7 | 95 | 1,216.7 | 5 | 64
Shortspine thornyhead | S of 34°27′ N lat | 712.3 |  | 50 |  | 662.3
Splitnose rockfish | S of 40°10′ N lat | 1,572.4 | 95 | 1,494.7 | 5 | 78.7
Starry flounder | Coastwide | 343.7 | 50 | 171.9 | 50 | 171.9
Widow rockfish ᵃ | Coastwide | 12,385.7 |  | 11,985.7 |  | 400
Yellowtail rockfish | N of 40°10′ N lat | 4,638.5 | 88 | 4,081.8 | 12 | 556.6
Other Flatfish | Coastwide | 4,641.2 | 90 | 4,177.1 | 10 | 464.1
Shelf Rockfish ᵃ | N of 40°10′ N lat | 1,212.1 | 60.2 | 729.7 | 39.8 | 482.4
Shelf Rockfish ᵃ | S of 40°10′ N lat | 1,336.2 | 12.2 | 163 | 87.8 | 1,173.2
Slope Rockfish | N of 40°10′ N lat | 1,474.6 | 81 | 1,194.4 | 19 | 280.2
Slope Rockfish ᵃ | S of 40°10′ N lat | 662.1 | 63 | 417.1 | 37 | 245
ᵃ Allocations decided through the biennial specification process.
ᵇ The cowcod non-trawl allocation is further split 50:50 between the commercial and recreational sectors. This results in a sector-specific ACT of 22 mt for the commercial sector and 22 mt for the recreational sector.
ᶜ Consistent with regulations at § 660.55(i)(2), the commercial harvest guideline for Pacific whiting is allocated as follows: 3 4 percent for the C/P Coop Program; 24 percent for the MS Coop Program; and 42 percent for the Shorebased IFQ Program. No more than 5 percent of the Shorebased IFQ Program allocation may be taken and retained south of 42° N lat. before the start of the primary Pacific whiting season north of 42° N lat.

Table 1c. to Part 660, Subpart C—Sablefish North of 36° N Lat. Allocations, 2023
[Weight in metric tons]
Year | ACL | Set-asides: Tribal ᵃ | Set-asides: Research | Recreational estimate | EFP | Commercial HG | Limited entry HG: Percent | Limited entry HG: mt | Open access HG: Percent | Open access HG: mt ᵇ
2023 | 8,486 | 849 | 30.7 | 6 | 1 | 7,600 | 90.6 | 6,885 | 9.4 | 714
Year | LE all | Limited entry trawl ᶜ |  |  |  | Limited entry fixed gear ᵈ
|  | All trawl | At-sea whiting | Shorebased IFQ |  | All FG | Primary |  | DTL
2023 | 6,885 | 3,994 | 100 | 3,893.5 |  | 2,892 | 2,458 |  | 434
ᵃ The tribal allocation is further reduced by 1.7 percent for discard mortality resulting in 834.6 mt in 2023.
ᵇ The open access HG is taken by the incidental OA fishery and the directed OA fishery.
ᶜ The trawl allocation is 58 percent of the limited entry HG.
ᵈ The limited entry fixed gear allocation is 42 percent of the limited entry HG.

11. Revise Tables 2a through 2c to Part 660, Subpart C, to read as follows:

Table 2a. to Part 660, Subpart C—2024, and Beyond, Specifications of OFL, ABC, ACL, ACT and Fishery Harvest Guidelines
[Weights in metric tons. Capitalized stocks are overfished.]
Stocks | Area | OFL | ABC | ACL ᵃ | Fishery HG ᵇ
YELLOWEYE ROCKFISH ᶜ | Coastwide | 123 | 103 | 66 | 55.3
Arrowtooth Flounder ᵈ | Coastwide | 20,459 | 14,178 | 14,178 | 12,083
Big Skate ᵉ | Coastwide | 1,492 | 1,267 | 1,267 | 1,207.2
Black Rockfish ᶠ | California (S of 42° N lat.) | 364 | 329 | 329 | 326.6
Black Rockfish ᵍ | Washington (N of 46°16′ N lat.) | 319 | 289 | 289 | 270.5
Bocaccio ʰ | S of 40°10′ N lat. | 2,002 | 1,828 | 1,828 | 1,779.9
Cabezon ⁱ | California (S of 42° N lat.) | 185 | 171 | 171 | 169.4
California Scorpionfish ʲ | S of 34°27′ N lat. | 280 | 252 | 252 | 248
Canary Rockfish ᵏ | Coastwide | 1,401 | 1,267 | 1,267 | 1,198.1
Chilipepper ˡ | S of 40°10′ N lat. | 2,346 | 2,121 | 2,121 | 2,023.4
Cowcod ᵐ | S of 40°10′ N lat. | 112 | 79 | 79 | 67.8
Cowcod | (Conception) | 93 | 67 | NA | NA
Cowcod | (Monterey) | 19 | 12 | NA | NA
Darkblotched Rockfish ⁿ | Coastwide | 822 | 750 | 750 | 726.2
Dover Sole ᵒ | Coastwide | 55,859 | 51,949 | 50,000 | 48,402.9
English Sole ᵖ | Coastwide | 11,158 | 8,960 | 8,960 | 8,700.5
Lingcod q | N of 40°10′ N lat | 4,455 | 3,854 | 3,854 | 3,574.4
Lingcod ʳ | S of 40°10′ N lat | 855 | 740 | 722 | 706.5
Longnose Skate ˢ | Coastwide | 1,955 | 1,660 | 1,660 | 1,408.7
Longspine Thornyhead ᵗ | N of 34°27′ N lat | 4,433 | 2,846 | 2,162 | 2,108.3
Longspine Thornyhead ᵘ | S of 34°27′ N lat |  |  | 683 | 680.8
Pacific Cod ᵛ | Coastwide | 3,200 | 1,926 | 1,600 | 1,094
Pacific Ocean Perch ʷ | N of 40°10′ N lat | 4,133 | 3,443 | 3,443 | 3,297.5
Pacific Whiting ˣ | Coastwide | (ˣ) | (ˣ) | (ˣ) | (ˣ)
Petrale Sole ʸ | Coastwide | 3,563 | 3,285 | 3,285 | 2,898.8
Sablefish ᶻ | N of 36° N lat | 10,670 | 9,923 | 7,780 | See Table 2c
Sablefish ᵃᵃ | S of 36° N lat |  |  | 2,143 | 2,115.6
Shortspine Thornyhead ᵇᵇ | N of 34°27′ N lat | 3,162 | 2,030 | 1,328 | 1,249.7
Shortspine Thornyhead ᶜᶜ | S of 34°27′ N lat |  |  | 702 | 695.3
Spiny Dogfish ᵈᵈ | Coastwide | 1,883 | 1,407 | 1,407 | 1,055.5
Splitnose ᵉᵉ | S of 40°10′ N lat | 1,766 | 1,553 | 1,553 | 1,534.3
Starry Flounder ᶠᶠ | Coastwide | 652 | 392 | 392 | 343.7
Widow Rockfish ᵍᵍ | Coastwide | 12,453 | 11,482 | 11,482 | 11,243.7
Yellowtail Rockfish ʰʰ | N of 40°10′ N lat | 6,090 | 5,560 | 5,560 | 4,532.5
Stock Complexes
Blue/Deacon/Black Rockfish ⁱⁱ | Oregon | 671 | 594 | 594 | 592.2
Cabezon/Kelp Greenling ʲʲ | Washington | 22 | 17 | 17 | 15
Cabezon/Kelp Greenling ᵏᵏ | Oregon | 198 | 180 | 180 | 179.2
Nearshore Rockfish North ˡˡ | N of 40°10′ N lat | 109 | 91 | 91 | 87.7
Nearshore Rockfish South ᵐᵐ | S of 40°10′ N lat | 1,097 | 902 | 891 | 886.5
Other Fish ⁿⁿ | Coastwide | 286 | 223 | 223 | 201.8
Other Flatfish ᵒᵒ | Coastwide | 7,946 | 4,874 | 4,874 | 4,653.2
Shelf Rockfish North ᵖᵖ | N of 40°10′ N lat | 1,610 | 1,278 | 1,278 | 1,207
Shelf Rockfish South qq | S of 40°10′ N lat | 1,838 | 1,469 | 1,469 | 1,336.2
Slope Rockfish North ʳʳ | N of 40°10′ N lat | 1,797 | 1,516 | 1,516 | 1,450.6
Slope Rockfish South ˢˢ | S of 40°10′ N lat | 868 | 697 | 697 | 658.1
ᵃ Annual catch limits (ACLs), annual catch targets (ACTs) and harvest guidelines (HGs) are specified as total catch values.
ᵇ Fishery HGs means the HG or quota after subtracting Pacific Coast treaty Indian tribes allocations and projected catch, projected research catch, deductions for fishing mortality in non-groundfish fisheries, and deductions for EFPs from the ACL or ACT.
ᶜ Yelloweye rockfish. The 66 mt ACL is based on the current rebuilding plan with a target year to rebuild of 2029 and an SPR harvest rate of 65 percent. 10.7 mt is deducted from the ACL to accommodate the Tribal fishery (5 mt), EFP fishing (0.12 mt), research catch (2.92 mt), and incidental open access mortality (2.66 mt) resulting in a fishery HG of 55.3 mt. The non-trawl HG is 50.9 mt. The combined non-nearshore/nearshore HG is 10.7 mt. Recreational HGs are: 13.2 mt (Washington); 11.7 mt (Oregon); and 15.3 mt (California). In addition, the non-trawl ACT is 39.9, and the combined non-nearshore/nearshore ACT is 8.4 mt. Recreational ACTs are: 10.4 mt (Washington), 9.2 (Oregon), and 12.0 mt (California).
ᵈ Arrowtooth flounder. 2,094.98 mt is deducted from the ACL to accommodate the Tribal fishery (2,041 mt), research catch (12.98 mt) and incidental open access mortality (41 mt), resulting in a fishery HG of 12,083 mt.
ᵉ Big skate. 59.8 mt is deducted from the ACL to accommodate the Tribal fishery (15 mt), research catch (5.49 mt), and incidental open access mortality (39.31 mt), resulting in a fishery HG of 1,207.2 mt.
ᶠ Black rockfish (California). 2.26 mt is deducted from the ACL to accommodate EFP fishing (1.0 mt), research catch (0.08 mt), and incidental open access mortality (1.18 mt), resulting in a fishery HG of 326.6 mt.
ᵍ Black rockfish (Washington). 18.1 mt is deducted from the ACL to accommodate the Tribal fishery (18 mt) and research catch (0.1 mt), resulting in a fishery HG of 270.5 mt.
ʰ Bocaccio south of 40°10′ N lat. Bocaccio are managed with stock-specific harvest specifications south of 40°10′ N lat. and within the Minor Shelf Rockfish complex north of 40°10′ N lat. 48.12 mt is deducted from the ACL to accommodate EFP fishing (40 mt), research catch (5.6 mt), and incidental open access mortality (2.52 mt), resulting in a fishery HG of 1,779.9 mt. The California recreational fishery south of 40°10′ N lat. has an HG of 749.7 mt.
ⁱ Cabezon (California). 1.63 mt is deducted from the ACL to accommodate EFP fishing (1 mt), research catch (0.02 mt), and incidental open access mortality (0.61 mt), resulting in a fishery HG of 169.4 mt.
ʲ California scorpionfish south of 34°27′ N lat. 3.89 mt is deducted from the ACL to accommodate research catch (0.18 mt) and incidental open access mortality (3.71 mt), resulting in a fishery HG of 248 mt.
ᵏ Canary rockfish. 68.91 mt is deducted from the ACL to accommodate the Tribal fishery (50 mt), EFP fishing (6 mt), research catch (10.08 mt), and incidental open access mortality (2.83 mt), resulting in a fishery HG of 1,198.1 mt. The combined nearshore/non-nearshore HG is 119.4 mt. Recreational HGs are: 40.8 mt (Washington); 61.4 mt (Oregon); and 110.2 mt (California).
ˡ Chilipepper rockfish south of 40°10′ N lat. Chilipepper are managed with stock-specific harvest specifications south of 40°10′ N lat. and within the Minor Shelf Rockfish complex north of 40°10′ N lat. 97.7 mt is deducted from the ACL to accommodate EFP fishing (70 mt), research catch (14.04 mt), incidental open access mortality (13.66 mt), resulting in a fishery HG of 2,023.4 mt.
ᵐ Cowcod south of 40°10′ N lat. Cowcod are managed with stock-specific harvest specifications south of 40°10′ N lat. and within the Minor Shelf Rockfish complex north of 40°10′ N lat. 11.17 mt is deducted from the ACL to accommodate EFP fishing (1 mt), research catch (10 mt), and incidental open access mortality (0.17 mt), resulting in a fishery HG of 67.8 mt.
ⁿ Darkblotched rockfish. 23.76 mt is deducted from the ACL to accommodate the Tribal fishery (5 mt), EFP fishing (0.5 mt), research catch (8.46 mt), and incidental open access mortality (9.8 mt) resulting in a fishery HG of 726.2 mt.
ᵒ Dover sole. 1,597.11 mt is deducted from the ACL to accommodate the Tribal fishery (1,497 mt), research catch (50.84 mt), and incidental open access mortality (49.27 mt), resulting in a fishery HG of 48,402.9 mt.
ᵖ English sole. 259.52 mt is deducted from the ACL to accommodate the Tribal fishery (200 mt), research catch (17 mt), and incidental open access mortality (42.52 mt), resulting in a fishery HG of 8,700.5 mt.
q Lingcod north of 40°10′ N lat. 279.63 mt is deducted from the ACL for the Tribal fishery (250 mt), research catch (17.71 mt), and incidental open access mortality (11.92 mt) resulting in a fishery HG of 3,574.4 mt.
ʳ Lingcod south of 40°10′ N lat. 15.5 mt is deducted from the ACL to accommodate EFP fishing (4 mt), research catch (3.19 mt), and incidental open access mortality (8.31 mt), resulting in a fishery HG of 706.5 mt.
ˢ Longnose skate. 251.3 mt is deducted from the ACL to accommodate the Tribal fishery (220 mt), and research catch (12.46 mt), and incidental open access mortality (18.84 mt), resulting in a fishery HG of 1,408.7 mt.
ᵗ Longspine thornyhead north of 34°27′ N lat. 53.71 mt is deducted from the ACL to accommodate the Tribal fishery (30 mt), research catch (17.49 mt), and incidental open access mortality (6.22 mt), resulting in a fishery HG of 2,108.3 mt.
ᵘ Longspine thornyhead south of 34°27′ N lat. 2.24 mt is deducted from the ACL to accommodate research catch (1.41 mt) and incidental open access mortality (0.83 mt), resulting in a fishery HG of 680.8 mt.
ᵛ Pacific cod. 506 mt is deducted from the ACL to accommodate the Tribal fishery (500 mt), research catch (5.47 mt), and incidental open access mortality (0.53 mt), resulting in a fishery HG of 1,094 mt.
ʷ Pacific ocean perch north of 40°10′ N lat. Pacific ocean perch are managed with stock-specific harvest specifications north of 40°10′ N lat. and within the Minor Slope Rockfish complex south of 40°10′ N lat. 145.48 mt is deducted from the ACL to accommodate the Tribal fishery (130 mt), EFP fishing, research catch (5.39 mt), and incidental open access mortality (10.09 mt), resulting in a fishery HG of 3,297.5 mt.
ˣ Pacific whiting. Pacific whiting are assessed annually. The final specifications will be determined consistent with the U.S.-Canada Pacific Whiting Agreement and will be announced after the Council's April 2023 meeting.
ʸ Petrale sole. 386.24 mt is deducted from the ACL to accommodate the Tribal fishery (350 mt), EFP fishing (1 mt), research catch (24.14 mt), and incidental open access mortality (11.1 mt), resulting in a fishery HG of 2,898.8 mt.
ᶻ Sablefish north of 36° N lat. The sablefish coastwide ACL value is not specified in regulations. The sablefish coastwide ACL value is apportioned north and south of 36° N lat., using the rolling 5-year average estimated swept area biomass from the NMFS NWFSC trawl survey, with 78.4 percent apportioned north of 36° N lat. and 21.6 percent apportioned south of 36° N lat. The northern ACL is 7,780 mt and is reduced by 778 mt for the Tribal allocation (10 percent of the ACL north of 36° N lat.). The 778 mt Tribal allocation is reduced by 1.7 percent to account for discard mortality. Detailed sablefish allocations are shown in Table 1c.
ᵃᵃ Sablefish south of 36° N lat. The ACL for the area south of 36° N lat. is 2,143 mt (21.6 percent of the calculated coastwide ACL value). 27.4 mt is deducted from the ACL to accommodate research catch (2.40 mt) and the incidental open access fishery (25 mt), resulting in a fishery HG of 2,115.6 mt.
ᵇᵇ Shortspine thornyhead north of 34°27′ N lat. 78.3 mt is deducted from the ACL to accommodate the Tribal fishery (50 mt), research catch (10.48 mt), and incidental open access mortality (17.82 mt), resulting in a fishery HG of 1,249.7 mt for the area north of 34°27′ N lat.
ᶜᶜ Shortspine thornyhead south of 34°27′ N lat. 6.71 mt is deducted from the ACL to accommodate research catch (0.71 mt) and incidental open access mortality (6 mt), resulting in a fishery HG of 695.3 mt for the area south of 34°27′ N lat.
ᵈᵈ Spiny dogfish. 351.48 mt is deducted from the ACL to accommodate the Tribal fishery (275 mt), EFP fishing (1 mt), research catch (41.85 mt), and incidental open access mortality (33.63 mt), resulting in a fishery HG of 1,055.5 mt.
ᵉᵉ Splitnose rockfish south of 40°10′ N lat. Splitnose rockfish in the north is managed in the Slope Rockfish complex and with stock-specific harvest specifications south of 40°10′ N lat. 18.42 mt is deducted from the ACL to accommodate EFP fishing (1.5 mt), research catch (11.17 mt), and incidental open access mortality (5.75 mt), resulting in a fishery HG of 1,534.3 mt.
ᶠᶠ Starry flounder. 48.28 mt is deducted from the ACL to accommodate the Tribal fishery (2 mt), research catch (0.57 mt), and incidental open access mortality (45.71 mt), resulting in a fishery HG of 343.7 mt.
ᵍᵍ Widow rockfish. 238.32 mt is deducted from the ACL to accommodate the Tribal fishery (200 mt), EFP fishing (18 mt), research catch (17.27 mt), and incidental open access mortality (3.05 mt), resulting in a fishery HG of 11,243.7 mt.
ʰʰ Yellowtail rockfish north of 40°10′ N lat. Yellowtail rockfish are managed with stock-specific harvest specifications north of 40°10′ N lat. and within the Minor Shelf Rockfish complex south of 40°10′ N lat. 1,027.55 mt is deducted from the ACL to accommodate the Tribal fishery (1,000 mt), research catch (20.55 mt), and incidental open access mortality (7 mt), resulting in a fishery HG of 4,532.5 mt.
ⁱⁱ Black rockfish/Blue rockfish/Deacon rockfish (Oregon). 1.82 mt is deducted from the ACL to accommodate research catch (0.08 mt), and incidental open access mortality (1.74 mt), resulting in a fishery HG of 592.2 mt.
ʲʲ Cabezon/kelp greenling (Washington). 2 mt is deducted from the ACL to accommodate the Tribal fishery, resulting in a fishery HG is 15 mt.
ᵏᵏ Cabezon/kelp greenling (Oregon). 0.79 mt is deducted from the ACL to accommodate research catch (0.05 mt) and incidental open access mortality (0.74 mt), resulting in a fishery HG of 179.2 mt.
ˡˡ Nearshore Rockfish north of 40°10′ N lat. 3.27 mt is deducted from the ACL to accommodate the Tribal fishery (1.5 mt), research catch (0.47 mt), and incidental open access mortality (1.31 mt), resulting in a fishery HG of 87.7 mt. State-specific HGs are 17.2 mt (Washington), 30.9 mt (Oregon), and 39.9 mt (California). The ACT for copper rockfish (California) is 6.99 mt. The ACT for quillback rockfish (California) is 0.96 mt.
ᵐᵐ Nearshore Rockfish south of 40°10′ N lat. 4.54 mt is deducted from the ACL to accommodate research catch (2.68 mt) and incidental open access mortality (1.86 mt), resulting in a fishery HG of 886.5 mt. The ACT for copper rockfish is 87.73 mt. The ACT for quillback rockfish is 0.97 mt.
ⁿⁿ Other Fish. The Other Fish complex is comprised of kelp greenling off California and leopard shark coastwide. 21.24 mt is deducted from the ACL to accommodate research catch (6.29 mt) and incidental open access mortality (14.95 mt), resulting in a fishery HG of 201.8 mt.
ᵒᵒ Other Flatfish. The Other Flatfish complex is comprised of flatfish species managed in the PCGFMP that are not managed with stock-specific OFLs/ABCs/ACLs. Most of the species in the Other Flatfish complex are unassessed and include: butter sole, curlfin sole, flathead sole, Pacific sanddab, rock sole, sand sole, and rex sole. 220.79 mt is deducted from the ACL to accommodate the Tribal fishery (60 mt), research catch (23.63 mt), and incidental open access mortality (137.16 mt), resulting in a fishery HG of 4,653.2 mt.
ᵖᵖ Shelf Rockfish north of 40°10′ N lat. 70.94 mt is deducted from the ACL to accommodate the Tribal fishery (30 mt), research catch (15.32 mt), and incidental open access mortality (25.62 mt), resulting in a fishery HG of 1,207.1 mt.
qq Shelf Rockfish south of 40°10′ N lat. 132.77 mt is deducted from the ACL to accommodate EFP fishing (50 mt), research catch (15.1 mt), and incidental open access mortality (67.67 mt) resulting in a fishery HG of 1,336.2 mt.
ʳʳr Slope Rockfish north of 40°10′ N lat. 65.39 mt is deducted from the ACL to accommodate the Tribal fishery (36 mt), research catch (10.51 mt), and incidental open access mortality (18.88 mt), resulting in a fishery HG of 1,450.6 mt.
ˢˢ Slope Rockfish south of 40°10′ N lat. 38.94 mt is deducted from the ACL to accommodate EFP fishing (1 mt), research catch (18.21 mt), and incidental open access mortality (19.73 mt), resulting in a fishery HG of 658.1 mt. Blackgill rockfish has a stock-specific HG for the entire groundfish fishery south of 40°10′ N lat. set equal to the species' contribution to the 40-10-adjusted ACL. Harvest of blackgill rockfish in all groundfish fisheries south of 40°10′ N lat. counts against this HG of 169.9 mt.

Table 2b. to Part 660, Subpart C—2024, and Beyond, Allocations by Species or Species Group
[Weight in metric tons]
Stocks/stock complexes | Area | Fishery HG or ACT | Trawl: % | Trawl: Mt | Non-trawl: % | Non-trawl: Mt
YELLOWEYE ROCKFISH ᵃ | Coastwide | 55.3 | 8 | 4.4 | 92 | 50.9
Arrowtooth flounder | Coastwide | 12,083 | 95 | 11,478.9 | 5 | 604.2
Big skate ᵃ | Coastwide | 1,207.2 | 95 | 1,146.8 | 5 | 60.4
Bocaccio ᵃ | S of 40°10′ N lat | 1,779.9 | 39.04 | 694.9 | 60.96 | 1,085
Canary rockfish ᵃ | Coastwide | 1,198.1 | 72.3 | 866.2 | 27.7 | 331.9
Chilipepper rockfish | S of 40°10′ N lat | 2,023.4 | 75 | 1,517.6 | 25 | 505.9
Cowcod ᵃ ᵇ | S of 40°10′ N lat | 67.8 | 36 | 24.4 | 64 | 43.4
Darkblotched rockfish | Coastwide | 726.2 | 95 | 689.9 | 5 | 36.3
Dover sole | Coastwide | 4,8402.9 | 95 | 45,982.7 | 5 | 2,420.1
English sole | Coastwide | 8,700.5 | 95 | 8265.5 | 5 | 435
Lingcod | N of 40°10′ N lat | 3,574.4 | 45 | 1,608.5 | 55 | 1,965.9
Lingcod ᵃ | S of 40°10′ N lat | 706.5 | 40 | 282.6 | 60 | 423.9
Longnose skate ᵃ | Coastwide | 1,408.7 | 90 | 1,267.8 | 10 | 140.9
Longspine thornyhead | N of 34°27′ N lat | 2,108.3 | 95 | 2,002.9 | 5 | 105.4
Pacific cod | Coastwide | 1,094 | 95 | 1,039.3 | 5 | 54.7
Pacific ocean perch | N of 40°10′ N lat | 3,297.5 | 95 | 3,132.6 | 5 | 164.9
Pacific whiting ᶜ | Coastwide | TBD | 100 | TBD | 0 | 0
Petrale sole ᵃ | Coastwide | 2898.8 |  | 2,868.8 |  | 30
Sablefish | N of 36° N lat | NA | See Table 2c
Sablefish | S of 36° N lat | 2,115.6 | 42 | 888.6 | 58 | 1,227
Shortspine thornyhead | N of 34°27′ N lat | 1,249.7 | 95 | 1,187.2 | 5 | 62.5
Shortspine thornyhead | S of 34°27′ N lat | 695.3 |  | 50 |  | 645.3
Splitnose rockfish | S of 40°10′ N lat | 1,534.3 | 95 | 1,457.6 | 5 | 76.7
Starry flounder | Coastwide | 343.7 | 50 | 171.9 | 50 | 171.9
Widow rockfish ᵃ | Coastwide | 11,243.7 |  | 10,843.7 |  | 400
Yellowtail rockfish | N of 40°10′ N lat | 4,532.5 | 88 | 3,988.6 | 12 | 543.9
Other Flatfish | Coastwide | 4,653.2 | 90 | 4,187.9 | 10 | 465.3
Shelf Rockfish ᵃ | N of 40°10′ N lat | 1,207.1 | 60.2 | 726.7 | 39.8 | 480.4
Shelf Rockfish ᵃ | S of 40°10′ N lat | 1,336.2 | 12.2 | 163 | 87.8 | 1,173.2
Slope Rockfish | N of 40°10′ N lat | 1,450.6 | 81 | 1,175 | 19 | 275.6
Slope Rockfish ᵃ | S of 40°10′ N lat | 658.1 | 63 | 414.6 | 37 | 243.5
ᵃ Allocations decided through the biennial specification process.
ᵇ The cowcod non-trawl allocation is further split 50:50 between the commercial and recreational sectors. This results in a sector-specific ACT of 21.7 mt for the commercial sector and 21.7 mt for the recreational sector.
ᶜ Consistent with regulations at § 660.55(i)(2), the commercial harvest guideline for Pacific whiting is allocated as follows: 34 percent for the C/P Coop Program; 24 percent for the MS Coop Program; and 42 percent for the Shorebased IFQ Program. No more than 5 percent of the Shorebased IFQ Program allocation may be taken and retained south of 42° N lat. before the start of the primary Pacific whiting season north of 42° N lat.

Table 2c. to Part 660, Subpart C—Sablefish North of 36° N Lat. Allocations, 2024 and Beyond
[Weights in metric tons]
Year | ACL | Set-asides: Tribal ᵃ | Set-asides: Research | Recreational estimate | EFP | Commercial HG | Limited entry HG: Percent | Limited entry HG: mt | Open access HG: Percent | Open access HG: mt ᵇ
2024 | 7,780 | 778 | 30.7 | 6 | 1 | 6,964 | 90.6 | 6,309 | 9.4 | 665
Year | LE All | Limited Entry Trawl ᶜ |  |  |  | Limited Entry Fixed Gear ᵈ
|  | All Trawl | At-sea whiting | Shorebased IFQ |  | All FG | Primary |  | DTL
2024 | 6,309 | 3,659 | 100 | 3,559 |  | 2,650 | 2,252 |  | 397
ᵃ The tribal allocation is further reduced by 1.7 percent for discard mortality resulting in 764.8 mt in 2024.
ᵇ The open access HG is taken by the incidental OA fishery and the directed OA fishery.
ᶜ The trawl allocation is 58 percent of the limited entry HG.
ᵈ The limited entry fixed gear allocation is 42 percent of the limited entry HG.

* * * * *

12. In § 660.111, revise the definition of “Block area closures or BACs” to read as follows:

§ 660.111 Trawl fishery—definitions.

* * * * *

Block area closures or BACs are a type of groundfish conservation area, defined at § 660.11, bounded on the north and south by commonly used geographic coordinates, defined at § 660.11, and on the east and west by the EEZ, and boundary lines approximating depth contours, defined with latitude and longitude coordinates at §§ 660.71 through 660.74 (10 fm through 250 fm), and § 660.76 (700 fm). BACs may be implemented or modified as routine management measures, per regulations at § 660.60(c). BACs may be implemented in the EEZ seaward of Washington, Oregon and California for vessels using limited entry bottom trawl and/or midwater trawl gear. BACs may be implemented within tribal Usual and Accustomed fishing areas but may only apply to non-tribal vessels. BACs may close areas to specific trawl gear types (e.g., closed for midwater trawl, bottom trawl, or bottom trawl unless using selective flatfish trawl) and/or specific programs within the trawl fishery (e.g., Pacific whiting fishery or MS Coop Program). BACs may vary in their geographic boundaries and duration. Their geographic boundaries, applicable gear type(s) and/or specific trawl fishery program, and effective dates will be announced in the Federal Register. BACs may have a specific termination date as described in the Federal Register, or may be in effect until modified. BACs that are in effect until modified by Council recommendation and subsequent NMFS action are set out in Tables 1 (North) and 1 (South) of this subpart.

* * * * *

13. In § 660.140, revise paragraphs (c)(3)(iii) and (iv), and Table 1 to paragraph (d)(1)(ii)(D) to read as follows:

§ 660.140 Shorebased IFQ Program.

* * * * *

(c) * * *

(3) * * *

(iii) For IFQ species listed in the trawl/non-trawl allocation table, specified at § 660.55(c), subpart C, allocations are determined by applying the trawl column percent to the fishery harvest guideline minus any set-asides for the mothership and C/P sectors for that species.

(iv) The remaining IFQ species (canary rockfish, bocaccio, cowcod, yelloweye rockfish, darkblotched rockfish, POP, widow rockfish, minor shelf rockfish N of 40°10′ N lat., and minor shelf rockfish S of 40°10′ N lat., and minor slope rockfish S of 40°10′ N lat.) are allocated through the biennial specifications and management measures process minus any set-asides for the mothership and C/P sectors for that species.

* * * * *

(d) * * *

(1) * * *

(ii) * * *

(D) * * *

Table 1 to Paragraph (d)(1)(ii)(D)—Shorebased Trawl Allocations for 2023 and 2024
IFQ species | Area | 2023 Shorebased trawl allocation (mt) | 2024 Shorebased trawl allocation (mt)
YELLOWEYE ROCKFISH | Coastwide | 4.42 | 4.42
Arrowtooth flounder | Coastwide | 15,640.17 | 11,408.87
Bocaccio | South of 40°10′ N lat | 700.33 | 694.87
Canary rockfish | Coastwide | 842.50 | 830.22
Chilipepper | South of 40°10′ N lat | 1,563.80 | 1517.60
Cowcod | South of 40°10′ N lat | 24.80 | 24.42
Darkblotched rockfish | Coastwide | 646.78 | 613.53
Dover sole | Coastwide | 45,972.75 | 45,972.75
English sole | Coastwide | 8,320.56 | 8,265.46
Lingcod | North of 40°10′ N lat | 1,829.27 | 1,593.47
Lingcod | South of 40°10′ N lat | 284.20 | 282.60
Longspine thornyhead | North of 34°27′ N lat | 2,129.23 | 2,002.88
Pacific cod | Coastwide | 1,039.30 | 1,039.30
Pacific halibut (IBQ) ᵃ | North of 40°10′ N lat | TBD | TBD
Pacific ocean perch | North of 40°10′ N lat | 2,956.14 | 2,832.64
Pacific whiting ᵃ | Coastwide | TBD | TBD
Petrale sole | Coastwide | 3,063.76 | 2,863.76
Sablefish | North of 36° N lat | 3,893.50 | 3,559.38
Sablefish | South of 36° N lat | 970.00 | 889.00
Shortspine thornyhead | North of 34°27′ N lat | 1,146.67 | 1,117.22
Shortspine thornyhead | South of 34°27′ N lat | 50 | 50
Splitnose rockfish | South of 40°10′ N lat | 1,494.70 | 1,457.60
Starry flounder | Coastwide | 171.86 | 171.86
Widow rockfish | Coastwide | 11,509.68 | 10,367.68
Yellowtail rockfish | North of 40°10′ N lat | 3,761.84 | 3,668.56
Other Flatfish complex | Coastwide | 4,142.09 | 4,152.89
Shelf Rockfish complex | North of 40°10′ N lat | 694.70 | 691.65
Shelf Rockfish complex | South of 40°10′ N lat | 163.02 | 163.02
Slope Rockfish complex | North of 40°10′ N lat | 894.43 | 874.99
Slope Rockfish complex | South of 40°10′ N lat | 417.1 | 414.58
ᵃ Managed through an international process. These allocation will be updated when announced.

* * * * *

14. In § 660.150, revise paragraph (c)(1) to read as follows:

§ 660.150 Mothership (MS) Coop Program.

* * * * *

(c) * * *—(1) MS Coop Program species. All species other than Pacific whiting are managed with set-asides for the MS and C/P Coop Programs, as described in the biennial specifications.

* * * * *

15. In § 660.160, revise paragraph (c)(1)(ii) to read as follows:

§ 660.160 Catcher/processor (C/P) Coop Program.

* * * * *

(c) * * *

(1) * * *

(ii) Species with set-asides for the MS and C/P Programs, as described in the biennial specifications.

* * * * *

16. In § 660.213, revise paragraph (d)(2) to read as follows:

§ 660.213 Fixed gear fishery—recordkeeping and reporting.

* * * * *

(d) * * *

(2) For participants in the sablefish primary season, the cumulative limit period to which this requirement applies is April 1 through December 31 or, for an individual vessel owner, when the tier limit for the permit(s) registered to the vessel has been reached, whichever is earlier.

* * * * *

17. In § 660.230, revise (c)(2)(i) through (iii) and add paragraph (d)(11)(v) to read as follows:

§ 660.230 Fixed gear fishery—management measures.

* * * * *

(c) * * *

(2) * * *

(i) Coastwide—arrowtooth flounder, big skate, black rockfish, blue/deacon rockfish, canary rockfish, darkblotched rockfish, Dover sole, English sole, lingcod, longnose skate, longspine thornyhead, petrale sole, minor nearshore rockfish, minor shelf rockfish, minor slope rockfish, other fish, other flatfish, Pacific cod, Pacific whiting, rougheye/blackspotted rockfish, sablefish, shortbelly rockfish, shortraker rockfish, shortspine thornyhead, spiny dogfish, starry flounder, widow rockfish, and yelloweye rockfish;

(ii) North of 40°10′ N lat.—cabezon (California), copper rockfish (California), Oregon cabezon/kelp greenling complex, POP, quillback rockfish (California), Washington cabezon/kelp greenling complex, yellowtail rockfish; and

(iii) South of 40°10′ N lat.—blackgill rockfish, bocaccio, bronzespotted rockfish, cabezon, California scorpionfish, chilipepper rockfish, copper rockfish, cowcod, minor shallow nearshore rockfish, minor deeper nearshore rockfish, Pacific sanddabs, quillback rockfish, splitnose rockfish, and vermilion rockfish.

(d) * * *

(11) * * *

(v) It is lawful to fish within the non-trawl RCA seaward of Oregon and California (between 46°16′ N lat. and the U.S./Mexico border) with open access non-bottom contact hook-and-line gear configurations as specified at § 660.330(b)(3)(i-ii), subject to applicable crossover provisions at § 660.60(h)(7), and provided that a valid declaration report as required at § 660.13(d) has been filed with NMFS OLE.

* * * * *

18. In § 660.231, revise paragraphs (b)(1), (b)(3)(i), and (b)(3)(iv) to read as follows:

§ 660.231 Limited entry fixed gear sablefish primary fishery.

* * * * *

(b) * * *—(1) Season dates. North of 36° N lat., the sablefish primary season for the limited entry, fixed gear, sablefish-endorsed vessels begins at 12 noon local time on April 1 and closes at 12 noon local time on December 31, or closes for an individual vessel owner when the tier limit for the sablefish endorsed permit(s) registered to the vessel has been reached, whichever is earlier, unless otherwise announced by the Regional Administrator through the routine management measures process described at § 660.60(c).

* * * * *

(3) * * *

(i) A vessel participating in the primary season will be constrained by the sablefish cumulative limit associated with each of the permits registered for use with that vessel. During the primary season, each vessel authorized to fish in that season under paragraph (a) of this section may take, retain, possess, and land sablefish, up to the cumulative limits for each of the permits registered for use with that vessel (i.e., stacked permits). If multiple limited entry permits with sablefish endorsements are registered for use with a single vessel, that vessel may land up to the total of all cumulative limits announced in this paragraph for the tiers for those permits, except as limited by paragraph (b)(3)(ii) of this section. Up to 3 permits may be registered for use with a single vessel during the primary season; thus, a single vessel may not take and retain, possess or land more than 3 primary season sablefish cumulative limits in any one year. A vessel registered for use with multiple limited entry permits is subject to per vessel limits for species other than sablefish, and to per vessel limits when participating in the daily trip limit fishery for sablefish under § 660.232. In 2023, the following annual limits are in effect: Tier 1 at 72,904 lb (33,069 kg), Tier 2 at 33,138 lb (15,031 kg), and Tier 3 at 18,936 lb (8,589 kg). In 2024 and beyond, the following annual limits are in effect: Tier 1 at 66,805 lb (30,302 kg), Tier 2 at 30,366 lb (13,774 kg), and Tier 3 at 17,352 lb (7,871 kg).

* * * * *

(iv) Incidental Pacific halibut retention north of Pt. Chehalis, WA (46°53.30′ N lat.). From April 1 through the closure date set by the International Pacific Halibut Commission for Pacific halibut in all commercial fisheries, vessels authorized to participate in the sablefish primary fishery, licensed by the International Pacific Halibut Commission for commercial fishing in Area 2A (waters off Washington, Oregon, California), and fishing with longline gear north of Pt. Chehalis, WA (46°53.30′ N lat.) may possess and land up to 150 lb (68 kg) dressed weight of Pacific halibut for every 1,000 lb (454 kg) dressed weight of sablefish landed, and up to two additional Pacific halibut in excess of the 150-lbs-per-1,000-pound limit per landing. NMFS publishes the International Pacific Halibut Commission's regulations setting forth annual management measures, including the closure date for Pacific halibut in all commercial fisheries, in the Federal Register by March 15 each year, 50 CFR 300.62. “Dressed” Pacific halibut in this area means halibut landed eviscerated with their heads on. Pacific halibut taken and retained in the sablefish primary fishery north of Pt. Chehalis may only be landed north of Pt. Chehalis and may not be possessed or landed south of Pt. Chehalis.

* * * * *

19. Revise Table 2 (North) to part 660, subpart E, to read as follows:

Non-Trawl Rockfish Conservation Areas and Trip Limits for Limited Entry Fixed Gear North of 40°10′ N Lat.

BILLING CODE 3510-22-P

* * * * *

20. Review Table 2 (South) to part 660, subpart E, to read as follows:

* * * * *

22. In § 660.330, add paragraphs (b)(3) and (d)(12)(v), and revise paragraphs (c)(2)(i) through (iii) to read as follows:

§ 660.330 Open access fishery—management measures.

* * * * *

(b) * * *

(3) Non-trawl RCA gear. Inside the non-trawl RCA, only legal non-bottom contact hook-and-line gear configurations may be used for target fishing for groundfish by vessels that participate in the directed open access sector as defined at § 660.11. Legal non-bottom contact hook-and-line gear means stationary vertical jig gear attached to the vessel and not anchored to the bottom, and groundfish troll gear, subject to the specifications below.

(i) Stationary vertical jig gear. The following requirements apply to stationary vertical jig gear:

(A) Must be a minimum of 50 feet between the bottom weight and the lowest fishing hook;

(B) No more than 4 vertical mainlines may be used in the water at one time with no more than 25 hooks on each mainline;

(C) No more than 100 hooks may be in the water at one time, with no more than 25 extra hooks on board the vessel; and

(D) Natural bait or weighted hooks may not be used nor be on board the vessel. Artificial lures and flies are permitted.

(ii) Groundfish troll gear. The following requirements apply to groundfish troll gear:

(A) Must be a minimum of 50 feet between the bottom weight and the troll wire's connection to the horizontal mainline;

(B) No more than 1 mainline may be used in the water at one time;

(C) No more than 500 hooks may be in the water at one time, with no more than 25 extra hooks on board the vessel;

(D) Hooks must be spaced apart by a visible maker (e.g., floats, line wraps, colored line splices), with no more than 25 hooks between each marker and no more than 20 markers on the mainline; and

(E) Natural bait or weighted hooks may not be used nor be on board the vessel. Artificial lures and flies are permitted.

* * * * *

(c) * * *

(2) * * *

(i) Coastwide—arrowtooth flounder, big skate, black rockfish, blue/deacon rockfish, canary rockfish, darkblotched rockfish, Dover sole, English sole, lingcod, longnose skate, longspine thornyhead, minor nearshore rockfish, minor shelf rockfish, minor slope rockfish, other fish, other flatfish, Pacific cod, Pacific sanddabs, Pacific whiting, petrale sole, shortbelly rockfish, shortraker rockfish, rougheye/blackspotted rockfish, sablefish, shortspine thornyhead, spiny dogfish, starry flounder, widow rockfish, and yelloweye rockfish;

(ii) North of 40°10′ N lat.—cabezon (California), copper rockfish (California), Oregon cabezon/kelp greenling complex, POP, quillback rockfish (California), Washington cabezon/kelp greenling complex, yellowtail rockfish; and

(iii) South of 40°10′ N lat.—blackgill rockfish, bocaccio, bronzespotted rockfish, cabezon, chilipepper rockfish, copper rockfish, cowcod, minor shallow nearshore rockfish, minor deeper nearshore rockfish, quillback rockfish, splitnose rockfish, and vermilion rockfish.

(d) * * *

(12) * * *

(v) Target fishing for groundfish off Oregon and California (between 46°16′ N. lat. and the U.S./Mexico border) is allowed within the non-trawl RCA for vessels participating in the directed open access sector as defined at § 660.11, subject to the gear restrictions at § 660.330(b)(3)(i-ii), and provided a valid declaration report as required at § 660.13(d) has been filed with NMFS OLE.

* * * * *

23. Revise Table 3 (North) to part 660, subpart F, to read as follows:

Table 3 (North) to Part 660, Subpart F—Non-Trawl Rockfish Conservation Areas and Trip Limits for Open Access Gears North of 40°10′ N Lat.

* * * * *

24. Revise Table 3 (South) to part 660, subpart F, to read as follows:

Table 3 (South) to Part 660, Subpart F—Non-Trawl Rockfish Conservation Areas and Trip Limits for Open Access Gears South of 40°10′ N Lat.

* * * * *

25. Amend § 660.360 by:

a. Adding paragraph (c)(3)(iv)(A) through (D);

b. Revising Table 1 to paragraph (c)(1)(i)(D), paragraphs (c)(1)(ii), (c)(2)(i)(B), (c)(2)(iii)(D), (c)(3) introductory text, (c)(3)(i)(A), (c)(3)(i)(B), (c)(3)(ii), (c)(3)(ii)(A)(1) through (5), (c)(3)(iii)(A)(1) through (5), (c)(3)(iv), and (c)(3)(v)(A).

The additions and revisions read as follows:

§ 660.360 Recreational fishery—management measures.

* * * * *

(c) * * *

(1) * * *

(i) * * *

(D) * * *

(ii) Rockfish. In areas of the EEZ seaward of Washington (Washington Marine Areas 1-4) that are open to recreational groundfish fishing, there is a 7 rockfish per day bag limit. Taking and retaining yelloweye rockfish is prohibited in all Marine Areas. Taking and retaining copper rockfish, quillback rockfish, and vermilion rockfish is prohibited in all Marine Areas during May, June and July.

* * * * *

(2) * * *

(i) * * *

(B) Recreational rockfish conservation area (RCA). Fishing for groundfish with recreational gear is prohibited within the recreational RCA, a type of closed area or groundfish conservation area, except with long-leader gear (as defined at § 660.351). It is unlawful to take and retain, possess, or land groundfish taken with recreational gear within the recreational RCA, except with long-leader gear (as defined at § 660.351). A vessel fishing in the recreational RCA may not be in possession of any groundfish unless otherwise stated. [For example, if a vessel fishes in the recreational salmon fishery within the recreational RCA, the vessel cannot be in possession of groundfish while within the recreational RCA. The vessel may, however, on the same trip fish for and retain groundfish shoreward of the recreational RCA on the return trip to port.] Off Oregon, from January 1 through December 31, recreational fishing for groundfish is allowed in all depths. Coordinates approximating boundary lines at the 10-fm (18-m) through 100-fm (183-m) depth contours can be found at § 660.71 through § 660.73.

* * * * *

(iii) * * *

(D) In the Pacific halibut fisheries. Retention of groundfish is governed in part by annual management measures for Pacific halibut fisheries, which are published in the Federal Register. Between the Columbia River and Humbug Mountain, during days open to the “all-depth” sport halibut fisheries, when Pacific halibut are onboard the vessel, no groundfish, except sablefish, Pacific cod, and other species of flatfish (sole, flounder, sanddab), may be taken and retained, possessed or landed, except with long-leader gear (as defined at § 660.351). “All-depth” season days are established in the annual management measures for Pacific halibut fisheries, which are published in the Federal Register and are announced on the NMFS Pacific halibut hotline, 1-800-662-9825.

BILLING CODE 3510-22-C

* * * * *

(3) California. Seaward of California, for groundfish species not specifically mentioned in this paragraph, fishers are subject to the overall 20-fish bag limit for all species of finfish, of which no more than 10 fish of any one species may be taken or possessed by any one person. Petrale sole, Pacific sanddab, and starry flounder are not subject to a bag limit. Recreational spearfishing for all federally-managed groundfish, is exempt from closed areas and seasons, consistent with Title 14 of the California Code of Regulations. This exemption applies only to recreational vessels and divers provided no other fishing gear, except spearfishing gear, is on board the vessel. California state law may provide regulations similar to Federal regulations for kelp greenlings. Retention of cowcod, yelloweye rockfish, and bronzespotted rockfish, is prohibited in the recreational fishery seaward of California all year in all areas. Retention of species or species groups for which the season is closed is prohibited in the recreational fishery seaward of California all year in all areas, unless otherwise authorized in this section. For each person engaged in recreational fishing in the EEZ seaward of California, the following closed areas, seasons, bag limits, and size limits apply:

(i) * * *

(A) Recreational rockfish conservation areas. The recreational RCAs are areas that are closed to recreational fishing for certain groundfish. Fishing for the California rockfish, cabezon, greenling complex (RCG Complex), as defined in § 660.360(c)(3)(ii), and lingcod with recreational gear is prohibited within the recreational RCA. It is unlawful to take and retain, possess, or land the RCG Complex and lingcod taken with recreational gear within the recreational RCA, unless otherwise authorized in this section. A vessel fishing in the recreational RCA may not be in possession of any species prohibited by the restrictions that apply within the recreational RCA. For example, if a vessel fishes in the recreational salmon fishery within the recreational RCA, the vessel cannot be in possession of the RCG Complex and lingcod while in the recreational RCA. The vessel may, however, on the same trip fish for and retain rockfish shoreward of the recreational RCA on the return trip to port. If the season is closed for a species or species group, fishing for that species or species group is prohibited both within the recreational RCA and outside of the recreational RCA, unless otherwise authorized in this section. In times and areas where a recreational RCA is closed shoreward of a recreational RCA line (i.e., when an “off-shore only” fishery is active in that management area) possession or retention of nearshore rockfish (defined as black rockfish, blue rockfish, black and yellow rockfish, brown rockfish, China rockfish, copper rockfish, calico rockfish, gopher rockfish, kelp rockfish, grass rockfish, olive rockfish, quillback rockfish, and treefish), cabezon, and greenlings is prohibited in all depths throughout the area; and possession and retention of all rockfish, cabezon, greenlings, and lingcod is prohibited shoreward of the recreational RCA boundary line, except that vessels may transit through waters shoreward of the recreational RCA line with no fishing gear in the water. Coordinates approximating boundary lines at the 30 fm (55 m) through 100 fm (183 m) depth contours can be found at § 660.71 through § 660.73. The recreational fishing season structure and RCA depth boundaries seaward of California by management area and month are as follows:

(1) Between 42° N lat. (California/Oregon border) and 40°10′ N lat. (Northern Management Area), recreational fishing for the RCG Complex and lingcod is closed from January 1 through May 14, is open at all depths from May 15 through October 15, and is closed October 16 through December 31.

(2) Between 40°10′ N lat. and 38°57.50′ N lat. (Mendocino Management Area), recreational fishing for the RCG Complex and lingcod is closed from January 1 through May 14; prohibited in the EEZ shoreward of the boundary line approximating the 50 fm (91 m) depth contour along the mainland coast and along islands and offshore seamounts from May 15 through July 15 (seaward of 50 fm is open), and is open at all depths from July 16 through December 31.

(3) Between 38°57.50′ N lat. and 37°11′ N lat. (San Francisco Management Area), recreational fishing for the RCG Complex and lingcod s closed from January 1 through May 14; is prohibited in the EEZ shoreward of the boundary line approximating the 50 fm (91 m) depth contour along the mainland coast and along islands and offshore seamounts from May 15 through July 15 (seaward of 50 fm is open), and is open at all depths from July 16 through December 31. Closures around Cordell Bank (see paragraph (c)(3)(i)(C) of this section) also apply in this area.

(4) Between 37°11′ N lat. and 34°27′ N lat. (Central Management Area), recreational fishing for the RCG Complex and lingcod is closed from January 1 through April 30, is open at all depths from May 1 through September 30; and is prohibited in the EEZ shoreward of a boundary line approximating the 50 fm (91 m) depth contour along the mainland coast and along islands and offshore seamounts from October 1 through December 31 (seaward of 50 fm is open).

(5) South of 34°27′ N lat. (Southern Management Area), recreational fishing for the RCG Complex and lingcod is closed from January 1 through March 31, open at all depths from April 1 through September 15; and is prohibited in the EEZ shoreward of a boundary line approximating the 50 fm (91 m) depth contour from September 16 through December 31 along the mainland coast and along islands and offshore seamounts (seaward of 50 fm is open), except in the CCAs where fishing is prohibited seaward of the 40 fm (73 m) depth contour when the fishing season is open (see paragraph (c)(3)(i)(B) of this section).

(B) Cowcod conservation areas. The latitude and longitude coordinates of the Cowcod Conservation Areas (CCAs) boundaries are specified at § 660.70. Recreational fishing for all groundfish is prohibited within the CCAs, except as specified in this paragraph. Fishing for California scorpionfish, petrale sole, starry flounder, and “Other Flatfish” is permitted within the CCAs as specified in paragraphs (c)(3)(iv) and (c)(3)(v) of this section. Recreational fishing for the following species is permitted shoreward of the boundary line approximating the 40 fm (37 m) depth contour when the season, as specified in paragraphs (c)(3)(ii)(A)(5) and (c)(3)(iii)(A)(5) of this section, for those species is open south of 34°27′ N lat.: Minor nearshore rockfish, cabezon, kelp greenling, lingcod, and shelf rockfish. Retention of all groundfish except California scorpionfish, petrale sole, starry flounder, and “Other Flatfish”, is prohibited within the CCA. Coordinates for the boundary line approximating the 40 fm (73 m) depth contour are listed in § 660.71. It is unlawful to take and retain, possess, or land groundfish taken within the CCAs, except for species authorized in this section.

* * * * *

(ii) RCG complex. The California rockfish, cabezon, greenling complex (RCG Complex) includes all rockfish, kelp greenling, rock greenling, and cabezon. This category does not include California scorpionfish, also known as “sculpin”.

(A) * * *

(1) Between 42° N lat. (California/Oregon border) and 40°10′ N lat. (North Management Area), recreational fishing for the RCG complex is open from May 15 through October 15 (i.e., recreational fishing for the RCG complex is closed from January 1 through May 14, and October 16 through December 31).

(2) Between 40°10′ N lat. and 38°57.50′ N lat. (Mendocino Management Area), recreational fishing for the RCG Complex is open from May 15 through December 31 (i.e., recreational fishing for the RCG complex is closed from January 1 through May 14).

(3) Between 38°57.50′ N lat. and 37°11′ N lat. (San Francisco Management Area), recreational fishing for the RCG complex is open from May 15 through December 31 (i.e., recreational fishing for the RCG complex is closed from January 1 through May 14).

(4) Between 37°11′ N lat. and 34°27′ N lat. (Central Management Area), recreational fishing for the RCG complex is open from May 1 through December 31 (i.e., recreational fishing for the RCG complex is closed from January 1 through April 30).

(5) South of 34°27′ N lat. (Southern Management Area), recreational fishing for the RCG Complex is open from April 1 through December 31 (i.e., recreational fishing for the RCG complex is closed from January 1 through the March 31).

* * * * *

(iii) * * *

(A) * * *

(1) Between 42° N lat. (California/Oregon border) and 40°10′ N lat. (Northern Management Area), recreational fishing for lingcod is open from May 15 through October 15 (i.e., recreational fishing for lingcod is closed from January 1 through May 14, and October 16 through December 31).

(2) Between 40°10′ N lat. and 38°57.50′ N lat. (Mendocino Management Area), recreational fishing for lingcod is open from May 15 through December 31 (i.e., recreational fishing for lingcod is closed from January 1 through May 14).

(3) Between 38°57.50′ N lat. and 37°11′ N lat. (San Francisco Management Area), recreational fishing for lingcod is open from May 15 through December 31 (i.e., recreational fishing for lingcod is closed from January 1 through May 14).

(4) Between 37°11′ N lat. and 34°27′ N lat. (Central Management Area), recreational fishing for lingcod is open from May 1 through December 31 (i.e., recreational fishing for lingcod is closed from January 1 through April 30).

(5) South of 34°27′ N lat. (Southern Management Area), recreational fishing for lingcod is open from April 1 through December 31 (i.e., recreational fishing for lingcod is closed from January 1 through March 31)

* * * * *

(iv) “Other Flatfish,” petrale sole, and starry flounder. “Other Flatfish” are defined at § 660.11, and include butter sole, curlfin sole, flathead sole, Pacific sanddab, rex sole, rock sole, and sand sole.

(A) Seasons. Recreational fishing for “Other Flatfish,” petrale sole, and starry flounder is open from January 1 through December 31. When recreational fishing for “Other Flatfish,” petrale sole, and starry flounder is open, it is permitted both outside and within the recreational RCAs described in paragraph (c)(3)(i) of this section and the CCAs described in paragraph (c)(3)(i)(B) of this section.

(B) Bag limits, hook limits. In times and areas where the recreational season for “Other Flatfish,” petrale sole, and starry flounder is open, “Other Flatfish” are subject to the overall 20-fish bag limit for all species of finfish, of which there may be no more than 10 fish of any one species; there is no daily bag limit for petrale sole, starry flounder and Pacific sanddab.

(C) Size limits. There are no size limits for “Other Flatfish,” petrale sole, and starry flounder.

(D) Dressing/Filleting. “Other Flatfish,” petrale sole, and starry flounder may be filleted at sea. Fillets may be of any size, but must bear intact a one-inch (2.6 cm) square patch of skin.

(v) * * *

(A) Seasons. When recreational fishing for California scorpionfish is open, it is permitted both outside of and within the recreational RCAs described in paragraph (c)(3)(i) of this section. Recreational fishing for California scorpionfish is open from January 1 through December 31.

* * * * *

[FR Doc. 2022-20430 Filed 10-13-22; 8:45 am]

BILLING CODE 3510-22-P